DEPARTMENT OF AGRICULTURE

Forest Service

36 CFR Part 219

RIN 0596-AC94

National Forest System Land Management Planning

AGENCY: Forest Service, USDA.

ACTION: Notice of proposed rulemaking; request for comment.

SUMMARY: The U.S. Department of Agriculture is proposing a new planning rule to guide land and resource management planning for all units of the National Forest System (NFS) under the National Forest Management Act of 1976. The proposed rule sets forth process and content requirements to guide the development, amendment, and revision of land management plans to maintain, protect, and restore NFS lands while providing for sustainable multiple uses, including ecosystem services, so that NFS lands continuously provide ecosystem functions and contribute to social and economic sustainability. Planning under the proposed rule would be collaborative and science-based with the responsible official required to take the best available scientific information into account and provide opportunities for public participation throughout the planning process.

The proposed framework consists of a three-part learning and planning cycle: Assessment, development/revision/amendment, and monitoring. The phases of the framework are complementary and are intended to create a feedback loop that allows the Forest Service to adapt management to changing conditions and to improve plans based on new information and monitoring. This framework is intended to move the Agency toward a more responsive planning process that allows the Agency to understand the landscape-scale context for management, adapt management to changing conditions, improve management based on new information and monitoring, and support an integrated and holistic approach to management that recognizes the interdependence of social, ecological, and economic systems.

The Agency is requesting public comment on the proposed rule and on the alternatives that are described and evaluated in the accompanying draft environmental impact statement (DEIS). Readers are invited to comment on each section of the proposed rule and on how provisions in the DEIS alternatives compare with the proposed rule. The Agency will carefully consider all public comments in preparing the final rule.

DATES: Comments must be received in writing by May 16, 2011. The Agency will consider and place comments received after this date in the record only if practicable. Public meetings to discuss the proposed rule and draft environmental impact statement will be held throughout the country during the public comment period. A schedule of meeting dates and further information is available on the planning rule Web site at http://www.fs.usda.gov/planningrule.

ADDRESSES: Submit comments through the public participation portal at http://www.govcomments.com/. Alternatively, submit comments by addressing them to Forest Service Planning DEIS, c/o Bear West Company, 132 E 500 S, Bountiful, UT 84010; or via facsimile to 801-397-1605. Please identify your written comments by including “planning rule” on the cover sheet or the first page. Alternatively, submit comments through the World Wide Web/Internet Web site http://www.regulations.gov. All comments, including names and addresses, when provided, are placed in the record and are available for public inspection and copying. The public may inspect comments at http://contentanalysisgroup.com/fsrd/.

FOR FURTHER INFORMATION CONTACT: Ecosystem Management Coordination staff's Assistant Director for Planning Ric Rine at 202-205-1022 or Planning Specialist Regis Terney at 202-205-1552.

SUPPLEMENTARY INFORMATION:

1. Additional Documents Are Available

The following information is available online at http://www.fs.usda.gov/planningrule: (1) This proposed rule; (2) a draft environmental impact statement (DEIS) analyzing the effects of the proposed rule and alternatives to it; (3) the Civil Rights Impact Analysis for this proposed rule; (4) the cost-benefit analysis for this proposed rule; (5) summaries of the numerous roundtables and public meetings held to date to engage the public in the development of the proposed rule, and summaries of the input received thus far from comments to the Notice of Intent and the public meetings; and (6) the Forest Service directives on land management planning developed for the 1982 planning procedures, which may currently be used under the transition language of the 2000 rule. This information may also be obtained upon written request from the Director, Ecosystem Management Coordination Staff, Forest Service, USDA, Mail Stop 1104, 1400 Independence Avenue, SW., Washington, DC 20250-1104. The final rule and environmental impact statement, when completed, will also be available on the above Web site.

2. Overview

A new Agency planning rule is proposed to guide land managers in developing, amending, and revising land management plans for all units of the National Forest System (NFS), consisting of 155 national forests, 20 grasslands and 1 prairie. The new planning rule must be responsive to the challenges of climate change; the need for forest restoration and conservation, watershed protection, and wildlife conservation; and the need for the sustainable provision of benefits, services, resources, and uses of NFS lands, including ecosystem services and sustainable recreation. It must provide a process for planning that is adaptive, science-based, and collaborative with ample opportunities for active and effective public participation. The new planning rule must be clear, efficient, effective, and within the Agency's capability to implement on all NFS units. It must meet requirements under the National Forest Management Act (NFMA), as well as allow the Agency to meet its obligations under the Multiple-Use Sustained-Yield Act (MUSYA), the Endangered Species Act, and the Wilderness Act, as well as other legal requirements. With stability in planning regulations, national land management planning can regain momentum, and units would be able to complete timely revisions that guide sustainable management of NFS lands.

The vision for the proposed rule.

The Forest Service mission is to sustain the health, diversity, and productivity of the Nation's forests and grasslands to meet the needs of present and future generations. The NFS consists of 193 million acres of national forests and grasslands. Land management plans provide a framework for integrated resource management on NFS units, and guide project and activity decisionmaking on the unit. The Forest Service planning rule serves as the primary tool to ensure that land management plans continuously provide desired ecosystem functions, contribute to social and economic sustainability, are rooted in the best available scientific information, and are developed with public input and participation.

The objective of this proposed rule is to guide the collaborative and science-based development, amendment, and revision of land management plans that promote healthy, resilient, diverse, and productive national forests and grasslands. The Agency's goal is to create a planning framework that will guide management of NFS lands so they are ecologically sustainable and contribute to social and economic sustainability, with resilient ecosystems and watersheds, diverse plant and animal communities, and the capacity to provide people and communities with a range of social, economic, and ecological benefits now and for future generations. This planning framework will help the Agency to provide clean water, habitat for diverse fish, wildlife, and plant communities, and opportunities for recreational, spiritual, educational, and cultural sustenance.

The rule proposes a framework for adaptive management and planning and reflects key themes from the public, as well as experience gained through the Agency's 30-year history with land management planning. The framework is intended to move the Agency toward a more adaptive system with more frequent amendments that can keep plans current between revisions. Plans will be revised at least every 15 years. However, under the proposed rule, the Agency expects plan amendments to be done more frequently than they are now. For example, as budgets and conditions on-the-ground change, the plan objectives may be amended every 3 to 5 years. Alternatively, if new information is learned about a threatened and endangered species, plan standards and guidelines may be updated more often. Some plans may even be amended annually to reflect up-to-date information.

The proposed framework consists of a three-part learning and planning cycle: (1) Assessment, (2) development/revision/amendment, and (3) monitoring. The phases of the framework are complementary and are intended to create a feedback loop that allows the Forest Service to adapt management to changing conditions and to improve plans based on new information and monitoring.

Throughout implementation of the cycle, the Forest Service would:

(1) Assess conditions, stressors, and opportunities on the NFS unit within the context of the broader landscape and identify any need for changes to a plan;

(2) Develop, Revise, or Amend land management plans based on the need for change in the plan; and

(3) Monitor to detect changes on the unit and across the broader landscape, to test assumptions underlying management decisions, and to measure the effectiveness of management activity in achieving desired outcomes.

The proposed rule would strengthen the role of public involvement in the planning process and provide numerous opportunities for meaningful public participation and dialogue. The proposed rule would require that the best available scientific information be taken into account and documented. The planning process would take into account other forms of knowledge, such as local information, national perspectives, and native knowledge. Ideas, resources, and knowledge should be shared with all interests, individuals, and groups throughout the planning process.

The planning process also builds an understanding of the landscape-scale context for unit-level management. Assessments, in particular, are designed to create an understanding of conditions, trends, and stressors on-and-off NFS lands in order to guide the development of plans to manage resources on the unit. The proposed rule has requirements in each phase for working with the public, partners, landowners, other government agencies, and Tribes and would require the responsible official to identify each unit's unique roles and contributions to the local area, region, and Nation.

The proposed rule would include requirements for plan components. In the face of changing environmental conditions such as climate change, plans would include plan components to maintain or restore ecosystem and watershed health and resilience; protect key ecosystem elements, including water resources on the unit; and provide for plant and animal diversity. In doing so, responsible officials would take into account the various stressors or impacts that could affect the presence of ecological resources and their functions on the unit.

Plans would also include plan components to contribute to social and economic sustainability. The proposed rule emphasizes integrated resource management so that all the relevant interdependent elements of sustainability are considered as a whole, instead of as separate resources or uses. Planning would consider the full suite of multiple uses, including ecosystem services, energy, minerals, outdoor recreation, range, timber, watershed, wildlife and fish, and wilderness, to the extent relevant to the plan area. Plan components would be required to provide for multiple uses, including sustainable recreation and ecosystem services, and protect cultural and historic resources and specially designated areas (such as wilderness areas and wild and scenic rivers). Plans would also guide the management of timber harvest, as required by the NFMA.

The proposed rule would create a two-tiered strategy for monitoring at the unit level and at a broader scale. Monitoring would be a central part of both content of plans and the planning process, allowing responsible officials to test assumptions, track changing conditions, measure management implementation and effectiveness in achieving desired outcomes, and feed new information back into the planning cycle so that plans and management can be changed as needed.

Finally, the proposed rule would create a pre-decisional administrative review process to provide individuals and groups with an opportunity to resolve issues before the approval of a plan, plan amendment, or plan revision.

The History of Forest Planning and the Need for a New Planning Rule

The NFMA at 16 U.S.C. 1604 requires the Agency to have a planning rule developed “under the principles of the Multiple-Use Sustained-Yield Act of 1960, that set[s] out the process for the development and revision of the land management plans, and the guidelines and standards” (16 U.S.C. 1604 (g)). This requirement is fulfilled through a planning rule, set out at Title 36, Code of Federal Regulations, Part 219 (36 CFR Part 219), which sets requirements for land management planning and content of plans.

In 1979, the Department issued the first regulations to comply with this statutory requirement. The 1979 regulations were superseded by the 1982 planning rule, which has formed the basis for all existing Forest Service land management plans.

In 1989, the Agency initiated a comprehensive Critique of Land Management Planning, which identified a number of adjustments that were needed to the 1982 planning rule. The Critique found that the 1982 planning rule process was complex, had significant costs, was lengthy, and was cumbersome for the public to provide input. The recommendations in the Critique and the Agency's experiences with planning led to the Agency issuing an advance notice of proposed rulemaking for new regulations in 1991 and two proposed rules in 1995 and 1999.

After working with a committee of scientists, the Department issued a final rule in 2000 to revise the 1982 regulations. The 2000 revision of the planning rule described a new framework for NFS planning; made sustainability the foundation for NFS planning and management; required the consideration of the best available scientific information during the planning process; and set forth requirements for implementation, monitoring, evaluation, amendment, and revision of land management plans. However, a review in the spring of 2001 found that the 2000 rule was costly, complex, and procedurally burdensome. The results of the review led the Department to issue a new planning rule in 2005 and a revised version again in 2008, but each of those rules was held invalid by a Federal District Court on procedural grounds (Citizens for Better Forestry v. USDA, 481 F. Supp.2d 1059 (N.D. Cal. 2007) (2005 rule); Citizens for Better Forestry v. USDA, 632 F. Supp.2d 968 (N.D. Cal. 2009) (2008 rule)).

Though committees of scientists were created for the 1979 rule and 2000 rule, a formal committee of scientists was not formed for this planning rule for several reasons. The Agency believes a collaborative approach, involving as many interests as possible, including the scientific community, is best for developing the planning rule. Science is one source of understanding and knowledge that informs planning and decision-making. Much of planning also involves consideration of public values in land management. This proposed rule is very much a science-based rule and establishes a strong requirement for consideration and use of best available scientific information in planning. The proposed rule is based on some of the major recommendations from the 1999 Committee of Scientists report: Sustainability, public participation and collaboration, adaptive management, monitoring and evaluation, the role of science, and the objection process; all concepts that were recommendations of that report. In addition, the Agency has reached out to the science community in developing this proposed rule. An open, public meeting of invited scientists occurred in Washington, DC, March 29-30, 2010, to create a dialogue about the latest science relevant to the planning rule. Additionally, scientists have been involved in the development and review of the proposed rule from the beginning and will continue to be involved throughout the rule making process.

Because it was the last promulgated rule to take effect and not to have been set aside by a court, the planning rule issued in 2000 legally governs the development, amendment, or revision of plans until a new planning rule is issued. On December 18, 2009, the Department reinstated the 2000 rule in the Code of Federal Regulations as an interim measure and made technical amendments to update transition provisions to be in effect until a new planning rule is issued (74 FR 67062). While the 2000 planning rule replaced the 1982 rule in the Code of Federal Regulations, the transition section of the 2000 rule allows units to use the 1982 planning rule procedures for plan revisions and amendments until a new planning rule is issued. The Agency's expectation, based on experience, is that those NFS units choosing to amend or revise plans during the development of this new rule will continue to use the 1982 rule procedures until the new planning rule is issued.

The 1982 planning rule procedures have guided the development, amendment, and revision of all existing Forest Service land management plans. However, since 1982 much has changed in our understanding of how to create and implement effective land management plans. The body of science that informs land management planning in areas such as conservation biology and ecology has advanced considerably since 1982, as has our understanding of the values and benefits of NFS lands, and the challenges and stressors that may impact resources on the unit (including climate change).

Because planning under the 1982 rule is often time consuming and cumbersome, it has been a challenge for units to keep plans current. Instead of updating plans as conditions on the ground change, units often wait and make changes all at once during the required revision process every 15 years. This can result in a drawn-out, difficult, and costly revision process. Plans in the interim lose much of their utility because they no longer reflect the reality on the ground. The focus of land management activity has also changed. Much of the 1982 rule focused on creating plans that would mitigate negative environmental impacts from resource extraction activities. The protective measures in the 1982 rule were important, but now the Agency needs plans that do more than mitigate harm. The Agency needs a planning process that helps units identify their unique roles in the broader landscape and create land management plans to guide proactive contributions of the unit and of management to ecological, social, and economic sustainability.

The instability created by the history of the planning rule has had a significant negative impact on the Agency's ability to manage the NFS and on its relationship with the public. At the same time, the vastly different context for management and improved understanding of science and sustainability that has evolved over the past three decades creates an urgent need for a planning framework that allows the Agency to respond to new challenges and management objectives for NFS lands. The NFMA requires that the Agency revise land management plans “at least every 15 years.” The NFS has 127 land management plans. Currently, 68 plans are past due for plan revision. Most plans were developed between 1983 and 1993 and should have been revised between 1998 and 2008. The Agency must establish a stable planning rule that is consistent with the current science and creates a planning process that can incorporate new knowledge as science continues to evolve, allowing the Agency to protect, reconnect, and restore national forests and grasslands for the benefit of human communities and natural resources.

What the Agency Heard

The Agency strongly believes that involving the public through a participatory, open, and meaningful process is the best way to develop this planning rule. This belief has, and continues to be, reflected in the unprecedented participatory process created to develop this proposed rule. The Agency is working to make the process accessible through the use of updated methods of involvement such as new media and has engaged in efforts to involve diverse groups and interests.

The development of this proposed rule has been informed by the 26,000 comments made on the Notice of Intent (NOI); a Science Forum with panel discussions from 21 scientists; regional and national roundtables held in over 35 locations and attended by over 3,000 people; national and regional tribal roundtables; feedback from Forest Service employees; and over 300 comments on the planning rule blog. Summary reports of this input are available at: http://fs.usda.gov/planningrule. A separate summary of the tribal consultation and participation and of how the proposed rule reflects tribal input is in a special section of this preamble called “Consultation with Indian tribal governments.”

The participatory process to develop this proposed rule began with a new approach to the NOI. While an NOI typically involves sending out a detailed proposed action for comment, the Agency wanted to involve the public in crafting the proposed rule from its very beginning. The December 2009 NOI for the proposed planning rule therefore asked for public feedback on a set of eight principles that could be used to guide future land management planning. The notice resulted in a broad discussion of what should be in a proposed rule and led to a robust dialogue with the public over the course of the national, tribal, regional, and Web-based public meetings. This discussion has allowed the Agency to craft a proposed rule that more fully responds to public comments and concerns.

While input from the public, Tribes, and agency employees covered a broad range of opinion, there were areas of consistent shared support. Broad support exists for a simple but effective planning process; a planning rule designed to persist through changing times; up-front collaboration in developing proposals for plan revisions; creating plans that focus on NFS units, but also reflect consideration of the landscape beyond unit boundaries; and a strong monitoring plan component that improves accountability and encourages a mutual learning process with cooperators and partners. Additional themes that arose during public participation included the importance of public involvement and working with Tribes, the importance of working with State and local governments and other Federal agencies in land management planning; the importance of providing for sustainable recreation; the importance of creating a rule that meets the multiple use mandate of MUSYA; and the need for an efficient plan amendment and revision process that can keep pace with changing conditions.

There were also broad areas of disagreement that emerged from the collaborative process. One point of tension was how to balance the need for national consistency with the need for local flexibility. Some people want a rule that is streamlined and only includes direction on meeting the minimum requirements of the NFMA, so that local units have more flexibility in how their plan is developed and in what it needs to contain. At the other end of the spectrum, others want a rule that is highly prescriptive and includes detailed national standards and processes.

Another major area of disagreement was how the planning process should consider and balance the multiple uses of the NFS, as well as local versus national and regional interests. Many people asked for a rule that emphasizes one resource area over another or prioritizes the needs of local communities over the needs and desires of people who live further from NFS lands. Others asked for a rule that requires plans to include direction for only restoration and preservation of ecological conditions, while others sought a rule that provides for and emphasizes a full array of multiple uses that contribute to social and economic opportunities.

While no rule can satisfy the entire spectrum of opinion, the Forest Service has worked to find a balance between these different needs and perspectives and has developed a proposed rule that is practical, workable, based on science, and reflective of public and agency values and input. The Agency is now eager to receive public feedback. Readers should carefully examine and consider the information in this preamble and proposed rule, as well as each of the alternatives that are described and evaluated in the accompanying draft environmental impact statement (DEIS). In particular, Alternatives D and E explore substitute or additional rule language that reflects comments received by the Agency during the public engagement process and the comment period for the notice of intent. Suggestions explored and analyzed in these alternatives include different approaches to rule text on management of water resources and watersheds, collaboration, climate change adaption and mitigation, monitoring, and planning for services that connect people to the unit, like conservation education and volunteer opportunities. Based on the public's continued feedback, the Agency will consider substituting or adding specific provisions on these subjects for inclusion in the final rule.

The Agency invites comments on each section of the proposed rule and on how provisions in the DEIS alternatives compare with the proposed rule. The Agency will carefully consider all public comments in preparing the final rule.

3. Section-by-Section Explanation of the Proposed Rule

The following section-by-section descriptions are provided to explain the approach taken in the proposed rule to NFS land management planning. The proposed rule would create an adaptive framework based on science and public participation to guide unit-level land management planning for the NFS with a focus on integrated management of all forest resources. The overarching objective of this proposed rule is to move all NFS units toward social, economic, and ecological sustainability.

Subpart A—National Forest System Land Management Planning

Section 219.1 Purpose and Applicability

This section states that the purpose of Subpart A is to set out the planning requirements for developing, amending, and revising land management plans for the NFS in a national planning rule. The NFMA requires the Agency to have a planning rule developed under the principles of the Multiple-Use Sustained-Yield Act of 1960 (MUSYA). The planning rule sets requirements for land management planning and content of plans and applies to all units in the NFS.

The proposed planning rule is designed to guide the collaborative and science-based development, amendment, and revision of land management plans that would promote healthy, resilient, diverse, and productive national forests and grasslands. These plans would guide management of NFS lands so that they are ecologically sustainable and contribute to social and economic sustainability. Plans would guide management to maintain and restore resilient ecosystems and watersheds and diverse plant and animal communities. Plans would also guide management to provide people and communities with a range of social, economic, and ecological benefits for the present and into the future, including clean water; habitat for fish, wildlife, and plant communities; and opportunities for recreational, spiritual, educational, and cultural sustenance.

The proposed rule is designed to create a collaborative and science-based planning process so that plans and their amendments reflect public values and the best available scientific information. It is intended to ensure that managers understand the role and contribution of their units and the context for management within the broader landscape. It is also designed to facilitate adaptation, creating a feedback loop to allow responsible officials to respond to new information and changing conditions.

Comments from and discussions with the public as part of this rule-making effort revealed growing concern about a variety of risks and stressors impacting resources, services, benefits, and uses on NFS lands. Issues included, for example: Climate change; insects and disease; recreation, timber, and shifts in other local demands and national market trends; population growth and other demographic shifts; water supply protection; and other ecosystem support services. Addressing these types of issues, risks, and contingencies requires a larger landscape perspective, information from a broader spectrum of sources and users, and a framework that can facilitate adaptation.

Questions about multiple use and ecosystem services came up in the collaborative process for the rule. Multiple use management is well established in law, policy and the Agency mission. “Ecosystem services” is a term that is used today to describe many consumptive and non-consumptive uses, as well as traditional and non-traditional uses, that people associate with national forests. In the proposed rule we use the phrase “multiple uses, including ecosystem services” in certain places to show an association between the terms so both are recognized in the rule and within our statutory authority as part of land management planning. The management of the multiple uses described by the MUSYA of 1960 (outdoor recreation, range, timber, watershed, and wildlife and fish purposes) has broader application in today's context.

The new requirements in the proposed rule should increase agency and unit capacity for adapting management plans to new and evolving information about risks, stressors, changing conditions, and management effectiveness. Agency intent is for responsible officials to use the proposed planning framework to keep plans and management activity current, relevant, and effective.

This section of the proposed rule also would require the Chief of the Forest Service to establish procedures for planning in the Forest Service Directives System that provide further explanation of the methods to implement the requirements of the rule. The Forest Service Directives System is designed to contain implementation requirements and protocols that are more detailed than the rule and provide guidance and direction on how to implement the rule. Directives can be updated as protocols and methods evolve and improve over time.

Some people wanted to see very detailed requirements in the rule, such as monitoring methods and protocols, while others emphasized the need to keep the rule simple so it would endure and could be implemented across different landscapes within the NFS. This section would ensure that the Agency would establish the needed detail in the Directives for effective implementation of the planning rule, while allowing rule language to remain strategic, relevant, and useful even as conditions change.

Finally, this section makes clear that the proposed rule would not affect treaty rights or valid existing rights, and that plans must comply with all applicable laws and regulations. It also includes direction for how responsible officials must treat certain information that is culturally sensitive to an Indian Tribe or Tribes.

Section 219.2 Levels of Planning and Responsible Official

Levels of Planning

Planning occurs at three levels—national strategic planning, NFS unit planning, and project or activity planning. Section 219.2 of the proposed rule describes these levels of agency planning and identifies specific attributes and requirements for unit-level planning. The first level is national strategic planning. At the second level of planning, land management plans are established for administrative units of the NFS (typically an individual forest, grassland, or prairie although in some instances, a plan will cover more than one forest or grassland). Land management plans (also called forest plans, or grassland plans), establish requirements and constraints for on-the-ground management decisions; they do not authorize projects or activities and do not commit the Forest Service to take any action. The proposed rule would provide guidance for this level of planning. The third level of planning includes development of on-the-ground projects and activities, which must be consistent with the unit's land management plan. The environmental effects of decisions made at the unit and project levels are analyzed and there are opportunities for public involvement at both levels.

Some members of the public suggested the Forest Service undertake two additional scales of planning, one at a regional scale between national and unit scales and another at a finer scale such as a ranger district or watershed. The 1982 rule required the preparation of a regional guide and a planning process for the development of that guide. The proposed rule does not include a requirement for regional planning. After several years of developing and using regional guides, the Agency found that they added an additional and time-consuming level of planning that often delayed progress of unit planning. Regional plans also tended to remain static and did not change as new information or science became available. Furthermore, most major issues that emerged regionally, such as issues regarding lynx or grizzly bears, were ultimately dealt with directly in the individual unit plans, usually through simultaneous amendment of multiple unit plans.

The proposed rule also does not include a requirement for finer scale planning (district or watershed scale) below the unit plan level. In many cases, units are building this kind of planning into the development of the management plan for the unit, with several of them using watersheds to organize planning. The proposed rule would allow for this to occur, and in § 219.7, would require identification of priority watersheds for restoration. However, on some units, watershed scale planning might not be appropriate or needed, such as on small NFS units or on units with highly intermixed ownerships. Some units that are influenced by disturbance regimes that are not defined by watershed boundaries may choose other ecological units on which to organize planning. This approach is intended to allow the responsible official to determine how planning on the unit is best organized based on the resources and desired conditions on the unit.

Responsible Official

The proposed rule identifies the unit supervisor as the responsible official for unit-level plans. This is a change from the 1982 rule, which identified the regional forester as the responsible official. This change is intended to facilitate and encourage active public participation by ensuring that the person sitting at the table during the planning process is the decisionmaker.

During public participation to develop the proposed rule, the Agency heard from members of the public who felt that empowering the supervisor with decisionmaking authority would strengthen the collaborative process, while others preferred the current assignment of authority to the regional forester because of concerns that the unit supervisor may be more inclined to place too much of an emphasis on local needs and concerns without being sufficiently responsive to national needs or issues of regional consistency. In the proposed rule, the Agency tried to create a balance by ensuring that planning would not happen in isolation. There are a number of places in the proposed rule that call for coordination with other staff in the Agency, including the appropriate research station director. The regional forester and regional office planning and resource specialists would continue to be involved by providing an additional level of oversight, including reviewing draft and final products developed during the planning process and participating in the development of those products. Regional office oversight would help to provide consistency in interpretation and implementation of the planning rule and other agency planning requirements on units within the region.

The proposed rule also specifically would allow the option for a higher-level official, such as a regional forester, to choose to serve as the responsible official. For example, a higher-level official could assume responsibility for decisionmaking when planning issues apply to multiple units.

Section 219.3 Role of Science in Planning

This section of the proposed rule addresses the role of science in planning and would require that the responsible official take into account the best available scientific information. This requirement would apply throughout the planning process. The intent of this requirement is to ensure that the responsible official has access to and considers the best available scientific information in order to make informed decisions when developing, revising, and amending land management plans; that social, economic, and ecological science would be appropriately interpreted and applied throughout the planning process; and that the best available scientific information would increase the understanding of risks and uncertainties and improve assumptions made in the course of decisionmaking.

This proposed rule emphasizes the use of science as an important source of information for decisionmaking with the intent that the best available scientific information be used to inform, but not dictate, decisions. The term “taking into account” is used because this term expresses that science is just one source of information for the responsible official and only one aspect of decisionmaking. Land management planning is complex and decisonmakers must consider such things as balancing competing values or competing ecological concerns. There also may be competing scientific perspectives or uncertainty in the science. While the appropriate interpretation and application of science provides the foundation for planning, the Agency recognizes that other forms of information, such as local and indigenous knowledge, public input, agency policies, results of monitoring and the experience of land managers must also be taken into account.

This proposed rule imposes a duty on the responsible official to review the available scientific information and determine which is the best, that is, the most accurate, reliable, and relevant information for the particular matter under consideration. The responsible official does not have unfettered discretion in making this determination, but must demonstrate and document how the determination was made.

In some circumstances, the best available scientific information would be that which is developed using the scientific method, which includes clearly stated questions, well designed investigations and logically analyzed results, documented clearly and subjected to peer review. However, in other circumstances the best available scientific information for the matter under consideration may be information from analyses of data obtained from a local area, or studies to address a specific question in one area. In other circumstances, the best available scientific information could be the result of expert opinion, panel consensus, or observations, as long as the responsible official has a reasonable basis for relying on that information. Regardless of the source of the information, the Office of Management and Budget (OMB) Information Quality Bulletin on Peer Review may apply.

The proposed rule would require the responsible official to document how the best available scientific information was taken into account in the assessment report, the plan decision document, and the monitoring evaluation reports. Through this requirement, the Agency seeks to ensure science is considered throughout the planning process and decisions are well-thought-out and reasoned. This requirement would also provide transparency and an explanation to the public as to how science was used and how the responsible official arrived at important decisions.

It is important to note that the Agency is already required to incorporate science into decisionmaking. The Agency has a longstanding practice of considering relevant factors and explaining the bases for its decisions. Including this section in the proposed rule, with its explicit requirements for determining and documenting the consideration of the information most accurate, reliable, and relevant to making planning decisions, will help to ensure a consistent approach across the National Forest System. However, this section is not intended to impose a higher standard for judicial review than the existing “arbitrary and capricious” standard.

The requirements of this section of the proposed rule are also separate from those of NEPA (40 CFR 1502.22(b)), which requires the responsible official to seek out missing or incomplete scientific information needed for an environmental impact statement, unless the costs of doing so are prohibitive. This section of the proposed rule does not change that requirement. However, the requirements proposed in section 219.3 apply throughout the planning process, and are focused on ensuring the responsible official takes into account the best scientific information that is already available. Thus, while an assessment report or monitoring evaluation report may identify gaps or inconsistencies in data or scientific knowledge, this rule would not impose the affirmative duty that the CEQ regulation applies to EISs, that is, to engage in new studies or develop new information, or to document that the costs of seeking new information are prohibitive.

During the public participation process to create this proposed rule, questions were raised as to what, if anything, the rule should say about the role of science in decisionmaking. Some suggested that science should inform planning but not have a dominant or exclusive role in the decisions. Others wanted more structure or national standards. Many expressed the desire that the input of non-scientists be used to inform agency decisionmaking as many of the issues and problems have social and economic aspects that cannot be resolved through scientific or technical solutions. There were differing opinions on how science should be used to resolve differences in value judgments and how science and public participation should be integrated and weighted in the decisionmaking process. The Agency believes the proposed rule would strike the appropriate balance for using science as an integral and foundational, but not the sole, influence on planning.

The Forest Service Directive System would contain further detail on how to document the consideration of science including identifying the sources of data such as peer reviewed articles, scientific assessments, or other scientific information, and when applicable, the Forest Services' information quality guidelines and OMB's Information Quality Bulletin on Peer Review. Direction about science reviews may be found in Forest Service Handbook 1909.12—Land Management Planning, Chapter 40—Science and Sustainability.

Section 219.4 Requirements for Public Participation

Participation Opportunities

The proposed rule seeks to ensure that the Forest Service provides meaningful opportunities for the public to participate early and throughout the planning process. This section lists the specific points during the planning process when opportunities for public participation would be provided. In order to meet these requirements, the responsible official must be proactive considering who may be interested in the plan, who might be affected by a plan or change to a plan, and how to encourage various constituents and entities to engage. Additionally, the proposed rule would require the responsible official to use collaborative processes when possible, to take into account the various roles and responsibilities of participants and the responsibilities of the Forest Service itself, and to create a process that is open and accessible.

To develop the public participation requirements of this proposed rule, the Forest Service used the Council on Environmental Quality (CEQ) publication: Collaboration in NEPA—A Handbook for NEPA Practitioners at: http://ceq.hss.doe.gov/ntf/Collaboration_in_NEPA_Oct_2007.pdf, (the rule definition of collaboration, at § 219.19, references the CEQ handbook). The CEQ handbook describes a spectrum of engagement, including the categories of inform, consult, involve, and collaborate. Each of these categories is associated with a set of tools, from traditional activities such as notice and comment on the inform end of the spectrum, to consensus building or a Federal advisory committee on the collaborative end of the spectrum. Because “collaboration” is often associated with only those activities on one end of the public engagement spectrum, the rule uses the term “public participation” to clarify the level of public engagement that could be used in the planning process. Every planning process would involve traditional scoping and public comment; in addition, the responsible official would determine the combination of additional public participation strategies that would best engage a diverse set of people and communities in the planning process.

It is important to clarify that while this section of the rule commits the Agency to public participation requirements and encourages collaboration, the Forest Service would retain final decisionmaking authority and responsibility throughout the planning process.

A successful planning process must be socially inclusive in order to adequately reflect the range of values, needs, and preferences of society, and especially those who may be affected by land management planning. The outcomes of public participation can include a greater understanding of interests underlying the issues, a shared understanding of the conditions on the unit and in the broader landscape that provide the context for planning, the development of alternatives that could accommodate a wide range of interests, and the potential development of a shared vision for the unit, as well as an understanding of how and why planning decisions are made. People expressed the desire to participate at a number of points in the planning process, including, but not limited to, crafting the proposed plan revision or plan amendment and monitoring unit progress toward meeting the plan desired conditions, objectives, or other plan components.

The proposed rule specifically would require the responsible official to encourage participation by the public, Tribes, governments, scientists, and other individuals by sharing knowledge, ideas, and resources. It is also expected that the responsible official would rely on proactive, contemporary tools, such as the Internet, to encourage widespread participation.

Because the make-up and dynamics of the communities surrounding each planning area differ, and because the level of interest in decisionmaking may vary, based on the scope and potential impact of the decision being contemplated, the responsible official would need the flexibility to select the public participation methods that would best meet the needs of interested people and communities. Some people wanted a rule that contains thorough process and method requirements detailing how each unit would conduct public participation. Others wanted the responsible official to have full discretion for how public participation would be conducted. The Agency is proposing a balanced approach that would require the responsible official to engage a diverse array of people and communities throughout the planning process but would allow flexibility in the methods.

Many people discussed the need for the Forest Service to make a stronger effort to engage groups and communities that traditionally have been underrepresented in land management planning. This is reflected in the requirement that responsible officials encourage the participation of youth, low-income populations, and minority populations in the planning process and in the requirements to be proactive to use contemporary tools to reach out to the public and consider the accessibility of the process to interested groups and individuals. The Agency recognizes the need to engage a full range of interests and individuals in the planning process and the responsibility to promote environmental justice.

Tribal Participation in Land Management Planning

The proposed rule also acknowledges the Federal Government's unique obligations and responsibilities to Indian Tribes and Alaska Native Corporations in the planning process. The proposed rule recognizes the government-to-government relationship that creates a unique role for federally recognized Tribes. As required by Executive Order 13175, government-to-government consultation would continue throughout the development of plans separately, and in addition to, the process for public participation. The Agency also seeks to involve Tribes and Alaska Native Corporations throughout the planning process and the proposed rule would require the responsible official to encourage their participation in the public process. The responsible official would work with Tribes and Alaska Native Corporations to seek out native knowledge, including information about land ethics, cultural issues, and sacred and culturally significant sites as an additional opportunity for information sharing and dialog that would augment the consultation process.

Several Tribes and Alaska Native Corporations are concerned about keeping information confidential to protect sites from vandalism. Responsible officials will protect confidentiality regarding information given by Tribes in the planning process and may enter into agreements to do so. Participation in a collaborative process would be voluntary and would supplement, not replace consultation.

The Agency heard from Tribes and Alaska Native Corporations that the rule should clearly state how the rights and interests of Tribes and Alaska Native Corporations would be provided for in the planning process. The comments emphasized the obligations the Forest Service has to honor the exercise of treaty rights on NFS lands and the need to fully recognize the government-to-government relationship that exists between the Federal Government and federally recognized Indian Tribes. Requirements in this section of the proposed rule, as well as § 219.1, seek to respond to those comments.

Coordination With Other Public Planning Efforts

Some local governments also asked that the planning rule require land management plans to strive for consistency with local government plans. The proposed rule would require that during the plan development or plan revision process, the responsible official would review the planning and land use policies of federally recognized Indian Tribes and of other Federal, State, and local governments and document the results of the review in the draft EIS. The review would include assessments conducted by other Federal agencies, statewide forest resource assessments, community wildfire protection plans, or state wildlife action plans. The review would consider the objectives of federally recognized Indian Tribes, and of other Federal, State, and local governments, as expressed in their plans and policies, and would assess the compatibility and interrelated impacts of these plans and policies. The review would include a determination of how each Forest Service plan should address the impacts identified or how each plan might contribute to joint goals.

Requiring land management plans to be consistent with local government plans; however, would not allow the flexibility needed to address the diverse management needs on NFS lands and could hamper the Agency's ability to address regional and national interests on Federal lands. In the event of conflict with Forest Service planning objectives, consideration of alternatives for resolution within the context of achieving NFS goals or objectives for the unit would be explored.

Section 219.5 Planning Framework

This section provides an overview of a proposed new framework for land management planning that would require a three-part learning and planning cycle: assessment, development/revision/amendment, and monitoring. This new framework is science-based and would provide a blueprint for the land management process, creating a structure within which land managers and partners could work together to understand what is happening on the land, revise management plans to respond to existing and predicted conditions and needs, and monitor changing conditions and the effectiveness of management actions to provide a continuous feedback loop for adaptive management.

In the assessment phase, the responsible official would conduct a review of conditions on the ground and in the context of the broader landscape, using available ecological, social, and economic data to the extent possible. The assessment phase would lead to the identification of a potential need to change the unit's plan. In the development, revision, or amendment phase, the responsible official would work with other government agencies, Tribes, and the public to use the information gathered in the assessment phase to shape a proposed action that would respond to the need for change. This process would include scoping and public comment in accordance with agency National Environmental Policy Act (NEPA) procedures and would culminate in a plan decision. In the monitoring phase, the responsible official would implement a monitoring plan informed by the assessment and developed as part of the plan, revision, or amendment. This phase would give managers data to evaluate management actions and measure effectiveness, test assumptions, track changing conditions, and make adjustments to both projects and to the land management plan as needed.

This framework would also guide land managers in working with the public and partners before, during, and after plans are written, offering participation opportunities to partners and interested parties throughout the planning process. An open and participatory approach for each phase of the framework is intended to ensure planning efforts are well understood; informed by public knowledge and opinion; and responsive to ecological, social, and economic conditions that may be impacted by management on the unit.

The approach described in the proposed framework responds to the public's stated desire for participation throughout land management planning. The assessment phase would allow for early public participation—well before a proposed action—so that stakeholders could engage in joint fact-finding and develop a mutual understanding of the interconnections among social, economic, and ecological communities and systems. The development/revision/amendment element of the framework responds to the public desire to help develop and provide meaningful input to proposals for land management plans. The monitoring part of the framework responds to stakeholder's desires for a systematic, deliberate, monitoring approach that can inform, and be informed, by other monitoring efforts relevant to management on the unit. Both stakeholders and the Agency recognize the potential efficiencies of a uniform monitoring approach and hope to increase information sharing and learning opportunities.

The proposed framework embraces adaptive management in planning and reflects key themes heard from the public, as well as experience gained through the Agency's 30-year history with land management planning. The new proposed framework is intended to establish a more responsive and agile process that would allow the Agency to adapt management to changing conditions and improves management based on new information and monitoring. As proposed, the framework would support a more integrated and holistic approach to management recognizing the interdependence among all parts of the ecosystem including the communities (biotic and human) and systems (functions and values) that are part of each forest.

Section 219.6 Assessments

This section sets out both process and content requirements for assessments. Assessments are intended to provide a solid base of information and context for plan decisionmaking. The responsible official would have discretion to set the scale and scope of the assessment but would engage the public early and would encourage participation in the assessment process. The content of assessments would be used to develop new plans and plan revisions, to develop monitoring questions, and to provide a feedback loop. The scope and scale of an assessment could be comprehensive, such as those for a revision, or they could be narrow, such as those for an amendment focused on one issue.

Responsible officials would use assessments to determine the unique roles and contributions of the unit within the context of the broader landscape as well as the need to change the plan. Assessments should provide useful information to the responsible official to develop plan components and other content for a new or revised plan, to identify gaps in needed information that might be filled by a monitoring program, to identify changing conditions that the Agency might need to track, or to identify assumptions that should be tested later.

Process Requirements

This section of the proposed rule would require an assessment prior to plan revision or development. The responsible official would reach out to the public, Tribes, Alaska Native Corporations, other Federal agencies, States, local governments, and scientists to start the assessment and help identify the questions and issues to be considered. The responsible official would also be required to coordinate with the regional forester, and agency staff from State and Private Forestry, Research and Development, as well as other governmental and non-governmental partners to consolidate existing information and develop strategies for satisfying any additional information needs. Early engagement with a diverse set of interests is needed to create an accurate depiction of the issues affecting the plan area and a solid base of understanding for any changes needed to the plan.

This section of the proposed rule would require the responsible official to document the assessment in a report or set of reports. To bring transparency and accountability to the assessment process, the reports would be available to the public. The report, or set of reports, would be included in the planning record and document how the relevant best available scientific information was taken into account. Within the report, the responsible official would identify how a new plan should be proposed or identify the potential need to change an existing plan based on the assessment.

Content Requirements

At a minimum, the content of assessments for revisions and new plans would provide information to support development of plan components that meet the substantive requirements of other rule provisions such as sustainability (§ 219.8), diversity (§ 219.9), multiple uses (§ 219.10), and the timber requirements based on the NFMA (§ 219.11). In order that planners have sufficient information to meet the requirements set out in sections 219.8 through 219.11, assessments would include information on existing conditions, trends, and stressors, both on and off the unit, which might impact resources or ecological, social, or economic sustainability.

An assessment is expected to use existing information and be conducted rapidly in order to respond to changing conditions. Existing information may come from sources inside or outside the Forest Service, such as assessments conducted by other Federal agencies, statewide forest resource assessments, community wildfire protection plans, or state wildlife action plans. Existing information would be gathered and synthesized for relevant ecological, economic, and social conditions and trends within the context of the broader landscape. However, nothing in this section would restrict the responsible official from gathering new information to address the issues or questions for the assessment.

Assessments for Plan Amendments

Because plan amendments vary in their complexity, this section provides a flexible approach to preparing an assessment for a plan amendment. Plan amendments would be based on a documented need for change but do not require an assessment. In some cases, the information from monitoring and evaluation would identify the need for change, or the need may arise from an unexpected proposed use such as a new permit application. Thus, there would be no need for an assessment. In other cases, the assessment would focus on an issue or question that only affects a portion of the plan area. In such a case, the scope of the assessment would be narrow and scale would be small. In other cases, particularly for complex issues that cross unit boundaries, the responsible official could conduct a more comprehensive assessment for an amendment.

Section 219.7 Plan Development or Plan Revision

This section sets out requirements for how to develop a new plan or revise an existing plan. This section has two primary topics: (1) The process for developing or revising plans and (2) the plan, which includes plan components and other content in the plan. Plans and plan revisions provide direction and guidance and management for the unit as a whole. Plan revisions are required every 15 years under the NFMA. Most plans would be revised in the 15-year period. However, the responsible official has the discretion to determine at any time that conditions on a unit have changed significantly such that a plan must be revised. A plan revision before the 15-year requirement has been rare in the past, and is expected to be rare in the future.

A plan revision is considered an entirely new plan even if it uses much of the same direction and guidance as the previous version.

Process Requirements

The responsible official would begin by notifying the public of the start of a process to draft a proposed plan. That proposal would be informed by the assessment(s) that would identify the need to change the plan as well as information about the unique roles of the unit in the context of the broader landscape.

Drafting a proposed plan with public participation is a change from current planning processes. Typically, the responsible official appoints an interdisciplinary team to draft a proposed plan and then publishes it for public comment. Under the proposed rule, the public would have opportunities to shape the proposed plan while it is being drafted, however, these opportunities are not intended to prejudge the outcome of the NEPA process. This process change responds to the desire expressed during the collaborative process for this proposed rule that the public be involved early, before proposed plans are already drafted.

The process would include the preparation of an EIS with opportunities for consideration of alternatives during a public comment period. By crafting a proposed plan with public participation, it is expected that meaningful alternatives would be rapidly developed and evaluated in the EIS. The environmental analysis should be focused and the responsible official should reach a decision in a timely manner.

As part of the process for developing a proposal, this section would require the responsible official to, at minimum, review information from the assessment. This includes consideration of conditions, trends, and stressors that affect plan components as well as the identification of the presence and value of resources on the unit. The responsible official would also assess potential wilderness areas, eligible wild and scenic rivers, suitability of areas for resource management, and the quantity of timber that can be removed in accordance with NFMA requirements. The proposed plan would identify questions for the monitoring plan and potential other content in the plan. These requirements are designed to form a basis for developing plan components and content that would meet the requirements set forth in this proposed rule.

Many people have asked that the rule streamline planning; that it not include detailed processes and methods that may rapidly become outdated. By conducting an assessment using a collaborative approach prior to starting a new plan or plan revision and by working with the public to develop a proposal for a new plan or plan revision, the Agency expects that the actual preparation of a plan would be much less time consuming. These process requirements incorporate the best practices learned from the past 30 years of planning and the Agency believes these practices should be carried out in an efficient and effective manner.

Plan Components

This section sets out proposed requirements for plan components. Every plan would contain five plan components: desired conditions, objectives, standards, guidelines, and suitability of areas. Plans could also contain goals, an optional plan component. These plan components are based on techniques widely accepted and practiced by planners, both inside and outside of government. Every plan would contain at least one of each of the required five plan components—these are the central parts of a plan. Projects and activities would be required to be consistent with plan components. Except to correct clerical errors, plan components could only be changed through plan amendment or revision.

Desired conditions identify an overall vision for the unit. When developed during a collaborative process with the public, desired conditions would provide a way to identify a shared vision for a plan area. Other plan components would provide the strategy and guidance needed to achieve that vision. A desired condition is generally supported by objectives that identify intended, measureable progress toward reaching the desired condition. Taken as a whole, objectives lead to the development of a proactive program of work of passive or active management designed to achieve the desired condition.

Standards, guidelines, and suitability (identifying lands within the planning area as suitable or not suitable for various uses) are intended to create a framework that would permit uses, projects, and activities that move the unit toward the desired conditions, while restricting uses, projects, or activities that may be inconsistent with achieving desired conditions.

Standards are mandatory constraints and do not allow for deviation. The Agency heard from the public that many people want the rule to include “default” standards, and others want a way for responsible officials to “opt-out” of standards when they do not fit the situation at hand. The Agency recognizes that circumstances on the ground differ from place-to-place. The proposed rule would require guidelines that, like standards, are requirements. Guidelines are not intended to allow an “opt-out,” but they would allow the responsible official some flexibility in how to meet the intent of the guideline, recognizing that different conditions may necessitate a different approach. Guidelines provide a means to protect resources in different ways depending on those circumstances.

Examples of a desired condition, objective, standard, and guideline for long leaf pine restoration are provided below.

These examples assume that during the assessment it was determined that the native ecological condition for a portion of the plan area on a coastal plain forest should be a long leaf pine savanna. The existing condition has 45 percent of the area dominated by loblolly pine forest with closed canopy and a sparse understory. The following statement would describe the desired condition, usually in terms of composition, structure, and function for ecological types.

Desired condition: First would be a description of the composition: The composition is predominately longleaf pine savanna, comprising approximately 75 percent of the area. There are patches of mixed pine/hardwood primarily along streams, but these patches comprise less than 25 percent of the total composition.

Often a statement would follow regarding the vegetation structure: The forest has two distinct layers: a pure longleaf pine open canopy approaching 70 feet in height and a wiregrass dominated herbaceous layer.

The functions or processes in this ecological type would then be described: This savanna structure is maintained by recurring fire on an average 3-year cycle. This ecological type functions as primary nesting and foraging habitat for red-cockaded woodpecker.

Objective: The objective statement would be written to show the change from the existing condition to the desired condition: Restore longleaf pine on approximately 1250 to 1500 acres per year over for the 10 years following plan approval on longleaf pine landtypes currently dominated by loblolly pine. Within 5 years of the restoration activity, the desired outcome is 150 to 250 seedlings per acre, free of competition.

Standard: A standard intended to protect all existing longleaf pine could be written as: Retain any longleaf pine during the restoration activity.

Guideline: A guideline to protect soil and water with built in flexibility could be written as: To avoid unacceptable risks of erosion, mechanical fire lines should not occur on slopes greater than 30 percent or on the highly erosive X, Y, and Z soil types.

In the suitability plan component, the plan would identify specific areas of the planning unit as being suitable or not suitable for certain types of uses or activities. The plans are not required to have suitability identified for any specific type of use or activity, with the exception that areas not suitable for timber production must be identified as required by the NFMA. Determining the suitability of a specific land area for a particular use or activity is usually based upon the desired condition for that area and the inherent capability of the land to support the use or activity. If the plan identifies an area as not suitable for a type of use or activity, such a use or activity may not be permitted within that area. If the plan identifies an area as suitable for a type of use or activity, authorization of such a use or activity in that area may be considered; however, site-specific analysis consistent with NEPA procedures and due consideration of relevant factors will always be needed before a specific use or activity can be authorized.

For example, a plan may identify an area as suitable for motorized recreation trails on stable soils, but the plan also has a guideline limiting motorized recreation during the nesting season. Before a new designated motorized trail can be opened in the management area, a site-specific analysis would need to determine which parts of the project area have stable soils and are thus suitable for the motorized trail. Consistent with the plan, a motorized trail may then be proposed within the management area on stable soils with a requirement that it be seasonally closed during the month of the nesting season. The site-specific analysis for the proposal would have to document consistency with the motorized trail suitability, the wildlife guideline, and any other applicable plan components.

A goal is an optional plan component that conveys a broad statement of intent. Usually, goal statements are not associated with on-the-ground conditions in contrast to desired conditions. Instead, goals express intentions about how processes or interactions with the public would be conducted under the plan. Examples of goal statements in current plans are:

Provide opportunities for the local populations to develop a unique connection—a sense of place—to the national forest.

Provide information about the natural and cultural environment to foster understanding of the uniqueness of the resources of the unit and to help develop ecological-based tourism.

Goals are optional plan components because some responsible officials find them useful while others do not. The proposed rule would allow the responsible officials flexibility to choose whether to include goals as a plan component.

The set of plan components must meet the substantive requirements for sustainability (§ 219.8), plant and animal diversity (§ 219.9), multiple uses (§ 219.10), and timber requirements based on the NFMA (§ 219.11) as well as other requirements laid out in the plan. While all plans must contain the required five plan components (desired conditions, objectives, standards, guidelines, suitability of areas, and may contain goals), not every issue or resource contained in a plan would require all five plan components. Through the planning process, the responsible official would determine the content of plan components needed to address specific management issues or resources.

Other Content in the Plan

In addition to the plan components, this section would require other content in the plan for integrated resource management. Other required content differs from plan components in that an amendment or revision would not be required for changes to be made to reflect new information or changed conditions.

This section sets out four requirements for other required content: The monitoring program, identification of watersheds that are a priority for maintenance or restoration, description of the unit's distinctive roles and contributions within the broader landscape, and information reflecting proposed and possible actions that may occur on the unit during the life of the plan. Other content could be included as needed.

The proposed monitoring program, described in § 219.12, would be required in every plan. A monitoring program has been included as other required content, but not as a plan component, so the program can be updated without a plan amendment. In the past, monitoring programs became outdated and ineffective because any changes required a plan amendment, which usually took a long time to complete. Since monitoring methods and protocols are constantly being refined, and since it may be important to add or change a monitoring question or indicator to be sure that the monitoring is effective and targeted to inform and improve management, it is important to have processes where changes can be made rapidly. Reflecting the importance that stakeholders place on monitoring, the proposed rule requires advanced public notice (§ 219.16) of any changes to be made in the monitoring program, along with an opportunity for the public to provide comment on the proposed change.

The proposed requirement that other required content include the identification of priority watersheds for maintenance or restoration is designed to complement the water-based sustainability requirements found in § 219.8. The Agency realizes that areas prioritized for potential restoration activities could change quickly due to events such as wildfire, hurricanes, drought, or the onslaught of invasive species. Therefore, this requirement is included in this section as other required content rather than in § 219.8 for plan components thus allowing an administrative change (§ 219.13) to be used to re-prioritize watersheds for maintenance or restoration.

The proposed requirement that the plan describe the unit's distinctive roles and contributions within the broader landscape is designed to ground the development of plan components in a context of capability and opportunity. The identification of the unit's roles and contributions directly supports development of desired conditions and objectives. The requirement should lead to each unit developing a plan that reflects its unique characteristics while addressing issues of importance for the NFS and setting priorities for management.

Section 219.8 Sustainability

Sustainability is the fundamental principle that will guide land management planning. The intent is for plans to guide management so that NFS lands are ecologically sustainable and contribute to social and economic sustainability, with resilient ecosystems and watersheds, diverse plant and animal communities, and the capacity to provide people and communities with a range of social, economic, and ecological benefits for the present and future generations.

The requirements of this section of the proposed rule are linked to the requirements in the assessment (§ 219.6) and monitoring sections (§ 219.12). In addition, this section provides a foundation for the next three sections regarding diversity of plant and animal communities (§ 219.9), multiple uses (§ 219.10), and timber requirements based on the NFMA (§ 219.11). Together these sections of the proposed rule would guide the land management planning process for maintaining or restoring ecological sustainability on NFS lands and contributing to social and economic sustainability of the local communities and regions and the Nation.

The proposed requirements of this section are limited to what can be accomplished within the Agency's authority and the capability of the unit. This limitation arises from the fact that some influences on sustainability are outside the Agency's control, for example, climate change, extreme disturbance events, and urbanization on lands outside of or adjacent to NFS lands. Given those constraints, the Agency realizes it cannot guarantee sustainability. However, it can establish planning processes and practices that provide the best opportunity for maintaining or restoring sustainable ecological systems and contributing to social and economic sustainability.

It is important to note that plan components themselves could not compel agency action or guarantee specific results. Instead, they provide the vision, strategy, guidance, and constraints needed to move the unit toward sustainability. This section must be read with these constraints in mind.

Ecological Sustainability

A common theme brought up throughout the public involvement process was the importance of maintaining or restoring healthy, resilient ecosystems and the benefits that such resilient systems provide. Examples of such benefits include a reduced risk of catastrophic fire, clean abundant water, connected habitats for wide ranging species, and economic benefits. Those themes are reflected in the requirements of this section in the proposed rule.

The proposed requirements for plan components in this section are based on sound ecological principles that the health of aquatic and terrestrial systems is interdependent, and that they are shaped by processes at the landscape scale. When the Agency speaks of ecological sustainability in this document, the Agency means to maintain or restore ecosystem and watershed structure, function, composition, and connectivity.

The proposed rule, therefore, would require the development of plan components that maintain or restore the structure, function, composition, and connectivity of these systems as a whole and that maintain, protect, or restore key elements within each system. Management to maintain, protect, and restore ecosystems would include both active and passive management and require different levels of investment based on the difference between the desired and existing conditions of the system.

In designing plan components to maintain or restore ecosystems and watersheds, the proposed rule would require the responsible official to take into account the physical (including air quality) and biological integration of the terrestrial and aquatic ecosystems within a landscape. Because fire is an important ecosystem driver, the proposed rule would require that the responsible official would also take wildland fire and opportunities to restore wildland fire ecosystems into account. During the planning process, other potential ecosystem drivers, disturbance regimes, and environmental stressors, including climate change, would be identified, assessed, and considered when developing plan components for ecological sustainability.

Paragraph (a)(2) would require that the responsible official develop plan components to maintain, protect, or restore certain ecosystem elements. The first two elements would require the responsible official to develop plan components for aquatic and terrestrial areas, including lakes, streams, wetlands, forest stands, meadows, and other habitat types. These areas represent the individual elements that form a foundation for maintaining the health and resilience of the overall ecosystem or watershed. The third element would require plan components for rare aquatic and terrestrial plant and animal communities, which may have particular value as communities, consistent with the individual species and ecosystem diversity requirements in § 219.9. Finally, plan components would be required to protect, maintain, and restore clean, abundant water supplies (both surface and groundwater sources), and soils, and productivity recognizing their importance as fundamental ecosystem resources and services.

Water

One of the original purposes for establishing the NFS was to protect our Nation's water resources. Of all land uses, forested land provides the highest quality water. National Forest System lands contain 400,000 miles of streams, 3 million acres of lakes, and many aquifer systems that together serve as the source of drinking water for more residents of the United States than any other source. The Agency administers over 90,000 water rights in cooperation with States; protects and improves habitat for more than 550 rare, threatened, and endangered aquatic species; provides outdoor recreation to more than 130 million visitors per year near streams, lakes, and other water resources; and supports access and operations for more than 200 hydroelectric facilities. National forests alone provide 18 percent of the Nation's water and over half the water in the West. The Organic Act, Weeks Act, MUSYA, and the NFMA all discuss the protection of water and/or watersheds.

Although forests are effective at maintaining hydrologic functions, there are areas on national forests where water resources are degraded. There are serious environmental and economic costs of depleting or damaging water resources and unsustainable water and land use practices pose risks to people and ecosystems. The quantity and quality of America's water and aquatic habitats are affected by our changing climate as well as by non-climate related stressors. Changing conditions and stressors can include changing water temperatures, variability in volume and timing of precipitation, and increased frequency and severity of floods. The requirements of this section recognize the importance of maintaining those watersheds and aquatic resources that are in good condition and restoring those that are not.

The proposed rule would require that plans include plan components to maintain, protect, and restore public water supplies, groundwater, sole source aquifers, and source water protection areas where they occur on NFS lands. Source water protection areas are areas delineated for public water systems as part of the State or tribal source water assessment and protection program and may include ground water or surface water or both. Under section 1424(e) of the Safe Water Drinking Act, sole source aquifers are defined as underground water sources that are designated by the Environmental Protection Agency and supply at least 50 percent of the drinking water consumed in the area overlying the aquifer.

Riparian areas are important elements of watersheds that provide critical transition zones linking terrestrial and aquatic ecosystems. The proposed rule would highlight the importance of maintaining, protecting, or restoring riparian areas and the values such areas provide by requiring that plans include plan components to guide management with riparian areas. The proposed rule also requires that plans establish a default width within which those plan components apply. The width of such zones is usually measured from the edge of the water, extending outward to the adjacent upland areas, and it could be a standard width for all riparian areas or it could vary based on the type of waterbody.

Additionally, riparian areas would be site-specifically verified over time, either during watershed or landscape assessments or when management actions are proposed that might affect riparian areas. The width of the actual riparian area would be based on the characteristics of the site and could be wider or narrower than the default width(s). Many NFS units already have actual riparian areas identified, while in some areas, for example wilderness areas, there may be no need to site-specifically delineate riparian areas. Restoration of riparian areas may be accomplished through passive management or may require active management, particularly in areas where natural disturbance such as fire or flooding have been excluded or where past management has altered function.

Public comment ranged between those who wanted very prescriptive national standards in the rule for such things as road density or riparian area widths and those who wanted very few requirements and ultimate flexibility at the unit level to determine the suite of plan components best suited to the unit's unique situation. The proposed rule reflects a balance by including requirements for plan components to guide management of these resources but not prescribing national standards that may not be ecologically appropriate or practical across all units. In this way, the Agency ensures that all plans will consistently include plan components for these critical resources while allowing the flexibility to design plan components that are ecologically appropriate to the unit.

Social and Economic Sustainability

During the public participation process to develop this proposed rule, there was a divergence of opinion on whether ecological sustainability should take precedence over social and economic sustainability or if the ecological system, the social system, and the economic system are of equal importance. The proposed rule considers the ecological, social, and economic systems as interdependent systems, which cannot be ranked in order of importance.

However, there is an important difference in the wording between the ecological and the social/economic sustainability requirements. The requirements for ecological sustainability would require responsible officials to provide plan components to maintain or restore elements of ecological sustainability. The requirements for social sustainability would require plan components to guide the unit's contribution to social and economic sustainability.

The distinction between these two sets of requirements recognizes the Agency has more influence over the factors that impact ecological sustainability on NFS lands (ecological diversity, forest health, road system management, etc.) than it does for social and economic sustainability (employment, income, community well-being, culture, etc.). National Forest System lands can provide valuable contributions to economic and social sustainability, but that contribution is just one in a broad array of factors that influence the sustainability of social and economic systems. Similar to the requirements for ecological sustainability, the requirements for social and economic sustainability reflect that NFS lands are integral parts of the larger landscape.

Section 219.8(b) of the proposed rule would require plans to include plan components to guide the unit's contribution to social and economic sustainability. In developing these plan components, the responsible official would be required to take into account through the collaborative planning process and the results of the assessment the social, cultural, and economic conditions relevant to the area influenced by the plan; the distinctive roles and contributions of the unit within the broader landscape; sustainable recreational opportunities and uses; multiple uses, including ecosystem services, that contribute to local, regional, and national economies in a sustainable manner; and cultural and historic resources and uses.

Several Tribes and Alaska Native Corporations requested the rule recognize and provide a framework for sustaining cultural services and benefits from national forests and grasslands, including cultural traditions, ways of life, and cherished spaces. Furthermore, several Tribes and Alaskan Native Corporations requested that sustainability be based on four equal aspects: Ecological, economic, social, and cultural sustainability. The Agency has defined sustainability as having three aspects since 1999: Ecological, economic, and social. Instead of adding a new aspect to sustainability, the Agency proposes that the planning rule require responsible officials to take into account cultural conditions when developing plan components for social and economic sustainability. An alternative way of dealing with this issue would be to require the responsible official to develop plan components for cultural resilience (The ability of cultural knowledge and expression to adapt to social, economic, and ecological change in ways that continue the core meanings of that knowledge and expression). The Agency welcomes public comment on the issue of cultural sustainability.

Requirements for specific elements that would contribute to social and economic sustainability are found in § 219.10 and § 219.11.

Section 219.9 Diversity of Plant and Animal Communities

The Agency is committed to the goals of the Endangered Species Act (ESA) and the NFMA. This section of the proposed rule demonstrates agency commitment to meeting the NFMA requirement to provide for diversity of plant and animal communities based on the capability of the plan area. The Agency's intent is to keep common native species common, contribute to the recovery of threatened and endangered species, conserve candidate species, and protect species of conservation concern.

This section of the proposed rule addresses the diversity requirement by focusing on factors within agency control and using the best available scientific information to design a robust and achievable diversity standard. The proposed rule adopts a complementary ecosystem diversity and species conservation approach to provide for the diversity of plant and animal communities in the plan area and the long term persistence of native species. Known as a coarse-filter/fine-filter approach, this is a well-developed concept in the scientific literature and has broad support from the scientific community and many stakeholders. The coarse-filter should provide ecological conditions for the long-term persistence of the vast majority of species within the plan area. The fine-filter would identify specific habitat needs of species with known conservation concerns or whose long-term persistence in the plan area is at risk, and for which the coarse-filter protection is insufficient.

The wording in paragraph (a) for ecosystem diversity intentionally mirrors that found in § 219.8(a)(1) for ecological sustainability, as they are not intended to be separate processes or requirements. The requirements in § 219.8 (a)(1) for plan components to maintain or restore structure, function, composition, and connectivity of healthy and resilient terrestrial and aquatic ecosystems and watersheds would also meet the requirement of this section to retain or restore ecosystem diversity on the unit. The requirements are restated in both of these sections to emphasize the link between sustainability of terrestrial and aquatic systems and the diversity of plant and animal communities.

Specific agency policy direction for ecosystem diversity and species conservation using the coarse-filter/fine-filter approach, as well as for identifying species of conservation concern would be included in the Forest Service Directive System.

The Coarse-Filter Approach

Paragraph (a) of this section of the proposed rule would require plan components for maintaining or restoring structure, function, composition, and connectivity of healthy and resilient terrestrial and aquatic ecosystems and watersheds to maintain the diversity of native species. This serves as the “coarse-filter” aspect of the diversity standard. The premise behind the proposed coarse-filter approach is that native species evolved and adapted within the limits established by natural landforms, vegetation, and disturbance patterns prior to extensive human alteration. Maintaining or restoring the ecological conditions similar to those under which native species have evolved therefore offers the best assurance against losses of biological diversity and maintains habitats for the vast majority of species in an area, subject to factors outside of the Agency control, such as climate change. Climate change and related stressors could affect many species and may make it impossible to maintain current ecological conditions.

Ecosystems are described in terms of their composition (vegetation types, rare communities, aquatic systems, riparian systems); structure (vertical and horizontal distribution of vegetation, stream habitat complexity, and riparian habitat elements); function (processes such as stream flows, nutrient cycling, and disturbance regimes); and the connection of habitats (for breeding, feeding, or movement of wildlife and fish within species home ranges or migration areas). Healthy ecosystems are indicated by the degree of ecological integrity related to the completeness or wholeness of their composition, structure, function, and connectivity. Resilience refers to the capacity of the system to absorb disturbance so as to retain essentially the same function. By working toward the goals of diverse native ecosystems with connected habitats that can absorb disturbance, it is expected that over time, management would create ecological conditions, through activities such as ecosystem restoration treatments, which support the abundance, distribution, and long-term persistence of native species within a plan area to provide for plant and animal diversity.

The Fine-Filter Approach

Paragraph (b) of this section sets forth three species-specific requirements for plan components that would provide the basis for the fine-filter approach to species conservation. The intent would be to provide plan components that identify specific habitat needs of species, when those needs are not met through the coarse filter. These species are threatened and endangered (T&E) species, candidate species, and species of conservation concern.

The first species conservation requirement in this section of the proposed rule is to maintain or restore ecological conditions to contribute to the recovery of T&E species. These species are at risk of extinction and are protected under the ESA. The Agency proposes that its role is to provide ecological conditions in the plan area that would contribute to recovering these species across their ranges, which in many cases includes lands outside NFS boundaries where the Agency has no control. The responsible official may also contribute to other recovery actions, such as species reintroductions to increase species distribution.

The second species conservation requirement proposed in this section of the proposed rule is to maintain or restore ecological conditions to conserve candidate species. These species are plants and animals for which the Fish and Wildlife Service has proposed listing under the ESA, but for which a listing regulation has not yet occurred. Under the ESA, candidate species do not receive special legal protections, as do threatened and endangered species. However, the agency would like to be proactive and take measures to ensure animal and plant species do not require protection under ESA. Candidate species are not the same as focal species (§ 219.12), but units may choose to use a candidate species as a focal species, as part of their monitoring program. The Agency is proposing to use its policy discretion to take steps to reduce the risks to candidate species from activities on NFS lands. These steps would include identifying specific ecological conditions for NFS land that would conserve candidate species and specifying plan components for the maintenance or restoration of those conditions.

The proposed rule would represent a higher level of protection for candidate species than currently exists in the planning process while still recognizing that candidate species may not have viable populations. Protection requirements for candidate species may at times contradict the protection requirements of other species or other management objectives. The Agency invites public comment on how it should address these circumstances in this rule.

The final species conservation requirement in this section of the proposed rule addresses the needs of species of conservation concern. A species of conservation concern is a species that is not threatened, endangered, or a candidate species, but is one for which the responsible official has determined there is evidence demonstrating significant concern about its capability to persist over the long term in the plan area. A viable population is defined in this proposed rule as a population of a species that continues to persist over the long-term with sufficient distribution to be resilient and adaptable to stressors and likely future environmental conditions. The responsible official would identify, where necessary, specific ecological conditions needed by these species that are not provided by the coarse-filter. The identification of species of conservation concern within the plan area could be based on several criteria, such as substantial scientific information as to the overall status of the species, the quantity and quality of species habitat within the plan area, and the potential for management activities to affect the species habitat within the plan area. Forest Service Directives would contain the criteria for selecting species of conservation concern. State lists of endangered, threatened, rare, endemic, or other classifications of species, such as those listed as threatened under State law; and other sources such as the Nature Serve conservation status system may be used to inform the selection of species of conservation concern.

The proposed rule's requirement for species of conservation concern would be to maintain or restore ecological conditions to maintain viable populations of species of conservation concern within the plan area, within the Agency's authority and consistent with the inherent capability of the plan area. Where a viable population of a species of conservation concern already exists within the plan area, the appropriate ecological conditions needed to maintain the long-term persistence of that species will continue to be provided.

At times, factors outside the control of the Agency prevent the Agency from being able to maintain a viable population of species of conservation concern within the plan area, such as when the range and current distribution of a species extends beyond NFS boundaries. In such cases, the proposed rule would require that the Agency provide plan components to maintain or restore ecological conditions within the plan area for that species, and by doing so to contribute to the extent practicable to a viable population across its range. Additionally, the responsible official would reach out beyond NFS boundaries to land managers who have authority where the species exists, to coordinate management for the benefit of a species across its range.

Some examples of plan components used for the fine-filter approach to address species-specific ecological conditions could be the following: a desired condition statement that describes the composition, structure, and function of a longleaf pine ecosystem that will provide optimum habitat conditions for red-cockaded woodpeckers; an objective for acres of occupied prairie dog habitat to facilitate the goal of reintroducing black-footed ferrets; a standard that sets a maximum road density that will improve habitat conditions for the Canada lynx or gray wolf; or a guideline that recommends a “no disturbing activities” time period within a specified distance of a known bald eagle or goshawk nest site during the critical breeding period.

Diversity of Trees and Other Plant Species

The intent of the “diversity of trees and other plant species” requirement in this section of the proposed rule is to address the specific requirements of the NFMA to preserve, where appropriate, and to the degree practicable, the diversity of tree species similar to that existing in the region controlled by the plan. The proposed rule would require plan components to preserve diversity of native tree and other plant species. Preserving the diversity of tree species native to the unit will also preserve other native plant species. Meeting the requirements for ecosystem diversity and species conservation, as discussed above, would meet this provision as well.

Endangered Species

As part of the Forest Service mission, the actions needed to recover T&E species and maintain or restore critical habitats are a high priority. Under the ESA, the Forest Service is to carry out “programs and activities for the conservation of endangered species and threatened species” (16 U.S.C. 1536 (a)(1)) and “insure that any action authorized, funded or carried out by [it] is not likely to jeopardize the continued existence of any endangered species or threatened species or result in the destruction or adverse modification of [designated critical habitat]” (16 U.S.C. 1635 (a)(2)).

Under the proposed rule, plans would address conservation measures and actions identified in recovery plans relevant to T&E species in the plan area. The Forest Service would continue to collaborate with the U.S. Fish and Wildlife Service (USFWS) and the National Oceanic and Atmospheric Administration (NOAA) in the development and implementation of recovery plans for these species. The Forest Service would also continue to work with USFWS, NOAA, States, and other partners to conserve and recover federally listed plant and animal species. The Agency would continue to restore NFS ecosystems and habitats through a number of management activities, including monitoring, habitat assessments, habitat improvements through vegetation treatments and structure installation, species reintroductions, development of conservation strategies, research, and conservation education. In addition, the Agency would continue to evaluate effects of proposed management actions to T&E species or designated critical habitat.

The proposed rule would require the responsible official to explicitly recognize the recovery of T&E species as an important part of land management plans and provide plan components to maintain or restore ecological composition, structure, function, and connectivity. Additionally, the requirements in this section are linked to the proposed requirements for public participation, assessments, and monitoring (Sections 219.4, 219.6, and 219.12 respectively). Collectively these requirements are intended to have the responsible official work beyond the planning unit boundary to collaborate and cooperate with other landowners and land managers in working toward an all-lands approach to ecosystem and species diversity and conservation.

Providing for Diversity Within the FS Authority and the Capability of the Plan Area.

This section fulfills the diversity requirement of the NFMA, which directs the Forest Service to “provide for diversity of plant and animal communities based on the suitability and capability of the specific land area in order to meet multiple-use objectives, and within the multiple-use objectives of a land management plan adopted pursuant to this section, provide, where appropriate, to the degree practicable, for steps to be taken to preserve the diversity of tree species similar to that existing in the region controlled by the plan” (1604(g)(3)(B)).

The 1982 planning rule required the Forest Service to manage habitat to “maintain viable populations of native and desired non-native vertebrate species in the planning area” (47 FR 43048; September 30, 1982, section 219.19). The 1982 viability standard at times proved to be unattainable because of factors outside the control of the Agency. Some factors outside the control of the Agency include: (1) Species ranging on and off NFS lands; (2) activities outside the plan area (e.g., increasing fragmentation of habitat, non- and point source pollution) often impact species and their habitats, both on and off NFS lands; (3) failure of the species to occupy suitable habitat; and (4) climate change and related stressors, which could impact many species and may make it impossible to maintain current ecological conditions.

Other stressors, such as invasive species, insects, disease, catastrophic wildfire, floods, droughts, and changes in precipitation, among others, will also affect species and habitat in ways that the Agency cannot completely control or mitigate for.

Additionally, it is important to note that the proposed rule is not limited to “vertebrate” species as required under the 1982 provisions. The proposed rule would include native plants and native invertebrates (fungi, aquatic invertebrates, insects, plants, and others) for which the Agency currently has very minimal biological information on their life histories, status, abundance, and distribution. However, maintaining or restoring ecosystem diversity within the plan area is the best opportunity to conserve these little-known species.

People suggested a broad range of approaches, including reinstating the 1982 viability provision; protecting and maintaining healthy habitats, with no species specific provisions; promoting biodiversity and measuring it with a biodiversity index; monitoring landscape characteristics as proxies for a suite of species; and including both habitat- and species-level standards with specific population monitoring requirements. In addition, some people emphasized the need to coordinate and cooperate beyond NFS unit boundaries for purposes of identifying and protecting critical habitat, migration corridors, and other habitat elements. The Agency believes that the proposed rule requirements to provide for the diversity of plant and animal communities are practical and meet the intent of the NFMA.

Section 219.10 Multiple Uses

The intent of this section is to provide the requirements for developing plans that guide management for continued and sustainable multiple uses, including ecosystem services, through integrated resource management, and in the context of the requirements of sections 219.7-11.

Multiple Use Background

NFS lands provide economic, social, and cultural sustenance for local communities; for Tribes; and for people across the Nation. Products and services generated on NFS lands continue to sustain traditional livelihoods, provide for subsistence uses, and provide new economic opportunities or benefits generated through sustainable recreation and tourism, restoration activities, ecosystem services, and renewable energy. National Forest System lands are also of immense social and cultural importance, enhancing quality of life; sustaining scenic, historic, and culturally important landscapes; sustaining traditional life ways; and providing places to engage in outdoor recreation, improve physical and mental health, and reconnect with the land.

The MUSYA has guided NFS management since it was enacted in 1960. The MUSYA expanded upon the original purposes for which national forests may be established and administered, which were identified in the Organic Administration Act: “to improve and protect the forest within the boundaries, or for the purpose of securing favorable conditions of water flows, and to furnish a continuous supply of timber for the use and necessities of citizens of the United States.” (Act of June 4, 1897 (16 U.S.C. 475)).

The MUSYA states that the Forest Service is to “administer the renewable surface resources of the national forests for multiple use and sustained yield of the several products and services obtained therefrom.” (16 U.S.C. 529). The MUSYA defines “multiple use” as “the management of all the various renewable surface resources of the national forests so that they are utilized in the combination that will best meet the needs of the American people; making the most judicious use of the land for some or all of these resources or related services (16 U.S.C. 531(a)). In the MUSYA, Congress declared that the national forests are established and shall be administered for outdoor recreation, range, timber, watershed, and wildlife and fish purposes (16 U.S.C. 528). The MUSYA also explicitly recognizes that “the establishment and maintenance of areas of wilderness are consistent with the purposes and provisions of [this Act].” (16 U.S.C. 529).

The Agency believes that MUSYA anticipated changing conditions and needs. In particular, the Agency's understanding of what is meant by the “several products and services obtained” from the national forests has changed since 1960, and incorporates all values, benefits, products, and services the Agency now knows the NFS provides, and what are now more typically identified as ecosystem services. Over time, the Agency expects understanding will continue to evolve.

Integrated Resource Management.

The responsible official would use information gathered during assessment and the opportunities for public participation to consider a wide range of resources, potential stressors, foreseeable risks, and opportunities to work with neighboring landowners and partners to develop plan components.

The proposed rule would require the development of a set of plan components that provide for integrated resource management. This is a different approach than the 1982 rule, which focused on individual resources and provided detailed planning processes and guidance based on the type of resource. These requirements did not necessarily translate into integrated plan components and often led to fragmented management of resources within the ecosystem with each resource considered independently within the plan and within Agency management structures. In addition, the level of detail in the requirements was often not relevant or an appropriate fit for circumstances on an individual unit, resulting in Forest Service employees spending disproportionate time on processes that produced little value for plan direction and subsequent management.

Many people expressed a desire for very prescriptive national requirements established for various resources or program areas. Others expressed a desired for a more holistic approach to management focusing on the system as a whole. Still others wanted to see the planning process become “simpler” and “more elegant” without detailed procedures or national prescriptive standards that might become outdated or might not work for all units.

The Agency believes that an interdisciplinary process is the best way to achieve integration of all resource concerns, recognizing that ecosystems are complex communities of interconnected and interdependent resources and systems that function as a whole. To be effective, land management strategies must take into account a wide range of resource conditions and values and strive to achieve multiple benefits while managing the risk of adverse effects to interconnected systems.

This section would require that in meeting the requirements of § 219.8 and § 219.9, and within Forest Service authority, the capability of the plan area and the fiscal capability of the unit, the plan would provide for multiple uses, including ecosystem services, outdoor recreation, range, timber, watershed, wildlife, and fish. Paragraph (a) identifies nine factors the responsible official would be required to consider when developing plan components to provide for multiple uses, to the extent that each factor is relevant to the plan area. This requirement builds on a similar requirement in § 219.7(c)(2)(ii), as well as consideration of the resources on the unit during the assessment phase.

First, the responsible official would be required to consider the existence and relative value of the resources on the unit. The list included in the proposed rule is intentionally long in order to reflect stakeholder and agency staff comments that all relevant resources and stressors need to be considered during the planning process. There may be some uses or benefits not included in the list that could be considered if they arise in connection with plan development or revision. The Agency invites public comment on the scope of this list in § 219.10(a)(1). In addition to the resources included on the list, and any others that are relevant, § 219.10(a)(2) and (3) would direct responsible officials to consider renewable and nonrenewable energy and mineral resources on the unit in the context of the unit's contributions within the broader landscape, along with the sustainable management of infrastructure on the unit, such as recreational facilities and transportation and utility corridors.

The proposed rule would require responsible officials to consider opportunities to coordinate with neighboring landowners to link open spaces and take into account joint management objectives where feasible and appropriate. The responsible official would also be required to consider the landscape-scale context for management as identified in the assessment and the land ownership and access patterns relative to the plan area. These requirements reflect the “all-lands” approach the Agency is taking to resource management.

The responsible official would also be required to consider habitat conditions, subject to the requirements of § 219.9, for wildlife, fish, and plants commonly enjoyed and used by the public, such as species that are hunted, fished, trapped, gathered, observed, or needed for subsistence. This requirement is intended to respond to comments the Agency received, particularly from Indian Tribes and State game and fish departments, that certain species play a special role in contributing to social, cultural, and economic sustainability, and that plans should consider habitat for those species beyond what is required to provide diversity. Through this provision the Agency recognizes the important role of NFS lands in providing the habitat for these species subject to the provisions of §§ 219.8 and 219.9. This provision is not intended to require that units support the population goals of State agencies.

Paragraphs (a)(8) and (a)(9) would require that the responsible official take into account reasonably foreseeable risks to ecological, social, and economic sustainability and the potential impacts of climate and other system drivers, stressors, and disturbance regimes, such as wildland fire, invasive species, and human-induced stressors, on the unit's resources. These requirements would build on the assessment and lead into the monitoring phases of planning and are intended to ensure that the responsible official has a science-based understanding of the context for managing resources and providing for multiple uses. Paragraph (a) is not intended to require an exhaustive analysis; rather, the responsible official would consider existing information (§ 219.6), identify gaps and uncertainties in the information, and move forward with reasonable assumptions that could be monitored over time (§ 219.12).

Specific Requirements for Plan Components

This section further describes specific requirements for plan components for new plans or plan revisions. These requirements would be developed based on the set of resources considered in paragraph (a) that contribute to the unique role of the unit in the larger landscape.

Recreation

The high value placed on recreation has been a common theme throughout the public participation process leading to the proposed planning rule. Many people said that the NOI ignored recreation as a stand-alone issue, and wanted the rule to address it separately from the other multiple uses. Others said that recreation should be considered along with, and equal to, all other multiple uses.

Americans make over 170 million visits to national forests and grasslands each year. These visits provide an important contribution to the economic vitality of rural communities as spending by recreation visitors in areas surrounding national forests amounts to nearly 13 billion dollars annually. Recreation is also a critical part of social sustainability, connecting people to nature, providing for outdoor activities that promote long-term physical and mental health, enhancing the American public's understanding of their natural and cultural environments, and catalyzing their participation and stewardship of the natural world. Providing for sustainable recreation is one of the biggest challenges and opportunities facing the Forest Service, and land management planning is a critical process in meeting this need. The proposed rule recognizes the importance of recreation as a multiple use, and integrates recreation concerns and provides for the unique needs of the recreation resource throughout the planning process, including in the assessment and monitoring phases.

Section 219.8 would require the responsible official to take sustainable recreation opportunities and uses into account when developing plan components to contribute to social and economic sustainability. This section would go a step further, requiring that plan components provide for sustainable recreation, considering opportunities and access for a range of uses. It also calls for plans to identify recreational settings and desired conditions for scenic landscape character. The proposed rule defines sustainable recreation as “the set of recreational opportunities, uses and access that, individually and combined, are ecologically, economically, and socially sustainable, allowing the responsible official to offer recreation opportunities now and into the future. Recreational opportunities could include non-motorized, motorized, developed, and dispersed recreation on land, water, and in the air.”

Together, these requirements and those in sections 219.6 and 219.12 reflect the Agency's intent that the unit would understand recreation roles, demands, benefits, and impacts in the assessment phase; include a set of plan components to provide for sustainable recreational opportunities, uses, and access in the plan, revision, or amendment; and monitor visitor use and progress toward meeting recreational objectives in the monitoring phase.

Cultural and Historic Resources

The Agency recognizes the social, cultural, and economic importance of cultural and historic resources and uses. This section would require that plans would contain plan components designed to protect cultural and historic resources and uses. Our intent in using the word “protection” is to ensure that the responsible official takes into account the effect a plan may have on cultural and historic values and provides for these resources and uses, within the context of managing for multiple uses. The intent is not to create a preservation mandate; rather, where actions might impair the resources or use, the responsible official would seek to avoid or minimize potential harm to the extent practicable. In some cases, damage may occur if necessary to achieve a different multiple use objective.

We also recognize that Tribes may have areas within the national forest system that are of special importance to them, and our intent is to ensure that the responsible official recognizes those areas and provides appropriate management.

Section 219.8 would also require the responsible official to take cultural and historic resources on the unit into account when developing plan components to contribute to social and economic sustainability. Benefits of cultural and historic sites include expanded knowledge and understanding of history; cultural and spiritual connections to our heritage; scientific data about past cultures or historical conditions and similar matters; and tourism that benefits rural economies. The Agency considers these resources very important for social sustainability as well as important economic contributors.

Wilderness, Wild and Scenic Rivers, and Other Designated Areas

This section would require that plan components provide for the protection of designated wilderness areas and wild and scenic rivers, and for the protection of recommended wilderness and eligible or suitable wild and scenic rivers in order to protect the ecologic and social values and character for which they may at some point be included in the system(s). These requirements meet agency responsibilities under the Wilderness Act and the Wild and Scenic Rivers Act and are consistent with the recognition in the MUSYA that wilderness protection is a valid multiple use. Wilderness areas provide important places for recreation, solitude, and renewal; are refuges for species; and, like cultural and historic sites, can attract tourism that benefits rural economies.

Some members of the public wanted the rule to include additional restrictions on uses within recommended wilderness areas and for eligible or suitable wild and scenic rivers. The Agency believes the requirement in the proposed rule meets the Agency's intent to ensure, in the case of recommended wilderness, that the types and levels of use allowed would maintain wilderness character and would not preclude future designation as wilderness, and, in the case of eligible or suitable wild and scenic rivers, that no modification to the free-flow, river-related values, or classification would be allowed which would preclude future designation.

The Agency also manages other kinds of designated areas, including experimental forests, national heritage areas, national monuments, national recreational areas, national scenic trails, research natural areas, and scenic byways. These are areas or features within a planning unit with specific management direction normally established through a process separate from the land management planning process, including by statute or through a different administrative process. These areas can contribute in important ways to social and economic sustainability as well as ecologic sustainability. This section would require that plan components provide protection and appropriate management guidance for those areas, based on the purpose for which the area is established.

Section 219.11 Timber Requirements Based on the NFMA

Timber is one of the multiple uses of the NFS, as recognized by the MUSYA and the Act of 1897, also known as the Organic Administration Act. The National Forest Management Act of 1976 at the time signaled a new direction for the planning and management of NFS lands, especially with regard to management of the timber resource and impacts to other resources. Management and use of timber harvest on NFS lands continue to evolve. Today, harvest of timber on NFS lands occurs for many different reasons, including restoration of ecological resilience, community protection in wildland urban interfaces, habitat restoration, and protection of municipal water supplies. Timber harvest also supports economic sustainability through the production of timber, pulp for paper, specialty woods for furniture, and fuel for small-scale renewable energy projects. Timber harvesting, whether for restoration or wood production objectives, also provides employment and tax revenue in many counties throughout the country.

This section would meet the statutory requirements of the NFMA related to management of the timber resource. It includes provisions for identification of lands as suitable or not suitable for timber production. It would allow for timber harvest on lands unsuitable for timber production for other reasons, such as for: achieving desired conditions and objectives of the plan, multiple use purposes, sanitation, salvage, or protection of public health and safety. The NFMA, along with the proposed requirements of this section, would provide for mitigation of the effects of timber harvest on other resources and multiple uses. Other sections of this proposed rule contain provisions that would supplement the protections of this section.

The specific factors proposed in this rule for identifying lands not suitable for timber production are based on the NFMA requirements limiting timber harvest (16 U.S.C. 1604(g)(3)(E)) and agency policy. Lands would be suitable for timber production unless they are identified in the plan as not suitable, and, as required by the NFMA, lands not suitable for timber production must be reviewed every 10 years to determine whether they are still not suitable. The proposed rule clarifies that timber harvest on lands suitable for timber production can also occur for other reasons, including resource management, restoration, or community protection.

Paragraph (a)(1)(iv) of this section is a specific factor that would not allow lands to be identified as suitable for timber production unless technology is currently available for conducting timber harvest without causing irreversible damage to soil, slope, or other watershed conditions or substantial and permanent impairment of the productivity of the land. Available technology may vary from place to place, and could be any of the following: Horse logging, ground based skidding, aerial systems, or cable logging systems. This provision has been in place since the 1979 rule, to meet the NFMA obligation to consider physical factors to determine the suitability of lands for timber production. The factor has been effective in protecting watershed conditions.

In addition, the proposed rule at paragraph (d) of this section would require plan components to ensure that timber will be harvested from NFS lands only where such harvest would not violate the NFMA prohibition of timber harvest that would irreversibly damage soil, slope or other watershed conditions (16 U.S.C. 1604(g)(3)(E)(i)). This prohibition applies whether the harvest is for timber production or other purposes, and whether or not lands were identified as suited for timber production.

Some people requested the proposed rule change or add to the NFMA criteria for defining lands not suitable for timber harvest. The Agency believes that the NFMA provisions continue to provide a firm foundation for identifying these lands. The proposed rule includes an additional requirement that would prohibit timber production where it is not compatible with the achievement of desired conditions and objectives established by the plan, including those desired conditions and objectives designed to meet requirements for plan development or revision (§ 219.7); social, economic, and ecological sustainability (§ 219.8); plant and animal diversity (§ 219.9); multiple uses (§ 219.10); and timber (§ 219.11). Some people requested that additional limits be placed on the harvest of timber on lands not suitable for timber production. The Agency believes that the provisions of this section would provide a balanced approach, allowing timber harvest on lands not suitable for timber production if it serves as a tool for achieving or maintaining plan desired conditions or objectives. Timber harvest today is used often to achieve ecological conditions and other multiple use benefits for purposes other than timber production; therefore we have included § 219.11(b)(2) in the proposed rule to clarify.

Paragraph (d) sets forth limits on timber harvest, regardless of the reason, on all NFS lands. All plans would, at a minimum, comply with the limitations set forth by the NFMA (16 U.S.C. 1604(g)(3)(E) and (F)). These requirements would limit harvest to situations where the productivity of the land could be sustained and harvesting prescriptions are appropriately applied. These requirements are referenced but not repeated because the Agency believes they are incorporated and enhanced by the requirements for resource protection and plan compatibility set forth in this section of the proposed rule. However, paragraph (d) does reiterate that harvests must be carried out in a manner consistent with the protection of soil, watershed, fish, wildlife, recreation, and aesthetic resources.

Paragraph (d) also includes requirements that track the NFMA at 16 U.S.C. 1604(g)(3)(F) regarding even-aged timber harvest. These requirements: (1) Limit clearcutting to locations where it is determined to be the optimum method for regenerating the site; (2) require interdisciplinary review of the harvest proposal; (3) require cutting to be blended with the natural terrain; (4) establish maximum size limits of areas that may be cut; and (5) require that harvest is consistent with resource protections. These limits on the maximum opening sizes were established in the 1979 planning rules and have been in use under the 1982 rule. There were no issues raised about these default maximum size limits in the public comments on the notice of intent or in the collaborative round tables. The procedure for varying these limits is an established process and has worked effectively, providing a limit on opening size and public involvement with higher level approval for exceeding the limits.

The Agency believes that the procedure for varying from these limits may be particularly justifiable in the future for ecological restoration, species recovery, improvement of vegetation diversity, mitigation of wildland fire risk, or other reasons. For example, some rare species are adapted to large patch sizes with similar habitat attributes for critical parts of their life cycle.

Many of the specific NFMA requirements related to timber harvest are not reiterated in the text of the proposed rule, but are incorporated by reference. Some requirements are not repeated because they are addressed by other regulations; for example, the NEPA regulations direct environmental analysis and the use of interdisciplinary teams. Other requirements are not repeated because they are addressed under separate sections of the proposed rule. For example, the minimum harvest limitations are not repeated because § 219.8 incorporates and exceeds the requirements of the NFMA.

Many of the NFMA provisions referenced or included in this section refer to project level activities. The proposed planning rule provides the proposed guidance for developing plans, not guidance for individual projects, and it is important to recognize that any individual timber project or activity could not provide for all aspects of social, economic, or ecological sustainability. However, all projects and activities must be consistent with the plan components developed to meet the requirements of sustainability, diversity, and multiple uses (§§ 219.8 through 219.10), as required by § 219.15.

Section 219.12 Monitoring

Monitoring is a critical part of the proposed planning framework that provides a feedback loop for adaptive management and is intended to test assumptions underpinning management decisions, track conditions relevant to management of resources on the unit, and measure management effectiveness and progress toward achieving desired conditions and objectives.

This section sets forth the proposed requirements for the monitoring program, including unit-level and broader-scale monitoring. The unit-level monitoring program would be informed by the assessment phase, developed during plan development, plan revision, or amendment, and implemented after plan approval. The regional forester would develop broader-scale monitoring strategies while the responsible official would develop the unit monitoring program. Monitoring results and data would be documented in biennial monitoring evaluation reports, which would include an assessment of whether or not the new information suggests there is a need to change the plan or the monitoring program, or do a new assessment.

In developing the monitoring program, the Agency intends for responsible officials to coordinate with each other, with other parts of the Agency, and with partners and the public. The proposed rule also would require that the responsible official ensure that monitoring efforts are integrated with relevant broader-scale monitoring strategies to ensure that monitoring is complementary and efficient, and that information is gathered at scales appropriate to the monitoring questions. The Agency does not intend for the requirements in this section to lead to an exhaustive or research-based program; monitoring must be targeted toward information needed to inform management of resources on each unit.

The unit-level monitoring program could be changed either in a plan revision or amendment, or through an administrative change (§§ 219.6 and 219.13).

Unit-Level Monitoring

As proposed, the unit-level monitoring program would be part of required other content in the plan, developed by the responsible official, or two or more responsible officials, during development of a new plan or plan revision, with input provided by the public through opportunities for public participation throughout the planning process. The unit-monitoring program sets out unit-monitoring questions and associated indicators, which would be designed to inform the management of resources on the unit.

The responsible official would have the discretion to determine the scope and scale of the monitoring program that best meets the information needs identified through the planning process as most critical for informed management of resources on the unit, taking into account existing information and the financial and technical capacity of the Agency.

This section has eight specific requirements for every unit-monitoring program. This set of requirements is designed to link the monitoring program back to the assessment and plan development or revision phases of the planning framework and to the substantive content requirements set forth in other sections of the proposed rule, thereby creating a feedback loop for adaptive management. A range of monitoring techniques may be used to meet the eight specific requirements.

Every monitoring program would contain one or more questions or indicators that address each of the following: the status of select watershed conditions; the status of select ecological conditions; the status of focal species; the status of visitor use and progress toward meeting recreational objectives; measurable changes on the unit related to climate change and other stressors on the unit; the carbon stored in above ground vegetation; the progress toward fulfilling the unit's distinctive roles and contributions to ecological, social, and economic conditions of the local area, region, and Nation; and finally, the effects of management systems to determine that they do not substantially and permanently impair the productivity of the land.

Monitoring for ecological and watershed conditions is intended to support achievement of the sustainability and diversity requirements of §§ 219.8 and 219.9, and the provisions of multiple uses including ecosystem services in § 219.10.

The proposed requirement that monitoring questions address the status of visitor use and progress toward meeting recreational objectives is intended to support achievement of the sustainable recreation requirements of § 219.8 and the multiple use requirements of § 219.10.

Monitoring questions developed to measure changes on the unit related to climate change and carbon stored in above ground vegetation are intended to help responsible officials understand potential impacts to resources from climate change, as well as contributions of the unit to carbon storage. Currently, the Agency tracks information about climate change influences and carbon storage using the Forest Inventory and Analysis (FIA) through protocols of the Research and Development branch of the Forest Service. The FIA protocol has been an ongoing process for some time. Although they are a required part of the unit monitoring program, it is likely that these monitoring requirements would be coordinated with other agency actions on climate change, and would be met using a broader-scale approach.

Monitoring questions to measure progress toward fulfilling the unit's distinctive roles and contributions to the ecological, social, and economic conditions of the local area, region, and Nation are intended to help the responsible official understand how resources on the unit would contribute to sustainability both locally and in the context of the broader landscape. Monitoring questions that focus on the plan components of desired conditions (the vision for future conditions) and objectives (strategy to make progress toward achieving desired conditions) are expected to be most useful for meeting this requirement.

Monitoring to determine that management systems are not substantially or permanently impairing the productivity of the land is intended to meet the NFMA requirements.

Focal Species and Management Indicator Species

The proposed requirement for monitoring questions that address the status of focal species is linked to the requirement of § 219.9 of the proposed rule to provide for ecosystem diversity, which describes the coarse filter approach for providing diversity of plant and animal communities. The term “focal species” is defined in the rule as: a small number of species selected for monitoring whose status is likely to be responsive to changes in ecological conditions and effects of management. Monitoring the status of focal species is one of many ways to gauge progress toward achieving desired conditions in the plan.

There are several categories of species that could be used to inform the selection of focal species for the unit. These include indicator species, keystone species, ecological engineers, umbrella species, link species, species of concern, and others.

Monitoring the status of selected focal species over time is intended to provide insight into the integrity of ecological systems on which those species depend and the effects of management on those ecological conditions (i.e., the coarse filter aspect of the diversity requirement). It is not expected that a focal species be selected for every element of ecological conditions. The proposed requirement for the responsible official to monitor a small number of focal species is intended to allow discretion to choose the number needed to properly assess the relevant ecological conditions across the planning area, within the financial and technical capabilities of the Agency.

The choice to have the proposed rule require monitoring of focal species as well as select ecological and watershed conditions is a shift from the 1982 rule's requirement to specifically monitor population trends of “management indicator species,” or MIS. The theory of MIS has been discredited since the 1982 rule. Essentially, monitoring the population trend of one species should not be extrapolated to form conclusions regarding the status and trends of other species. In addition, population trends for most species are extremely difficult to determine within the 15-year life of a plan, as it may take decades to establish accurate trend data, and data may be needed for a broader area than an individual national forest or grassland. Instead, the Agency expects to take advantage of recent technological advancements in monitoring the status of focal species, such as genetic sampling to estimate area occupied by species.

Broader-Scale Monitoring Strategies

The proposed rule would require the regional forester to develop a broader-scale monitoring strategy for those monitoring questions that could best be answered at a scale broader than one unit; for example, detecting changes in conditions related to wide-ranging or migratory species or measuring stressors such as climate change.

The proposed broader-scale monitoring strategy would be a new requirement for the Agency. Other options were considered, such as requiring only a unit-level monitoring program without any specific monitoring requirements. However, the Agency believes that having broader-scale monitoring strategies provides a way to distribute the monitoring workload most efficiently. Unit-level monitoring would be focused on answering questions directly related to the management of an individual plan area, and that are within the capability of the unit to measure. Broader-scale monitoring would look at how plans fit within the larger landscape, taking into account drivers and stressors affecting large ecosystems, multiple land ownerships, and information available from other branches of the Agency as well as other governmental and nongovernmental partners.

Coordinating Unit-Level and Broad-Scale Approaches

The Agency recognizes that the timing of plan revisions and the development of broader-scale strategies needs to be coordinated. In some cases, a plan revision for a unit may not be scheduled for 8 or 10 years, which would delay the development and implementation of an effective broader-scale strategy. To address this concern, the Agency proposes that within 4 years of the effective date of the rule, or as soon as practicable, all units would change their unit-monitoring program to comply with the requirements of this section.

Biennial Evaluations

Many scientists, agency employees, and the public emphasized the importance of using monitoring to measure the effectiveness of plans and regularly evaluate monitoring results to change the plan or to change management activities. Others wanted to use pre-determined thresholds, called triggers, to initiate a change to management activities. These concerns are addressed by the proposed requirement that the responsible official conduct a biennial evaluation of the monitoring information and determine whether there is a need for an administrative correction, a plan amendment, or plan revision. The biennial evaluation of monitoring information is intended to provide a report on progress toward meeting desired conditions and other plan components to determine whether additional actions are necessary. The biennial monitoring evaluation does not need to evaluate all questions or indicators on a biennial basis but must focus on new data and results that provide new information for management.

The Agency considered other timeframes for the evaluation, such as an annual evaluation or a 5-year evaluation. The Agency experience is that an annual evaluation is too frequent to determine trends or to accumulate meaningful information and the 5-year time frame is too long to wait in order to respond to changing conditions. Therefore, the Agency proposes that the monitoring evaluation would occur at a 2-year interval.

The Agency also considered requiring pre-determined thresholds or triggers to initiate a change to management activities. The Agency experience is that pre-determined thresholds may be quite difficult to develop and therefore may take years to formulate when there is uncertainty regarding scientific or other information. Instead, during the biennial evaluation, the responsible official would decide whether the monitoring data indicates that a change to the plan or management activities is warranted. Changes to the monitoring program would also be considered based on the evaluation, to ensure that monitoring remains effective and relevant.

The first monitoring evaluation for a plan or plan revision developed under this proposed rule would have to be produced no later than 2 years from the time of plan approval. For plan monitoring programs that were developed under the provisions of a prior planning regulation, the first monitoring evaluation would have to be produced no later than 2 years from any change made to meet the requirements of this section. The proposed rule would require all units to change their monitoring programs to conform to this section of the rule within 4 years of the effective date of the rule, or as soon as practicable.

The public notice of the availability of the monitoring evaluation report may be made in any way the responsible official deems appropriate (§ 219.16(c)(5)). The responsible official may post on the Forest Service Web site. The responsible official may postpone the monitoring evaluation for 1 year after providing notice to the public in the case of exigencies such as a natural disaster or catastrophic fire.

Section 219.13 Plan Amendment and Administrative Changes

This section sets out the proposed process for changing plans through plan amendments or administrative changes. The requirements in this section are intended to facilitate rapid amendment and adjustment of plans. The section would allow the responsible official to use new information obtained from the monitoring program or other sources and react to changing conditions to amend or change the plan.

Public comments emphasized the need for the Agency to have a framework for adaptive management. Under this proposed rule's framework, the Agency anticipates the availability of more complete information provided through the unit-monitoring program and evaluation reports. The framework is also expected to facilitate more collaboration with the public and a more efficient amendment process. Comments about how to change the plan ranged from a desire for a flexible and rapid approach to plan changes, to those who wanted more structure and requirements for both the process of planning and actual content of the plan. The Agency believes the approach taken in the proposed rule strikes an appropriate balance with rule requirements commensurate with the three methods of changing the plan described below.

Plan revisions as described in § 219.7 contain more comprehensive requirements, as the revision stage is the appropriate time for a comprehensive evaluation of the plan. As noted in § 219.7, plan revisions are required every 15 years. However, the responsible official has the discretion to determine at any time that conditions on a unit have changed significantly such that a plan must be revised. A plan revision before the 15-year requirement has been rare in the past, and is expected to be rare in the future.

Plan amendments incrementally change the plan as need arises. Plan amendments could range from project specific amendments, amendments of one plan component, to the amendment of multiple plan components. Finally, the proposed rule allows for administrative changes, which would allow for rapid correction of errors in the plan components and rapid adjustment of other content in the plan.

Plan Amendments

The proposed rule would provide that the responsible official could amend plans or change the plan at any time. Plan amendments would be required whenever a plan component would be materially altered (clerical errors could be corrected by an administrative change). Plan amendments may change other content in the plan. The process requirements for plan amendments and administrative changes would be simpler than those for new plan development or plan revisions in order to allow responsible officials to keep plans current and adapt to new information or changed conditions.

The proposed rule would require that for new plans or plan revisions responsible officials conduct an assessment and collaboratively develop the plan proposal prior to issuing a proposed plan and environmental documents, entertaining objections to the proposed plan, and approving the plan or plan revision. Amendments may include each of those steps, but the proposed rule would allow the responsible official to rely on a documented need to change the plan to propose an amendment without doing an assessment or including the separate process step of developing a proposal before issuing a proposed amendment.

An amendment would be preceded by a documented need to change the plan, set out in an assessment report, monitoring evaluation report, or other source. For example, a monitoring evaluation report may show that a plan standard is not sufficiently protecting streambeds, indicating that a change to that standard may be needed to achieve the unit's objective or desired condition for riparian areas. In that case, the responsible official could choose to act quickly to propose an amendment to change that particular plan component, without doing an additional assessment or developing a proposal that goes further than the specific need to change the plan clearly indicated by the monitoring report.

However, the responsible official could choose to conduct an assessment and take additional time to develop a proposal when the potential amendment is broader or more complex or requires an updated understanding of the landscape-scale context for management. For example, a monitoring evaluation report may indicate that a new invasive species is affecting forest health on the unit. The responsible official may want to conduct an assessment to synthesize new information about the spread of that species, how other units or land management agencies are dealing with the threat, what stressors make a resource more vulnerable to the species, how the species may be impacting social or economic values, or how neighboring landowners are approaching removal of the species. The outcome of the assessment may identify a need to change the plan through an amendment. The responsible official, consistent with the requirements for public participation in § 219.4, would then collaboratively develop with the public a proposal to amend several plan components to deal with the invasive species.

For plan amendments done to make a specific project or activity consistent with a plan, the project analysis alone would likely suffice to document the need to change the plan.

All plan amendments must comply with Forest Service NEPA procedures. The proposed rule provides that appropriate NEPA documentation for an amendment could be an EIS, an environmental assessment (EA), or a categorical exclusion (CE) depending upon the scope and scale of the amendment and its likely effects.

Administrative Changes

Administrative changes would be permitted to correct clerical errors to plan components, to alter content in the plan other than the plan components, or to achieve conformance of the plan to new statutory or regulatory requirements. A clerical error is an error of the presentation of material in the plan such as phrasing, grammar, typographic errors, or minor errors in data or mapping that were appropriately evaluated in the development of the plan, plan revision, or plan amendment.

An administrative change could not otherwise be used to change plan components or the location in the plan area where plan components apply, except to conform the plan to new statutory or regulatory requirements. Whether an administrative change or an amendment would be done to conform plan components to a new statutory or regulatory requirement would depend upon the requirement. A requirement that would allow no discretion in management would call for simply an administrative change, as there would be no decision for the responsible official to make, and no reason for public input. For example, an addition of lands to an existing wilderness boundary would call for simply extending the wilderness plan components to the newly included lands, as there would be no reason to manage those lands differently from the rest of the wilderness. In contrast, designation of an entirely new wilderness would require a plan amendment to ensure appropriate public involvement in the development of plan components for the new wilderness area.

Other content in the plan that could be altered with an administrative change, as identified in § 219.7(e), includes the monitoring plan, the identification of watersheds that are a priority for maintenance or restoration, the unit's distinctive roles and contributions, and information about proposed or possible actions that may occur on the unit during the life of the plan. The plan may also include additional items such as other content in the plan, including management approaches or strategies; partnership opportunities and coordination activities; or criteria for priority areas or activities to achieve objectives of the plan.

An example of how the responsible official may conform the plan to a new statutory requirement would be if a new wilderness bill becomes law and it adds land to an existing wilderness area. To comply with the law, the responsible official may modify the management area map contained within the plan through an administrative change. This change would allow the existing plan components for the existing wilderness area to apply to the additional land. If the responsible official determines an administrative change is appropriate, the responsible official would post notice of the administrative change on the planning unit's Web site.

The proposed rule would require the responsible official to provide public notice before issuing an administrative change. If the change would be to the monitoring program, the responsible official would provide public notice and an opportunity for the public to comment on the intended change and consider public concerns and suggestions before making a change. Following this notification, the responsible official would adjust the plan. The Agency believes that allowing administrative changes to other content, other than plan components, would help the responsible official adapt to changing conditions, while requiring the responsible official to notify the public.

Section 219.14 Decision Documents and Planning Records

The proposed rule would require the responsible official to record approval of a new plan, plan revision, or amendment in a decision document prepared according to Forest Service NEPA procedures. This section describes requirements for decision documents and associated records for approval of plans, plan amendments, or plan revisions.

Decision Document

Many members of the public have expressed a desire for greater transparency to help understand decisionmaking in the development, revision, and amendment of plans. The proposed rule would require the decision document to describe the rationale for approval of a plan. It further would require that the decision document include an explanation of how plan components meet plan requirements for sustainability and diversity set forth in §§ 219.8 and 219.9. This explanation would allow the responsible official to say what the plan components are designed to do given the limits of Forest Service authority and the capability of the plan area. In addition the explanation would be required to describe how the plan applies to approved projects and activities (§ 219.15(a)), and how the best available scientific information was taken into account and applied (§ 219.3). The decision documents must contain research station director concurrence on experimental forests and ranges (§ 219.2(b)(4)) to ensure proper coordination between the Research and NFS branches for the management of these areas. The effective date of approval (§ 219.17) would also be required to clarify the exact date the plan action takes effect.

These requirements would help provide a clearer understanding of the approval, the reasons for approving the plan, plan revision, or plan amendment and its immediate consequences in a way that is clear to all participants in the planning process.

Meeting the proposed requirements for a plan development or plan revision would require a comprehensive discussion of each of these requirements with respect to the plan. For an amendment, these requirements would only need to be described for those plan components being changed by the plan amendment. For example, if a plan amendment does not change plan components applicable to an experimental forest or range, there would be no need to document the research station director's concurrence with the amendment. For plan development or revision, the decision document would also be accompanied by a final EIS. A plan amendment would be accompanied by appropriate NEPA documentation.

Planning Records

This section also sets forth basic requirements for the responsible official to maintain public documents related to the plan and monitoring program. It would require the responsible official to ensure that certain key documents are readily accessible to the public online and through other means. The published planning documents associated with a plan, plan revision, or amendment are listed in paragraph (b)(1) of this section. These documents must be posted online. Other documents that support the analytical conclusions and alternatives of the planning process would be part of the planning record and must be available to the public although they would not be required to be online. The planning record for each plan, plan revision, or amendment would be required to be maintained and available to the public at the office that developed that plan, plan revision, or amendment.

Section 219.15 Project and Activity Consistency With the Plan

The NFMA requires that “resource plans and permits, contracts and other instruments for the use and occupancy of National Forest System lands shall be consistent with the land management plans” (16 U.S.C. 1604(i)). However, no previous planning rule provided specific criteria to evaluate consistency of projects or activities with the plan. Forest Service policy was that consistency could only be determined with respect to standards and guidelines, or just standards. See the 1991 Advanced Notice of Proposed Rulemaking 56 FR 6508, 6519-6520 (Feb. 15, 1991) and the 1995 Proposed Rule, at 60 FR 18886, 18902, 18909 (April 13, 1995).

The Forest Service's position has been that a project's consistency with a land management plan could only be determined with respect to standards and guidelines, because an individual project by itself could almost never achieve objectives and desired conditions. Objectives and desired conditions are long-term aspirations whose achievement would depend on the cumulative effect of a number of agency actions, and often on factors outside the agency's control.

We continue to believe that the consistency requirement cannot be interpreted to require achievement of the aspirational components of a plan, but we believe that we can interpret the consistency requirement, in a way that makes those components more meaningful in the day-to-day management of the unit. The proposed rule therefore would provide that each project must be expected to either to move the plan area toward desired conditions and objectives, or at least not to preclude the eventual achievement of desired conditions or objectives.

This interpretation would apply to plans developed under this rule. Plans developed under prior rules were not developed with this interpretation in mind, and therefore applying this interpretation to projects governed by such plans would not be feasible or appropriate.

This section would provide that projects and activities authorized after approval of a plan, plan revision, or plan amendment developed pursuant to this rule must be consistent with plan components as set forth in this section. Project approval documents would have to describe how the project or activity is consistent in order for it to be considered as such. The proposed rule specifies criteria to evaluate consistency with the plan for each plan component.

The proposed rule states that a project or activity must contribute to the maintenance or attainment of one or more goals, desired conditions, or objectives, or must not foreclose the opportunity to maintain or achieve any goal, desired condition, or objective over the long term. Desired conditions, objectives, and/or goals are all expected to provide the purpose and need for most projects and activities; thus, most projects or activities would usually be designed to meet one or more of these plan components. For example, if a plan has an objective to construct X number of trails for recreation over Y years, a project to build trails would be consistent with that objective.

However, even when a project is proposed for a reason other than to meet a desired condition, objective, or goal (for example, an unexpected proposed use such as a new permit application), the project would be consistent if and only if it does not foreclose the possibility of achieving any desired conditions, objectives, and goals of the plan. As an example, a project is proposed to repair the effects of a landslide, but the plan does not describe desired soil conditions, or objectives for repairing landslides. If the repair project does not prevent achieving other goals, desired conditions, or objectives, the project would be consistent with these plan components.

This paragraph of the proposed rule also would require projects or activities to comply with applicable standards. Projects or activities would also have to be consistent with applicable guidelines, but consistency may be determined in one of two ways. The project or activity either must comply with the applicable guidelines or must be designed in a way that is as effective in carrying out the intended contribution to the applicable goals, desired conditions, or objectives; avoiding or mitigating undesirable effects; or meeting applicable legal requirements.

For example, a plan could contain a guideline designed to protect a riparian area that recommends not allowing soil-disturbing activities within 300 feet from the edge of a perennial stream. The responsible official could propose to eliminate or control invasive species of plants with prescribed burning, which would require a mechanical fireline within 200 feet of the same stream and other streams and wetlands. After site-specific examination, an interdisciplinary team might recommend that the fireline be allowed in that location, if sediment fences, slash, logs across slopes, and straw bales are used to protect water quality in the nearby stream from sediment (loose soil) in stormwater runoff. A responsible official may conclude that the project, as designed, is consistent with the guideline since its mitigation measures are as effective as the 300 foot recommendation in contributing to desired conditions for the stream system.

For the suitability plan component, the project or activity would be consistent if it occurred in an area the plan has identified as suitable for that type of project or activity, or in an area for which the plan is silent with respect to the suitability of that type of project or activity.

This section of the proposed rule would give the responsible official four options to resolve inconsistency, subject to valid existing rights, when it is determined that a proposed project or activity would be inconsistent with the plan. The project or activity may be modified so that it is consistent, or may be rejected, or terminated. Alternately, the responsible official could make a general amendment to the plan so the project or activity is consistent with the plan as amended. The responsible official could also make a project-specific amendment contemporaneously with the approval of the project or activity so that it is consistent with the plan as amended.

Project specific amendments are usually short-lived with the project, very localized to the project area, and have limited utility outside of the project activity. Project specific amendments allow appropriate action or a reasonable project to continue without unnecessary delay for a larger permanent amendment process. This provides a means to accommodate exceptions.

The Agency has experienced difficulties determining how new plan components and content in a plan apply to existing projects and activities when amending or revising plans. This section would require (with respect to projects and activities approved before the effective date of the plan, plan amendment, or plan revision) that either: (1) The plan approval document must expressly allow such projects to go forward or continue, and thus deem them consistent, or (2) in the absence of such express provision, the authorizing instrument (permit, contract, etc.) approving the use, occupancy, project, or activity must be adjusted as soon as practicable to be consistent with the plan, plan amendment, or plan revision, subject to valid existing rights.

Other types of plans may be developed for the lands or resources of the unit. These resource plans, such as travel management plans, wild and scenic river plans, etc., provide further guidance for approval of projects or activities; therefore, they would also be required to be consistent with the applicable land management plan. If such plans are not consistent, modifications of the resource plan must be made or amendments to the land management plan must be made to resolve any inconsistencies.

Section 219.16 Public Notifications

The proposed rule represents a significant new investment in public engagement designed to involve the public early and throughout the planning process. The Agency is making this investment in the belief that public participation throughout the planning process would result in a more informed public, better plans, and plans that are more broadly accepted by the public than in the past. This section is the companion to § 219.4, which sets forth direction for responsible officials to engage the public and provide opportunities for interested individuals, entities, and governments to participate in the planning process. In this section, the proposed rule sets forth requirements for public notification designed to ensure that information about the process reaches the public in a timely and accessible manner. This section describes when public notification is required, how it must be provided, and what must be included in each notice. The requirements in this section respond to the consensus that people want to be informed about the various stages of the planning process, with clear parameters for when and how they could get involved.

Public notification would be required to begin preparation of an assessment; begin the development of a plan proposal; propose a plan, plan amendment, or plan revision and invite comments on the proposed plan, plan amendment, or plan revision and accompanying environmental documentation; begin the objection period for a plan, plan amendment, or plan revision; and announce final approval of a plan, plan revision, or plan amendment (§ 219.16(a)). Notice would also be required if a responsible official chose to use a new planning rule to complete a plan, plan revision, or plan amendment initiated under the previous rule; and for administrative changes, changes to the monitoring program, assessment reports, and monitoring evaluation reports. Notice and public involvement in the assessment phase and development of a plan proposal are especially significant additions to the requirements for public notice included in prior planning regulations.

Discussions at several public meetings emphasized the importance of updating the way we provide notice to the public to ensure that we successfully reach a diverse array of people and communities and inform them about the process and how they could participate. Many people said that using only one outreach method would not reach all needed communities. In response, § 219.16 directs responsible officials to use contemporary tools to provide notice to the public, and, at a minimum, to post all notices on the relevant Forest Service Web site. In addition, the proposed rule continues to require traditional forms of formal notice, including the Federal Register or the applicable newspaper of record, for assessments and approval of plans, plan revisions, and plan amendments. For administrative changes, changes to the monitoring plan, and publication of assessment or monitoring reports, the responsible official must post the notice online and has discretion in determining other means of providing notice.

Public notices required in this section of the proposed rule must clearly describe the action subject to notice and the nature and scope of the decisions to be made; identify the responsible official; describe when, where, and how the responsible official will provide opportunities for the public to participate in the planning process; and explain how to obtain additional information about the action being taken or about the planning process. These requirements respond to the public's desire for clarity in communications to ensure the process is understandable and accessible.

This section of the proposed rule provides that “formal notifications may be combined where appropriate.” This provision would allow flexibility for plan amendments to have a more streamlined, efficient process than new plans or plan revisions, where appropriate. This approach is in keeping with the public's desire and the Agency's need for a process that allows units to quickly and efficiently adapt to new information and changing conditions. (See § 219.13 for further discussion.)

The requirements as proposed in § 219.16, along with those in § 219.4, should lead to a public participation effort that provides broad access and attempts to engage and meet the unique information needs of the public interested or affected by management on each unit.

Section 219.17 Effective Dates and Transition

Section 219.17 of the proposed rule describes when approval of plans, plan revisions, or plan amendments would take effect and when units must begin to use the new planning regulations.

A plan, plan amendment, or plan revision would take effect 30 days after plan approval is published. The NFMA (16 U.S.C. 1604(j)) requires the 30-day delay for plans and revisions. The proposed rule would also impose this delay upon amendments to be consistent with the process for plan development and plan revision. The only exception is for project specific amendments, which would take effect at the same time as the project(s) with which they are associated.

When the final rule goes into effect, new plans and plan revisions must conform to the new planning requirements in Subpart A. There would be a 3-year transition window during which amendments may be initiated and completed using the 2000 rule or the amendments may conform to the new rule. After 3 years, all new plan amendments would conform to the new rule. This transition period for new amendments would give the responsible official the option to facilitate rapid amendments to plans developed under previous rules for a limited time, until full familiarity with the new rule develops. No transition period would be provided for new plans or plan revisions. Plan revisions are comprehensive and the new regulations should be applied as soon practicable.

For plan activity (plan development, plan revision, or plan amendment) initiated before the new rule goes into effect, the responsible official may choose whether to complete the plan using the 2000 rule, as it is in effect now, or conform to the requirements of the new rule after providing notice to the public. This would allow the responsible official to consider many factors and determine what is best for the planning process on the unit.

After it goes into effect, the new rule will supersede all previous planning rules. Units with plans developed under the 1982 rule or rule procedures would no longer be subject to the requirements of the 1982 rule, but would continue to be subject to any requirements included in their plan. Activities and projects on those units would have to meet the requirements of the plan. This paragraph in the proposed rule is needed for clarity so that all NFS units understand they are subject to the new planning rule for plan development, plan amendment, and plan revision, while still requiring NFS units to follow the plan provisions of their current plans.

Section 219.18 Severability

If any part of this proposed rule is held invalid by a court, this section provides that the invalid part would be severed from the other parts of the rule, which would remain valid.

Section 219.19 Definitions

This section sets out and defines the special terms used in this proposed rule.

The Agency is about to ask for public comment on a proposed change to Forest Service Manual (FSM) 2020—Ecological Restoration and Resilience, which includes the definition of restoration. FSM 2020 provides foundational policy for using ecological restoration to manage National Forest System lands in a sustainable manner. The definition for restoration also appears in FSM 2020. The proposed rule definition is based on the definition in the current FSM 2020, but is not identical. The current directive may be found at http://www.fs.fed.us/im/directives/fsm/2000/id_2020-2010-1.doc. If you are interested in restoration, we hope you also review the proposed changes to FSM 2020 when the proposed directive is issued for public comment.

The Forest Service Directive System consists of the Forest Service Manual (FSM) and the Forest Service Handbook (FSH), which contain the Agency's policies, practices, and procedures and serve as the primary basis for the internal management and control of programs and administrative direction to Forest Service employees. The directives for all Agency programs are set out on the World Wide Web/Internet at http://www.fs.fed.us/im/directives.

Subpart B—Pre-Decisional Administrative Review Process

Introduction to This Subpart

The Forest Service has provided an administrative review process for decisions and proposals related to land management plans since they were first produced in the 1980s, and an appeal process by which the public can challenge individual project and permit decisions made by Forest Service responsible officials since 1906. The Forest Service has a long history of providing an administrative review process that has allowed interested individuals and organizations the opportunity to have unresolved concerns considered and responded to by an independent agency official at a level above the deciding official. This process has also provided for additional internal review to ensure that Forest Service proposals and decisions comply with applicable laws, regulations, and agency policy.

Prior to the 2000 rule, the administrative review process for unit plan decisions provided an opportunity for a post-decisional appeal. In other words, at the time the plan decision was issued, the plan was generally put into effect. This scenario has often been problematic because when reviewing appeals, if a reviewing officer finds fault with a plan already in effect, the remedy can be costly to both the Forest Service and the public in terms of time and money. Such a situation can also damage public trust in the planning process. Interim direction is often put into place while the responsible official prepares further analysis and other appropriate corrections.

With the promulgation of the 2000 planning regulations, and in subsequent regulations promulgated in 2005 and 2008, the Agency moved toward a pre-decisional administrative review process called an objection process. This process allows interested individuals to voice objections and point out potential errors or violations of law, regulations, or agency policy prior to approval of a decision. An objection prompts an independent administrative review by an official at a level above the deciding official and a process for resolution of issues. This change was intended to provide for better decisions and efficient resolution of issues. The Forest Service has successfully used a similar process since 2004 for administrative review of hazardous fuel reduction projects developed pursuant to the Healthy Forests Restoration Act; however, there has been limited application of the objection process to land management plan proposals due to legal challenges to the previous three planning regulations.

After a review of public comments and consideration of agency history regarding pre- or post-decision administrative appeal in this proposed rule, the objection process is proposed. This proposal is based on two primary considerations. First, a pre-decisional objection is more consistent with the collaborative nature of this proposed rule and encourages interested parties to bring specific concerns forward early in the planning process, allowing the Forest Service a chance to consider and respond to potential problems in a plan or decision before it is approved. Second, pre-decisional objections lead to a more timely and efficient process for developing plans, thus reducing waste of taxpayer and agency time and dollars spent implementing projects under plans subsequently found to be flawed.

Subpart B sets forth the requirements for the objection process in the proposed rule, explained in detail below.

Section 219.50 Purpose and Scope

This section states that the purpose of the subpart is to establish a process for pre-decisional administrative review of plans, plan amendments, and plan revisions.

Section 219.51 Plans, Plan Amendments, or Plan Revisions Not Subject to Objection

This section identifies those plans, plan amendments, or plan revisions that would not be subject to the pre-decisional objection process under the proposed rule. Specifically, if no individual or organization would be eligible to file an objection based on the requirements in § 219.53(a), then the plan proposal would not be subject to objection. Plans, plan amendments, or plan revisions proposed by the Secretary of Agriculture or the Under Secretary for Natural Resources and Environment would not be subject to the objection process of this subpart because the Department's position for all Forest Service administrative review processes has been that secretarial decisions are not subject to administrative review (the Agency anticipates that plans, plan amendments, or plan revisions proposed by the Secretary or Under Secretary would be rare occurrences); and if another administrative review process is used, the process in this subpart would not apply. Section 219.59 identifies the limited circumstances in which a different administrative review process may be used.

Section 219.52 Giving Notice of a Plan, Plan Amendment, or Plan Revision Subject to Objection Before Approval

Section 219.52 provides additional information for providing the public notice, required by section 219.16 subpart A, that would begin the objection filing period. This notice serves three particular purposes: (1) To notify parties eligible to file objections that the objection filing period is commencing; (2) to notify parties eligible to file objections and others of the availability of planning documents and how to obtain those documents; and (3) to establish a publicly and legally verifiable start date for the objection filing period.

Section 219.52 would require the Forest Service to make a special effort to ensure the public understands how the objection process in this subpart would be used for each plan, plan amendment, and plan revision. Specifically, the responsible official would be required to disclose the objection procedures by stating so during scoping under the NEPA process and in the appropriate NEPA documents. Early disclosure would help assure that those parties who may want to file objections are aware of the necessary steps to be eligible.

The proposed rule also would require the responsible official to make the public notice for beginning the objection filing period available to those who have requested the environmental documents or who are eligible to file an objection. This is intended to ensure that the necessary information reaches those who have specifically requested it and those who could have a particular interest in the start of the objection filing period by virtue of their eligibility to file an objection.

Paragraph (c) outlines the format and content of the public notice to ensure potential objectors have necessary procedural information, can find underlying documents, and understand the process, timing, and requirements for filing an objection.

Section 219.53 Who May File an Objection

This section of the rule identifies eligibility requirements for filing an objection under this subpart. This section is written in the context of § 219.4 in Subpart A, which expresses the Agency's intent to involve the public early and throughout the planning process in keeping with the collaborative nature of this proposed rule.

Paragraph (a) provides that individuals and organizations who have submitted “formal comments” related to a plan, plan amendment, or plan revision during public participation opportunities provided in planning process for that decision could file an objection. “Formal comments” are defined at § 219.63 as “written comments submitted to, or oral comments recorded by, the responsible official or his/her designee during an opportunity for public participation provided during the planning process and attributed to the individual or organization providing them.” This requirement would allow those who have engaged in the process in a substantive way to object to the plan decision. Since formal comments could be made at opportunities for public participation provided at any point in the planning process, the Agency believes it is not too high of a burden for a potential objector. The definition specifically would allow oral comments to be formally recorded in order to accommodate individuals new to the process or those who would prefer to submit their comments orally. At the same time, the requirement would include parameters for submitting formal comments to ensure the proposed rule would not inadvertently impose an unachievable burden on Forest Service officials to record every comment made, or written submission sent, outside of the offered participation opportunities. To honor the collaborative process and encourage participation in the numerous opportunities provided for public participation, this requirement would bar individuals or organizations who did not participate from using the objection process.

Paragraph (a) further would require that objections must be based on the substance of the objector's formal comments, unless the objection concerns an issue that arose after the opportunities for formal comment. Furthermore, the burden would rest with the objector to demonstrate compliance with the requirements for objection. This is to ensure that the Forest Service has the opportunity to hear and respond to potential problems as early as possible in the process so that new substantive problems are not identified at the end of the planning process when they could have been previously addressed.

Paragraph (b) states that when an organization submits comments, eligibility to submit an objection would be conferred on that organization only, not on individual members of that organization. The Agency believes an organization is its own entity for purposes of submitting comments, and that it is appropriate to accord an organization eligibility to file objections as an organization after submitting comments. However, the Agency does not believe it is appropriate to allow individual members in that organization to file objections by virtue of membership in an organization that submitted comments. Nothing in this section would prohibit an individual member of an organization from submitting comments on his or her own behalf.

Paragraph (c) clarifies that if an objection is submitted on behalf of a number of named individuals or organizations, each individual or organization listed must meet the eligibility requirements of paragraph (a) to be considered objectors. However, as long as at least one individual or organization listed meets the eligibility requirements and the objection is not otherwise flawed, the Forest Service must accept the objection. Objections rejected because they were not filed by an eligible individual or organization must be documented in the planning record, but they would not receive a response from the reviewing officer.

Paragraph (d) states that Federal agencies may not file an objection. Other avenues, including consultations required by various environmental protection laws, are available to Federal agencies for working through concerns regarding a proposed plan, plan amendment, or plan revision. It is expected that Federal agencies will work cooperatively during the planning process.

Paragraph (e) would allow Federal employees to file objections as individuals in a manner consistent with Federal conflict of interest requirements.

Section 219.54 Filing an Objection

This section provides information on how to file an objection. Paragraph (a) would provide for an objection to be filed with the reviewing officer in writing and would require all objections be open to public inspection during the objection process.

Paragraph (b) would provide that incorporation of documents by reference not be allowed, with specific exceptions listed. This provision would ensure the contents and substance of an objection, including all attachments, are readily understandable and available to the reviewing officer for timely completion of the objection process. Similarly, objectors must provide arguments and supporting documentation, and cannot meet the requirements of this process by attempting to incorporate by reference substantive materials and arguments. The Federal courts have taken a similar view of such procedural maneuvers; see Swanson v. U.S. Forest Service, 87 F.3d 339 (9th Cir. 1996).

Paragraph (c) provides a detailed list of information that must be included in an objection. The list is very similar to Department requirements in the objection regulations for hazardous fuel reduction projects authorized under the Healthy Forests Restoration Act (36 CFR Part 218), and the appeal regulations for projects implementing land management plans (36 CFR Part 215). The objection should set the stage for meaningful dialogue with the reviewing officer and responsible official. Required information would be used to focus the administrative review and written response of the reviewing officer. For example, the objection must provide the basis for a potential remedy to the objection by including how the proposed plan decision could be improved. An objector's telephone number or e-mail address would be part of the administrative record, considered public information, and available under the Freedom of Information Act.

Section 219.55 Objections Set Aside From Review

This section sets out the proposed conditions under which the reviewing officer would not review an objection. The reviewing officer must set aside an objection without review or response on the concerns raised when any of the following apply: an objection is not filed within the objection period; the proposal is not subject to the objection procedures of this section; the objector did not meet the eligibility requirements to object (§ 219.53); there is insufficient information to review and respond; the objector has withdrawn the objection in writing; the objector's identity cannot be determined and a reasonable means of contact has not been provided; or the objection is illegible. The reviewing official must also set aside from review any issue within the objection that is not based on previously submitted substantive formal comments and which did not arise after the opportunities for formal comment. The reviewing officer must give written notice to the objector and the responsible official when an objection is set aside from review and must state the reasons for not reviewing the objection. If the objection is set aside from review for reasons of illegibility or lack of a means of contact, the reasons must be documented in the planning record.

Section 219.56 Objection Time Periods and Process

This section describes the timeframes in the objection process, the reviewing officer's role and responsibilities, and the means of providing public notification of the objections filed. The provisions in this section are responsive to public concern that the review process be timely and efficient.

The filing period for the objection would be 30 days following publication of the required public notice. The objector would be responsible for filing the objection in a timely manner. The method to determine timeliness would be based on indicators appropriate to the method of submission. For example, objections sent via the U.S. Postal Service must be postmarked on or before the close of the last day of the objection-filing period. Some members of the public have raised the concern that this is not enough time to review the planning documentation and develop an objection. However, the Agency believes that given the emphasis this rule places on a collaborative planning process and the requirements outlined earlier for public notice, a 30-day filing period would be sufficient. Because the responsible official could not approve the plan, plan amendment, or plan revision until after the objection process, it is important to ensure that the submission, review, and resolution of, or response to, the objections occur in a timely manner. Additionally, by requesting to meet with the reviewing officer, objectors would have an opportunity to elaborate on those concerns documented in their objections.

Paragraph (e) describes the role and responsibilities of the reviewing officer. The proposed rule would provide that the reviewing officer be a line officer at the next higher administrative level above the responsible official. A number of those who provided written comment expressed concern that agency reviewing officers could lack sufficient objectivity to render a fair response to objections. Generally, these individuals advocated for the establishment and use of some form of administrative review board. However, we believe that the Agency's experience with review processes over the past century indicate that assigning the role of reviewing officer to a line officer at the next higher administrative level above the responsible official does allow for a fair and impartial review of concerns raised during the administrative review processes.

For plan amendment objections only, the next higher-level line officer could delegate the reviewing officer authority and responsibility to a line officer under his or her chain of command at the same administrative level as the responsible official. In other words, if the responsible official for a plan amendment is a forest supervisor, the regional forester or deputy regional forester (agency directives assign deputy regional foresters line officer authority) could delegate the reviewing officer responsibilities to another forest supervisor. The Agency believes the option of making such a delegation could contribute to a more effective, and still impartial, review process; for example, in instances where a particular line officer at the same administrative level as the responsible official is more familiar with particular plan issues or is more readily available to meet with objectors. Responsibility for new plans or plan revisions could not be delegated.

Paragraph (f) would require the responsible official to publish a notice of all objections in the applicable newspaper of record and online within 10 days of the close of the objection-filing period. This requirement would allow any person or entity that may have specific interest in the outcome of an objection to participate in the objection as an “interested person,” as provided in § 219.57.

Paragraph (g) would require the reviewing officer to issue a written response to the objector(s) within 90 days. The reviewing officer could extend the 90-day time frame in the event of a large number of objection filings or so that meaningful and productive discussions to resolve issues are not cut short.

Section 219.57 Resolution of Objections

This section describes the objection resolution process. The objective of this administrative review process is to resolve as many concerns as possible prior to approval of a plan, plan amendment, or plan revision. Paragraph (a) would allow the reviewing officer or the objector to request a meeting to discuss the objection and attempt resolution. To maintain as much of a collaborative approach as possible under the circumstances of an administrative review, this section would require the reviewing officer to allow any other person who filed a request to participate in meetings to do so. Requests to participate as an interested person would have to be filed with the reviewing officer within 10 days of the publication of the notice of filed objections. The meetings would always be open to the public, but only the objectors and interested persons who filed a request to participate in the meeting could participate; others could attend the meetings but only to observe.

Paragraph (b) would provide for a written response to the objection. The reviewing officer could issue a single response to multiple objections of the same plan, plan amendment, or plan revision. Whether in individual responses or a consolidated response, the reviewing officer's response would be limited to only those concerns submitted in the objection(s). Paragraph (b) also states that the reviewing officer's response would be the final decision of the Department of Agriculture on the objection.

Section 219.58 Timing of a Plan, Plan Amendment, or Plan Revision Decision

This section describes when a responsible official could approve a plan, plan amendment, or plan revision.

Paragraph (a) would allow a responsible official to approve a plan, plan revision, or plan amendment only after the reviewing officer has responded to all objections in writing, and § 219.57(b)(1) specifies the response need not be point-by-point.

Paragraph (c) provides that when no objection is filed on a plan, plan amendment, or plan revision within the 30-day period for filing an objection, the responsible official could approve the plan, plan amendment, or plan revision. Approval could occur on or after the 5th business day following the end of the objection filing period. The 5 business day delay/buffer is to allow sufficient time for any objections that may have been timely filed through the U.S. Postal Service (i.e., postmarked before the end of the objection filing period) to be received by the reviewing officer. Objections that are timely filed but not received by the fifth business day following the end of the objection-filing period would not be considered.

Section 219.59 Use of Other Administrative Review Processes

This section would allow for the use of other administrative review processes in lieu of the objection process in certain circumstances.

Paragraph (a) would allow the use of the administrative review procedure of another Federal agency when the plan, plan amendment, or plan revision is part of a multi-Federal agency effort. This provision is proposed to minimize the confusion that could occur if multiple administrative review processes are used for a single joint proposal. It also requires that the public notice identify which administrative review procedure is to be used.

Paragraph (b) provides that the objection process in this subpart of the proposed rule would not apply when a plan amendment decision is made at the same time as a project or activity decision, and is specifically limited to that project or activity. Instead, the regulations for notice, comment, and appeal of projects at 36 CFR Part 215, or the regulations for objections to hazardous fuel reduction projects authorized by the Healthy Forests Restoration Act, at 36 CFR Part 218, would apply to the amendment as well as the project. In this type of mixed decision, the project decision is the dominant part so the administrative review process for projects is more appropriate than the objection process contained in this subpart of the proposed rule.

However, paragraph (b) also would provide that the objection process in this subpart be used for an amendment that applies not just to one project or activity, but to any future project or activity for which it is relevant, even when the amendment is approved as a part of a mixed decision with a project or activity. Because the plan amendment would apply broadly, and not just to the project, it would be subject to the pre-decisional administrative review process of this subpart, while the project part of the decision would be subject to the administrative review process of either 36 CFR Part 215 or Part 218. Corresponding provisions for administrative reviews of the mixed decisions described by these two scenarios already exist in 36 CFR Parts 215 and 218.

Section 219.60 Secretary's Authority

Paragraph (a) explains that no part of this proposed rule would restrict the Secretary's authority.

Section 219.61 Information Collection Requirements

This section explains that the rule would contain information collection requirements as defined in 5 CFR Part 1320 and specifies the information that objectors would have to supply in an objection.

Section 219.62 Definitions

This section defines some of the commonly used terms and phrases used in Subpart B of the proposed rule.

4. Regulatory Certifications

Regulatory Planning and Review

The Agency reviewed this proposed rule under U.S. Department of Agriculture (Department) procedures and Executive Order (E. O.) 12866 issued September 30, 1993.

The Agency has determined this proposed rule is not an economically significant rule. This proposed rule will not have an annual effect of $100 million or more on the economy nor adversely affect productivity, competition, jobs, the environment, public health or safety, nor State or local governments. This proposed rule will not interfere with an action taken or planned by another agency. Finally, this proposed rule will not alter the budgetary impact of entitlements, grants, user fees, or loan programs or the rights and obligations of recipients of such programs. However, because of the extensive interest in NFS planning and decisionmaking, this proposed rule has been designated as significant and, therefore, is subject to Office of Management and Budget review. An analysis was conducted to compare the costs and benefits of implementing the proposed rule to the baseline, which assumes planning pursuant to the 1982 rule procedures, as allowed by the transition provisions of the 2000 planning rule (36 CFR 219.35(b), 74 FR 67073 (December 18, 2009)). This analysis is posted on the World Wide Web at: http://www.fs.usda/planningrule, along with other documents associated with this proposed rule.

The scope of this analysis is limited to programmatic or agency procedural activities related to plan development, plan revision, and plan amendment (i.e., maintenance) of land management plans for management units (e.g., national forests, grasslands, prairies) within the NFS. Agency, or private costs or benefits associated with on-the-ground or site-specific activities and projects are not characterized or projected. Potential procedural effects evaluated in the analysis include potential changes in agency costs and changes in overall planning efficiency. This analysis identifies and compares the costs and benefits associated with developing, maintaining, revising, and amending NFS land management plans under five alternatives: (A) The proposed NFS planning rule (proposed rule); (B) the implementation of 1982 rule procedures under the 2000 rule (No Action); (C) the minimum to meet the National Forest Management Act (NFMA) and purpose and need; (D) a modified version of the proposed rule with an alternative approach to species diversity and an emphasis on watershed health; (E) a modified version of the proposed rule with emphasis on monitoring performance and collaboration. Procedural effects evaluated include potential changes in agency costs and changes in overall planning efficiency. Alternative B is the no action alternative and therefore the baseline for this analysis.

The effects of the proposed rule are evaluated within the context of a planning framework consisting of a three-part learning and planning cycle: Assessment, development/revision/amendment, and monitoring. The cost-benefit analysis focuses on key activities related to this three-part planning cycle for which agency costs can be estimated under the 1982 rule procedures and the proposed rule. Differences in costs across alternatives are estimated when possible, but benefits are discussed qualitatively as potential changes in procedural or programmatic efficiency. The key activities for which costs were analyzed include: (1) Assessments (e.g., activities conducted to establish a need to change the existing plan prior to initiating plan revisions or plan amendments); (2) collaboration (e.g., collaboration and public participation activities in addition to those required by the NFMA and NEPA); (3) development and analysis of plan revision and amendment decisions (i.e., developing of alternatives to address the need to change the plan, analyzing and comparing the effects of alternatives, and finalizing and documenting plan revision and plan amendment decisions); (4) science support (i.e., activities for assuring consideration and use of the best scientific information); (5) monitoring (limited to those monitoring activities that support planning); (6) resolution of issues regarding plan revisions or plan amendments through the administrative processes of appeals or objections; and (7) minimum maintenance (i.e. minimum expenses to maintain a plan during non-revision years, excluding assessment, collaboration, and analysis/decision costs associated specifically with plan amendments).

Primary sources of data used to estimate agency costs include recent cost-benefit analyses, business evaluations, and budget justifications for planning rules issued between 2000 and 2008 and recent historical data (1996-2009) regarding regional and unit-level budget allocations and paid expenditures for planning and monitoring activities related to planning. Agency costs are initially estimated for the 1982 rule procedures and then used as a baseline from which adjustments are made, based on explicit differences in planning procedures, to estimate costs for the proposed rule. Cost projections of the proposed rule are speculative because there are challenges anticipating the process costs of revising and amending plans at this programmatic level of analysis. The Agency will not be able to determine costs until the Department issues the final rule and the Agency implements it. Annual costs are estimated separately for years during which units (with regional support) are engaged in plan revision and the years units are engaged in plan maintenance/amendment. The estimated costs are then aggregated to estimate total planning costs. Over a 15-year planning cycle, it is assumed that management units will be engaged in plan revision for 3 years under the proposed rule and 5 years under the 1982 rule procedures, implying annual plan maintenance or more frequent but shorter amendments will be occurring for the remaining 12 and 10 years respectively.

Monitoring is assumed to occur every year, but monitoring differs slightly for plan revision years compared to maintenance years. Shorter revision periods reflect the expectation that the process for revising plans will be more efficient because of procedural changes described below (see “Efficiency and Cost Effectiveness Impacts”). It is also assumed that approximately 120 management units will initiate plan revision over the next 15 years (i.e., 2012 through 2026). Total costs are assumed to cover activities directly related to planning (and monitoring for planning purposes) at the unit and regional office levels, as well as indirect or overhead (i.e., cost pools) activity for supporting planning activities, but do not include project-level costs. Costs associated with planning at the national office and research stations are assumed to remain relatively constant across alternatives. Total costs (2009 dollars ($)) are estimated for a 15-year planning cycle and then annualized assuming a 3 percent and 7 percent discount rate. Annualized costs accrued over the 15-year period reflect the annual flow of costs that have been adjusted to acknowledge society's time value of money.

Due to the programmatic nature of the proposed action, the benefits derived from land management plans developed, revised, or amended under the different alternatives are not quantified. Instead, the benefits of the alternatives are assessed qualitatively for procedural or programmatic efficiency. Efficiency is a function of(1) the time and resources used (costs) to complete and maintain plans, and (2) the degree to which those plans are capable of providing direction for resource monitoring, management, and use/access that sustains multiple uses (including ecosystem services) in perpetuity and maintains long-term health and productivity of the land for the benefit of human communities and natural resources, giving due consideration to relative values of resources (i.e., meets the objectives of the NFMA and other key guiding legislation).

Agency Cost Impacts

Results of the cost analysis indicate agency costs increase for some key activities and decrease for others under the proposed rule and alternatives. However, total annual planning costs are not projected to be substantially different between the proposed rule and the 1982 rule procedures. Estimates of potential differences in planning costs are complicated by the unknown effects of any future Forest Service directives that might be developed to support the proposed rule.

The annual average undiscounted cost to the Agency for all planning-related activities under the proposed rule ($102.5 million per year) is estimated to be $1.5 million per year lower compared to the 1982 rule procedures ($104 million per year). Assuming a 3 percent discount rate, the projected annual cost for the proposed rule is estimated to be $102 million, while the projected annual cost for the 1982 rule procedures is $103 million, implying a projected annual cost difference of only $1 million. Assuming a 7 percent discount rate for the same timeframe, the projected annual cost estimate for the proposed rule is $80 million compared to $81 million under the 1982 rule procedures.

Based on the above quantitative comparison, annual average planning costs to the Agency are projected to be similar for the proposed rule and the 1982 procedures. If the Agency implements the planning rule as proposed, it is anticipated employee training will be needed, in large part due to the proposed collaborative process and reallocation of resources across different planning related activities. It is likely the cost of training will decrease gradually over time. Therefore, during the first 15-year period, planning costs will be slightly elevated and not significantly different from the no-action alternative as units adjust to the new planning process and build collaborative capacity. In subsequent 15-year periods, planning costs are likely to decrease as the new process becomes more established. Costs in subsequent planning cycles are expected to be lower than those estimated in this analysis for the proposed rule.

The cost and benefit analysis assumed eight management units will start plan revision annually. Therefore, approximately 120 management units will at least initiate plan revision over the next 15 years (i.e. 2012 through 2026). This analysis also assumed each management unit would take 3 years to revise a plan under the proposed rule and 5 years under the 1982 rule procedures. Given these assumptions, over a 15 year period, there would be approximately 104 plan revisions completed under the proposed rule in contrast to an estimated 88 plans revised under the 1982 rule procedures, a net increase of 16 plans revised under the proposed rule.

Efficiency and Cost-Effectiveness Impacts

The numerous public meetings, forums, and roundtable discussions revealed growing concern about a variety of risks and stressors (e.g., climate change; insects and disease; recreation, timber, and shifts in other local demands and national market trends; population growth, and other demographic shifts; water supply protection and other ecosystem support services). Addressing these types of risks and contingencies requires a larger landscape perspective, information from a broad spectrum of sources and users, and a framework that can facilitate adaptation to new information. The new procedural requirements under the proposed rule are designed to recognize these needs. The requirements are intended to increase agency capacity to adapt management plans in response to new and evolving information about risks, stressors, contingencies, and management constraints as described in the section above. It is anticipated under the proposed rule that management units will be better able to keep plans updated and current with evolving science and public concerns without substantial changes in planning costs over a 15-year period. The Agency would be able to establish plans that are efficient and legitimate frameworks for managing resources that meet public demand in a sustainable fashion and satisfy the goals of the MUSYA and the NFMA.

Under the proposed rule, costs are projected to be redirected toward collaboration, assessment, and monitoring activities and away from development and analysis of alternatives compared to the 1982 rule procedures. Costs are also redirected more toward maintenance or plan amendments under the proposed rule, due in part to expectations that less time will be needed to complete plan revisions. These effects are projected to occur, in part, because of broader support and resolution of issues at earlier stages of plan revision, achieved through collaboration as well as other procedural changes.

The reallocation of efforts and costs across different phases of planning, and across key planning activities under the proposed rule is expected to improve overall planning efficiency. Shifts in emphasis and resources under the proposed rule are projected to improve the currency, reliability, and legitimacy of plans to serve as a guide for: (1) Reducing uncertainty by identifying and gathering new information about conditions, trends, risks, stressors, contingencies, vulnerabilities, values/needs, contributions, and management constraints; (2) integrating and assessing ecological, social, and economic information to determine if outputs and outcomes related to unit contributions to ecological, social, and economic conditions indicate a need to change the plan; and (3) responding to the need for change in management activities, projects, or revisions and amendments to plan components. Potential increases and/or reallocation of costs associated with assessment, analysis, and monitoring requirements for elements such as diversity and sustainability are expected to provide clearer direction for subsequent project planning. It is recognized project-level costs are not included in the analysis of land management planning costs. Details about the potential effects of specific procedural changes on agency costs and planning efficiency are described below, by activity category.

Assessment: Slight increases in assessment costs (compared to the cost of doing an analysis of the management situation under the 1982 rule procedures) are anticipated under the proposed rule. This is due to an increased emphasis on characterizing factors such as unit roles and contributions within a broader ecological and geographic context (landscapes), ecosystem and species diversity, climate change, as well as other system drivers, risks, threats, and vulnerabilities, as well as the mitigating effects of other elements such as direction to rely on existing information and the removal of required prescriptive benchmark analysis. Changes in the assessment requirements and guidance are expected to increase planning efficiency and effectiveness by improving capacity to assimilate and integrate new information for determining a need to change the plan.

Assessments would be conducted at landscape levels and at a geographic scale based on ecological, economic, or social factors rather than a strict adherence to administrative boundaries. This broader approach would enhance capacity to incorporate information about conditions outside of NFS boundaries.

Risks and vulnerabilities to ecosystem elements and functions would be considered in assessments thereby encouraging consideration of the effects of long-term environmental or social/economic variability, events, and trends on future outputs, ecosystem services, and outcomes.

Collaboration: Costs associated with public participation are projected to increase under the proposed rule due primarily to requirements that opportunities for collaboration be provided at all stages of planning. Gains in cost effectiveness may occur, in part, by providing responsible officials with discretion to design collaborative strategies that meet unit-specific needs and constraints and recognize local collaborative capacity. Costs for some units may be higher where potential barriers to collaboration are present (e.g., pre-existing relationships may exacerbate perceived inequities; absence of pre-existing social networks or capacity). However, changes in guidance and requirements for collaboration under the proposed rule are expected to increase planning efficiency because of the following:

Improved analysis and decisionmaking efficiency during latter stages of planning due to increases in collaborative efforts during early phases;

Improved capacity to reduce uncertainty by gathering, verifying, and integrating information from a variety of sources, including tribal or other forms of knowledge and land ethics, within and beyond unit boundaries;

Potential to offset or reduce agency monitoring costs as a result of collaboration during monitoring plan development and monitoring itself;

Improved capacity for identifying and integrating ecological, social, and economic indicators for determining the need to change the plan during assessments;

Reduced need for large numbers of plan alternatives as well as time needed to complete plan revisions as a consequence of broader support and resolution of issues achieved through collaboration during early phases of proposed plan development;

Improved perceptions regarding the legitimacy of plans and the planning process, as well as reduced agency costs associated with resolving objections (or conflict) by increasing transparency, developing awareness of the values and expected behavior of others, and seeking greater consensus about values, needs, tradeoffs, and outcomes during earlier stages of planning; and,

Improved expectations about building unit (and regional) capacity to overcome existing barriers to collaboration (e.g., absence of social networks or capacity; perceptions about pre-existing power relationships) through training and facilitation.

Analysis and decisions (plan development, plan revision or amendment): Costs associated with analysis and decisions are estimated to decrease under the proposed rule due primarily to the effect of fewer prescriptive requirements (relative to 1982 rule procedures) regarding probable (management) actions, timber program elements, number and types of alternatives, evaluation of alternatives, and minimum management requirements. The forces affecting the cost include (1) increased emphasis on consideration of resource attributes and conditions such as sustainability, watershed health, and water supply, and (2) adaptation to new approaches for addressing species viability and diversity in the short-term (with long-term potential for gains in cost-effectiveness).

The following elements associated with the proposed rule are expected to increase planning efficiency by facilitating plan revisions and amendments, expanding capacity for adaptive management, and improving guidance for responding to diverse determinations of a need to change the plan:

The adoption of a coarse-filter/fine-filter approach for addressing species viability and diversity within plan components, combined with the recognition of land management and resource limits which constrain levels of achievable viability and diversity, is expected to make management units better able to develop plans that provide feasible or realistic direction for responding to species and ecosystem sustainability and recovery needs while meeting requirements for plant and animal diversity;

A greater emphasis on ecosystem sustainability and resiliency in plan components is expected to increase the ability of management units to respond efficiently to new information regarding environmental, social, and economic risks and stressors, including climate change and market trends, that might threaten the long-term productivity and sustainability of forest resources and outputs;

Refocusing the use of the term “restoration” to focus on recovery of resiliency and ecosystem functions (instead of historical reference points) offers greater flexibility to develop plan components (e.g., desired conditions) that provide more feasible and adaptable direction for addressing damaged ecosystems;

Greater emphasis placed on identifying each unit's role in providing ecosystem services within a broader landscape or region should facilitate the design of management responses that recognize the marginal effects or contributions of ecological, social, or economic conditions originating from outside of the traditional unit study area boundaries;

More frequent amendments expected under the proposed rule leading to more current plans and more focused descriptions of the need to change the plan to guide future subsequent plan revisions;

Fewer “minimum management requirements,” with flexibility to adopt plan components to provide similar levels of protection afforded by minimum management requirements under 1982 rule procedures; and,

Less prescriptive descriptions of timber harvests, sale schedule, and management practices under the proposed rule (compared to the 1982 rule procedures) may provide greater flexibility for units to develop more adaptive plans capable of responding to uncertain vegetation management and restoration needs.

Science support: Slight cost increases for science support may occur under the proposed rule due in part to more prescriptive language to take into account the best available scientific information when preparing assessment reports, plan decision documents, and monitoring evaluation reports. On the other hand, guidance and requirements under the proposed rule for taking science into account contribute to planning efficiency by maximizing coverage of scientific input from diverse sources, integrating science throughout all stages of planning, and taking advantage of scientific knowledge from external partners and agency research stations, thereby strengthening the decisionmaking process.

Resolutions: The cost effect of a shift from a post-decisional appeals process (under the 1982 rule procedures) to a pre-decisional objection period under the proposed rule is difficult to project; however, the anticipated success of collaboration in achieving greater understanding about plan components and perceptions of legitimacy and trust in the planning process is expected to have a beneficial effect on resolution activity and corresponding costs. Procedural changes related to collaboration are expected to provide opportunities for resolving potential objections or conflict at earlier stages of planning, thereby reducing the need for, and cost of, resolutions at latter stages.

Monitoring: Relative increases in monitoring costs are anticipated as a consequence of a greater emphasis on broader input and participation in the design and implementation of monitoring, adjustments to new requirements for characterizing diversity and resiliency, and two-level (unit and broad-scale) monitoring. However, over time, the two-level approach to monitoring is expected to increase monitoring efficiencies and decrease the cost of other planning related activities. Under the proposed rule, the two-level approach to monitoring is intended to inform the unit's management and make progress toward desired outcomes. In addition, the monitoring program will be closely tied to the assessment phase of the planning framework, so the new information that arises through monitoring drives assessments to determine the need to change a plan. Unit monitoring and broader-scale monitoring levels are related. The two-level monitoring framework would effectively standardize unit-level monitoring requirements. The proposed rule would mobilize multi-party monitoring resources by working across all Forest Service branches and engage partners and other government agencies in its monitoring efforts to help reduce the cost of added monitoring requirements. There is also potential that collaboration would result in more cooperative monitoring programs with other agencies and the public. This could help leverage resources to accomplish additional monitoring.

Monitoring requirements, such as coordination of broad-scale monitoring, as well as monitoring of “focal species” and select ecological conditions as measures for diversity, are expected to contribute to overall cost efficiency. Changes in guidance and requirements for monitoring under the proposed rule are expected to increase planning effectiveness by improving capacity to gather information and reduce uncertainty for a number of integrated ecological, social, and economic conditions, trends, risks, stressors, constraints, and values within and beyond unit boundaries. The following is a list of the changes.

Monitoring under the proposed rule focuses to a greater extent on ecosystems, habitat diversity, and small numbers of focal species, with the intent that tracking overall species diversity and habitat sustainability will be more cost effective and reflective of unit-specific capacities compared to the 1982 rule procedures involving management indicator species (MIS).

Two-level monitoring is intended to create a more systematic and unified monitoring approach to detect effects of management within unit boundaries as well as track risks, stressors, and conditions beyond unit boundaries that affect, or are affected by, unit conditions and actions.

Emphasis on coordination between unit- and broad-scale monitoring helps ensure information is complementary, is gathered at scales appropriate to monitoring questions, reduces redundancy, and improves cost-effectiveness.

Distributional Impacts

Due to the programmatic nature of this rule, it is not feasible to assess distributional impacts (e.g., changes in jobs, income, or other measures for socio-economic conditions across demographics or economic sectors) in detail. In general, the proposed rule is designed to facilitate engagement and involvement throughout all phases of planning, thereby improving capacity to consider and incorporate values and concerns for all economic sectors and social segments affected by any given plan, plan revision, or amendment. The proposed rule is also intended to facilitate assimilation of new information about local or rural, as well as national, concerns and values throughout the planning process (i.e., continuous cycle of assessment, development/revision/amendment, and monitoring).

The proposed rule is more prescriptive about considering and facilitating restoration of damaged resources as well as improving resource capacity to withstand environmental risks and stressors (i.e., resiliency), thereby providing greater capacity for sustaining local or rural economic opportunities to benefit from forest resources and ecosystem services, including recreation/tourism and water supply/watershed health as well as restoration based activities.

Proper Consideration of Small Entities

The proposed rule has also been considered in light of E.O. 13272 regarding proper consideration of small entities and the Small Business Regulatory Enforcement Fairness Act of 1996 (SBREFA), which amended the Regulatory Flexibility Act (5 U.S.C. 601 et seq.). The Forest Service has determined this action will not have a significant economic impact on a substantial number of small entities as defined by the E.O. 13272 and SBREFA, because the proposed rule imposes no requirements or costs on small entities, nor does it impose requirements or costs on specific types of industries or communities. In addition, the proposed rule provides more opportunities for small entities to collaborate with the Forest Service and become more involved in all phases of planning, thereby expanding capacity to identify and consider the needs and preferences of small entities. Timelier planning and management decisions under the proposed rule should increase opportunities for small entities to benefit from implementation of updated land management plans. Additional emphasis on ecosystem resiliency to facilitate restoration activities and on sustainable recreation opportunities should help sustain economic opportunities linked to local or rural communities, many of which are host to small entities. Therefore, a regulatory flexibility analysis is not required for this proposed rule.

Energy Effects

This proposed rule has been reviewed under Executive Order 13211 issued May 18, 2001 (E.O. 13211), “Actions Concerning Regulations That Significantly Affect Energy Supply, Distribution, or Use.” It has been determined that this proposed rule does not constitute a significant energy action as defined in E.O. 13211. This proposed rule would guide the development, amendment, and revision of NFS land management plans. These plans provide the guidance for making future project or activity resource management decisions. As such, these plans would address access requirements associated with energy exploration and development within the framework of multiple-use sustained-yield management of the surface resources of the NFS lands as required by § 219.10. These land management plans may identify major rights-of-way corridors for utility transmission lines, pipelines, and water canals. While these plans may consider the need for such facilities and may include standards and guidelines that may constrain energy exploration and development, they would not authorize construction of them; therefore, the proposed rule does not constitute a significant energy action within the meaning of E.O. 13211. The effects of the construction of such lines, pipelines, and canals are, of necessity, considered on a case-by-case basis as specific construction proposals. Consistent with E.O. 13211, direction to incorporate consideration of energy supply, distribution, and use in the planning process will be included in the Agency's administrative directives for carrying out the proposed rule.

Environmental Impacts

This proposed rule establishes the administrative procedures to guide development, amendment, and revision of NFS land management plans. The Agency has prepared a draft programmatic environmental impact statement to analyze possible environmental effects of the proposed rule, present several alternatives to the proposed rule, and disclose the potential environmental impacts of those alternatives. The draft programmatic environmental impact statement is available on the Web at http://www.fs.usda.gov/planningrule.

The proposed rule would require plan development, amendment, or revision to follow NEPA procedures. The rule requires an EIS for plan development and plan revisions. The rule also requires that plan amendments comply with Forest Service NEPA procedures. The appropriate NEPA documentation for an amendment may be an EIS, an EA, or a CE, depending upon the scope and scale of the amendment and its likely effects.

Controlling Paperwork Burdens on the Public

In accordance with the Paperwork Reduction Act of 1995 (44 U.S.C. 3501 et seq.), the information collection or reporting requirements for the objection process were previously approved by the Office of Management and Budget (OMB) and assigned control number 0596-0172 for the objection process included in the CFR 218 objection regulation.

The information required by subpart B of this rule is needed for an objector to explain the nature of the objection being made to a proposed land management plan, plan amendment, or plan revision. This proposed rule retains the objection process established in the CFR 218 objection regulation and does not require additional information be provided from the public. This rule does instead give direction that is more detailed to both the public and Forest Service personnel on the timelines, requirements, and procedures of the objection process.

Federalism

The Agency has considered this proposed rule under the requirements of Executive Order 13132 issued August 4, 1999 (E.O. 13132), “Federalism.” The Agency has made an assessment that the proposed rule conforms with the Federalism principles set out in this Executive Order; would not impose any compliance costs on the States; and would not have substantial direct effects on the States, on the relationship between the national government and the States, nor on the distribution of power and responsibilities among the various levels of government. Therefore, the Agency concludes that this proposed rule does not have Federalism implications. Moreover, § 219.4(a)(6) of this proposed rule shows sensitivity to Federalism concerns by requiring the responsible official provide opportunities for the participation of State and local governments and Indian Tribes in the planning process. In addition, § 219.4(b) requires the responsible official to coordinate planning with State and local governments and Indian Tribes.

In the spirit of E.O. 13132, the Agency provided many opportunities for State and local officials, including their national representatives, to share their ideas and concerns in developing the proposed regulation. The Forest Service made the December 18, 2009, NOI for the proposed planning rule available for comment and asked the public, including State and local officials, for feedback on a set of eight principles that could guide future land management planning. In addition, Forest Service regional office staff invited State and local government officials to participate in regional public roundtable meetings that occurred in 34 locations throughout the country, and nearly all of these meetings had representatives from county, city, and/or State governments present. At the request of State and county officials, the Rocky Mountain Region held a meeting with Wyoming State and county officials on April 14, 2010, in Cheyenne, WY; the Pacific Southwest Region held a meeting with California County officials on April 30, 2010.

Agency representatives also contacted the National Association of Counties, the U.S. Conference of Mayors, the Western Governors Association, the National Association of State Foresters, the National Conference of State Historic Preservation Officers and other State and local government associations to encourage them to attend the four national roundtables held during development of the proposed regulation. Attendance at the national roundtables included both State and county government officials and representatives from national associations such as the National Association of Counties and the National Association of County Planners. Agency officials also met with the Association of State Fish and Wildlife Agencies on May 26, 2010, to obtain further input on the planning rule from the perspectives of State agencies.

Based on the input received throughout all these meetings, the Agency determined that additional consultation was not needed with State and local governments for the development of this proposed rule. State and local governments are encouraged to continue to comment on this proposed rule, in the course of this rulemaking process.

Consultation With Indian Tribal Governments

On September 23, 2010, the Deputy Chief for the National Forest System sent letters inviting more than 600 federally recognized Tribes and Alaska Native Corporations to begin consultation on the proposed planning rule. The Forest Service will continue to conduct government-to-government consultation on the planning rule until the final rule is published. The Forest Service considers tribal consultation as an ongoing, iterative process that encompasses development of the proposed rule through the issuance of the final rule.

The Agency held 16 consultation meetings across the country in November and December 2010. During these meetings, Forest Service leaders met with tribal and Alaska Native Corporation leaders, or their designees, to discuss the tribal consultation paper, which described how the proposed rule addressed concerns Tribes had raised during the collaborative sessions held earlier in the year. In addition, Forest Service leaders have been meeting one-on-one with tribal leaders that request consultation in this manner. These consultation meetings have strengthened the government-to-government relationship with the Tribes as well as improved the proposed rule.

The Agency incorporated the input received through consultation into the development of this proposed rule. All comments received up through December 13, 2010, were considered for the proposed rule; comments received after December 13, 2010, will be considered for the final rule.

Since the NOI was issued in December 2009, the Agency has also engaged the Tribes in the planning rule development process through collaborative efforts designed to complement the government-to-government consultation process. The Agency sent a letter to all federally recognized Tribes on December 18, 2009, encouraging them to submit comments on the NOI and inviting them to participate in national and regional roundtable meetings to share with the Agency what they want in the planning rule. The letter stated that consultation typically begins later in the rule development process, but also provided the option for Tribes to begin consultation sooner if they desired. While most Tribes elected to wait to consult until later in the rule development process, some Tribes began consultation through the local responsible official prior to the September 23, 2010, letter. Many tribal comments were also received as part of the public record on the NOI. The Agency analyzed these comments separately from the general public comments, published a report about the comments, and posted the report on the planning rule Web site. Additionally, many Tribes submitted letters as part of the collaborative process. The content of these letters have been considered and incorporated into the rule development process.

The Agency held two national tribal roundtable conference calls to provide additional opportunities for Tribes and tribal associations to comment on the development of the proposed planning rule. More than 45 Tribes and tribal associations participated in the First National Tribal Roundtable on May 3, 2010, and more than 35 Tribes and tribal associations participated in the Second National Tribal Roundtable on August 5, 2010. Transcripts and summaries of these meetings are available on the planning rule Web site.

Several Forest Service regional offices held specific in-person tribal roundtables to discuss the planning rule. The Southwestern Region held tribal roundtables in Pojoaque, NM; Albuquerque, NM; Phoenix, AZ and Flagstaff, AZ. The Pacific Southwest Region held tribal roundtables in Bayside and Clovis, CA. Transcripts and summaries of these meetings are available on the planning rule Web site. The Eastern and Southern Regions of the National Forest System also invited Tribes to attend separate tribal meetings in association with the regional roundtable being held in those regions, however, no Tribes attended.

To date, the Agency has heard from tribal leaders that the rule should clearly state how the special rights and interests of Tribes would be provided for in the planning process and show how Tribes will be engaged early throughout the planning process. They emphasize the obligation the Forest Service has to Tribes to fulfill treaty obligations and trust responsibilities, protect and honor reserved rights, and fully recognize the unique government-to-government relationship that exists between the federal government and Tribes. Tribal leaders also state that the role of science in the planning process must account for traditional tribal knowledge. In response to these concerns, the proposed rule states that plans and the planning process would not affect treaty rights or valid existing rights, and that plans must comply with all applicable laws and regulations; the responsible official must offer opportunities for Tribes to participate in collaborative plan development, along with government-to-government consultation; and the responsible official shall request information from Tribes about native knowledge, including information about land ethics, cultural issues, and sacred and culturally significant sites during the planning process.

Language has also been added to the proposed rule at § 219.4(a)(8) to encourage federally recognized Tribes to seek cooperating Agency status. This provides an additional opportunity for Tribes to be engaged in the planning process and provides further avenues for Tribes to provide input during the planning process. To address tribal concerns regarding statutes that require consultation with federally recognized Indian Tribes and Alaska Native Corporations, language at § 219.4(a)(5) specifies that the responsible official shall provide the opportunity to undertake consultation with federally recognized Indian Tribes and Alaska Native Corporations in accordance with Executive Order 13175 of November 6, 2000. Alaska Native Corporations also commented that they wanted their planning efforts to be included under requirements for coordination with other planning efforts. At § 219.4(b)(2), for plan development or revision, the responsible official shall review the planning and land use policies of federally recognized Indian Tribes, other Federal agencies, and State and local governments. The results of the review would be displayed in the environmental impact statement for the plan.

Tribal leaders stated that they want to see non-federally recognized Tribes and groups included in the consultation or planning process, as well as the involvement of youth. Non-federally recognized groups and Tribes would be able to participate in the planning process under the public requirements in § 219.4. Per § 219.4(a)(3), responsible officials shall encourage participation by youth, as well as low-income and minority populations.

Tribes place great emphasis on protection of water resources and want to see the planning rule include stipulations for water protection. Water resources are addressed throughout this proposed rule, including specifically in § 219.7 New plan development or plan revision, § 219.8 Sustainability, § 219.9 Diversity of Plant and Animal Communities, and § 219.10 Multiple Uses. Tribes support a management approach that moves away from monoculture management and promotes sustainable and diverse populations of plants and animals. Section 219.9 of the proposed rule requires land management plans to contain components to maintain or restore the structure, function, composition, and connectivity of healthy and resilient terrestrial and aquatic ecosystems in the plan area to maintain the diversity of native species.

Many Tribes expressed concerns regarding the Agency's definition of native knowledge. To address these concerns, the definition of native knowledge in § 219.19 has been expanded based on the feedback that we received during consultation. The new definition acknowledges that native knowledge is a way of knowing or understanding the world derived from multiple generations of indigenous peoples' interactions, observations, and experiences with their ecological systems, and that it is also place-based and culture-based knowledge in which people learn to live in and adapt to their own environment through interactions, observations, and experiences with their ecological system.

The Agency also received comments from tribal leaders related to the protection of cultural resources. Under § 219.10, the plan must contain plan components for a new plan or plan revision that provides for protection of cultural and historic resources and management of areas of tribal importance.

Many Tribes have a variety of concerns regarding social, economic, and ecological sustainability, and suggest that the Agency specifically address cultural sustainability within the proposed rule. § 219.8 in the proposed rule addresses sustainability and requires that land management plans include plan components to guide the unit's contribution to social and economic sustainability. To address concerns regarding cultural sustainability, proposed rule language at § 219.8 requires that these plan components take into account social, cultural, and economic conditions relevant to the area influenced by the plan and the distinctive roles and contributions within the broader landscape. Plan components must also take into account cultural and historic resources and uses.

During the consultation meetings, the Agency heard from tribal leaders that confidentiality is a big concern. In order to address these concerns and explicitly address confidentiality, § 219.1(f) states that the responsible official shall comply with Section 8106 of the Food, Conservation, and Energy Act of 2008, Executive Order 13007 of May 24, 1996, Executive Order 13175 of November 6, 2000, laws and other requirements with respect to disclosing or withholding under the Freedom of Information Act certain information regarding reburial sites or other information that is culturally sensitive to Indian Tribe or Tribes.

The Agency has heard from tribal leaders that they want to see sacred sites protected. The proposed rule requires that responsible officials request information from Tribes about sacred sites, and provides for protection of cultural and historic resources and management of areas of tribal importance. In addition, a separate initiative by the USDA Office of Tribal Relations and the Forest Service is conducting a policy review concerning sacred sites and is consulting with Tribes during their effort. The Agency has informed Tribes of this separate initiative and how they can participate during the consultation meetings. Information that the Agency received during the proposed planning rule consultation process regarding sacred sites has been shared with the USDA/Forest Service initiative.

The Forest Service received many other comments during the tribal consultation meetings. A number of these comments were regarding concerns that are outside of the scope of the national planning rule or that will be addressed at the local level during the development of land management plans. Tribes will receive responses to these comments via separate documents.

Pursuant to Executive Order 13175 of November 6, 2000, “Consultation and Coordination with Indian Tribal Governments,” the Agency has assessed the impact of this proposed rule on Indian tribal governments and has determined that the proposed rule does not significantly or uniquely affect communities of Indian tribal governments. The proposed rule deals with the administrative procedures to guide the development, amendment, and revision of NFS land management plans and, as such, has no direct effect on the occupancy and use of NFS land.

The Agency has also determined that this proposed rule does not impose substantial direct compliance costs on Indian tribal governments. This proposed rule does not mandate tribal participation in NFS planning. Rather, the proposed rule imposes an obligation on Forest Service officials to reach out early to provide Tribes an opportunity to consult and to work cooperatively with them throughout the planning process.

Takings of Private Property

This proposed rule has been analyzed in accordance with the principles and criteria contained in Executive Order 12630 issued March 15, 1988, and it has been determined that the proposed rule does not pose the risk of a taking of private property.

Civil Justice Reform

This proposed rule has been reviewed under Executive Order 12988, “Civil Justice Reform.” The Agency has not identified any State or local laws or regulations that are in conflict with this regulation or that would impede full implementation of this rule. Nevertheless, in the event that such conflicts were to be identified, the proposed rule, if implemented, would preempt the State or local laws or regulations found to be in conflict. However, in that case, (1) no retroactive effect would be given to this proposed rule; and (2) the Department would not require the use of administrative proceedings before parties could file suit in court challenging its provisions.

Unfunded Mandates

Pursuant to Title II of the Unfunded Mandates Reform Act of 1995 (2 U.S.C. 1531-1538), the Agency has assessed the effects of this proposed rule on State, local, and tribal governments and the private sector. This proposed rule does not compel the expenditure of $100 million or more by any State, local, or tribal governments or anyone in the private sector. Therefore, a statement under section 202 of the Act is not required.

Environmental Justice

The United States Department of Agriculture, Forest Service, considered impacts of the proposed rule to civil rights and/or environmental justice (pursuant to Executive Order 12898 (59 FR 7629, February 16, 1994)). If implemented as proposed, with collaborative outreach, public engagement and using NEPA procedures to document effects, this analysis concludes that no adverse civil rights or environmental justice impacts from the proposed planning rule are anticipated to the delivery of benefits or other program outcomes on a national level for any under-represented population or to other U.S. populations or communities from the adoption of the proposed planning rule.

While national level impacts are not expected to be disproportionate, yet-to-be-identified adverse impacts may be possible on a regional or local level at the unit planning level. Differences in national level effects and regional/local level effects are the result of uneven distribution of minorities, low-income populations, and variations in regional, cultural, or traditional use, and differences in local access to resources. Impacts on the national forest level will be further examined at the local level, including NEPA analysis for plan development, plan revision, or plan amendment and site-specific projects.

The collaboration required by the proposed rule has significant potential to reach and involve diverse segments of the population that historically have not played a large role in NFS planning and management. Section 219.4(a) requires that when developing opportunities for public participation, the responsible official shall take into account the discrete and diverse roles, jurisdictions, responsibilities, and skills of interested and affected parties as well as the accessibility of the process, opportunities, and information. The responsible official will be proactive and use contemporary tools, such as the internet, to engage the public, and share information in an open way with interested parties.

The proposed rule includes provisions for filing an objection prior to the final decision if the objector has filed a formal comment related to a new plan, plan revision, or plan amendment. In the past, formal comments were required to be in writing and submitted during the formal comment period when developing land management plans. The proposed rule expands the definition of a formal comment to include written or oral comments submitted or recorded during an opportunity for public participation provided during the local unit's planning process (§§ 219.4 and 219.16).

If implemented as proposed, there are no anticipated adverse or disproportionate impacts to underserved, protected groups, low income, or socially disadvantaged communities. The proposed rule, including outreach and collaboration, and the requirement for NEPA analysis are designed to avoid adverse or disproportionate effects; therefore, mitigating measures are not necessary or appropriate for adopting or implementing the planning rule. Requirements of § 219.4 to consider accessibility, and encourage participation by youth, low-income populations, and minority populations may improve environmental justice outcomes. Local site-specific mitigation may occur as NFS projects and activities are planned and executed consistent with Forest Service and USDA policy.

List of Subjects in 36 CFR Part 219

Administrative practice and procedure, Environmental impact statements, Indians, Intergovernmental relations, National forests, Reporting and recordkeeping requirements, Science and technology.

Therefore, for the reasons set forth in the preamble, the Forest Service proposes to revise part 219 of Title 36 of the Code of Federal Regulations to read as follows:

PART 219—PLANNING

Subpart A—National Forest System Land Management Planning

Sec.
219.1 Purpose and applicability.
219.2 Levels of planning and responsible officials.
219.3 Role of science in planning.
219.4 Requirements for public participation.
219.5 Planning framework.
219.6 Assessments.
219.7 New plan development or plan revision.
219.8 Sustainability.
219.9 Diversity of plant and animal communities.
219.10 Multiple Uses.
219.11 Timber requirements based on the NFMA.
219.12 Monitoring.
219.13 Plan amendment and administrative changes.
219.14 Decision documents and planning records.
219.15 Project and activity consistency with the plan.
219.16 Public notifications.
219.17 Effective dates and transition.
219.18 Severability.
219.19 Definitions.
Subpart B—Pre-Decisional Administrative Review Process
219.50 Purpose and scope.
219.51 Plans, plan amendments, or plan revisions not subject to objection.
219.52 Giving notice of a plan, plan amendment, or plan revision subject to objection before approval.
219.53 Who may file objection.
219.54 Filing objection.
219.55 Objections set aside from review.
219.56 Objection time periods and process.
219.57 Resolution of objections.
219.58 Timing of a plan, plan amendment, or plan revision decision.
219.59 Use of other administrative review processes.
219.60 Secretary's authority.
219.61 Information collection requirements.
219.62 Definitions.

Authority: 5 U.S.C. 301; 16 U.S.C. 1604, 1613.

Subpart A—National Forest System Land Management Planning

§ 219.1 Purpose and applicability.

(a) This subpart sets out the planning requirements for developing, amending, and revising land management plans (also referred to as plans) for the National Forest System (NFS), as required by the Forest and Rangeland Renewable Resources Planning Act of 1974, as amended by the National Forest Management Act of 1976 (16 U.S.C. 1600 et seq.) (NFMA). This subpart also sets out the requirements for plan components and other content in land management plans. This part is applicable to all units of the NFS as defined by 16 U.S.C. 1609 or subsequent statute.

(b) Consistent with the Multiple-Use Sustained-Yield Act of 1960 (16 U.S.C. 528-531) (MUSYA), the Forest Service manages the NFS to sustain the multiple uses, including ecosystem services, of its renewable resources in perpetuity while maintaining the long-term health and productivity of the land. Resources are managed through a combination of approaches and concepts for the benefit of human communities and natural resources. Land management plans guide sustainable, integrated resource management of the resources within the plan area in the context of the broader landscape, giving due consideration to the relative values of the various resources in particular areas.

(c) The objective of this part is to guide the collaborative and science-based development, amendment, and revision of land management plans that promote healthy, resilient, diverse, and productive national forests and grasslands. Plans will guide management of NFS lands so that they are ecologically sustainable and contribute to social and economic sustainability, with resilient ecosystems and watersheds, diverse plant and animal communities, and the capacity to provide people and communities with a range of social, economic, and ecological benefits for the present and into the future, including clean water; habitat for fish, wildlife, and plant communities; and opportunities for recreational, spiritual, educational, and cultural sustenance.

(d) The Chief of the Forest Service must establish planning procedures for this part on plan development, plan amendment, or plan revision in the Forest Service Directive System in Forest Service Manual 1920—Land Management Planning and in Forest Service Handbook 1909.12—Land Management Planning Handbook.

(e) This part does not affect treaty rights or valid existing rights established by statute or legal instruments.

(f) During the planning process, the responsible official shall comply with Section 8106 of the Food, Conservation, and Energy Act of 2008 (25 U.S.C. 3056), Executive Order 13007 of May 24, 1996, Executive Order 13175 of November 6, 2000, laws, and other requirements with respect to disclosing or withholding under the Freedom of Information Act (5 U.S.C. 552) certain information regarding reburial sites or other information that is culturally sensitive to an Indian Tribe or Tribes.

(g) Plans must comply with all applicable laws and regulations, including NFMA, MUSYA, the Clean Air Act, the Clean Water Act, the Wilderness Act, and the Endangered Species Act.

§ 219.2 Levels of planning and responsible officials.

Forest Service planning occurs at different organizational levels and geographic scales. Planning occurs at three levels—national strategic planning, NFS unit planning, and project or activity planning.

(a) National strategic planning. The Chief of the Forest Service is responsible for national planning, such as preparation of the Forest Service strategic plan required under the Government Performance and Results Act of 1993 (5 U.S.C. 306; 31 U.S.C. 1115-1119; 31 U.S.C. 9703-9704), which is integrated with the requirements of the Forest and Rangeland Renewable Resources Planning Act of 1974, as amended by the NFMA. The strategic plan establishes goals, objectives, performance measures, and strategies for management of the NFS, as well as the other Forest Service mission areas: Research and Development, State and Private Forestry, and International Programs.

(b) National Forest System unit planning. (1) NFS unit planning results in the development, revision, or amendment of a land management plan. A land management plan provides a framework for integrated resource management and for guiding project and activity decisionmaking on a national forest, grassland, prairie, or other administrative unit. A plan reflects the unit's expected distinctive roles and contributions to the local area, region, and Nation, and the roles for which the unit is best suited, considering the Agency mission, unique capabilities, and the resources and management of other lands in the vicinity. Through the adaptive planning cycle set forth in this subpart, a plan can be changed to reflect new information and changing conditions.

(2) A plan does not authorize projects or activities or commit the Forest Service to take action. However, a plan may constrain the Agency from authorizing or carrying out actions, and projects and activities must be consistent with the plan (§ 219.15). A plan does not regulate uses by the public, but a project or activity decision that regulates a use by the public under Title 36, Code of Federal Regulations, Part 261—Prohibitions, Subpart B—Prohibitions in Areas Designated by Order, may be made contemporaneously with the approval of a plan, plan amendment, or plan revision. Plans should not repeat laws, regulations, or program management policies, practices, and procedures from the Forest Service Directive System.

(3) The supervisor of the national forest, grassland, prairie, or other comparable administrative unit is the responsible official for development and approval of a plan, plan amendment, or plan revision for lands under the responsibility of the supervisor, unless a regional forester, the Chief, the Under Secretary, or the Secretary acts as the responsible official. Two or more responsible officials may undertake joint planning over lands under their respective jurisdictions.

(4) A plan for a unit that contains an experimental area may not be approved without the concurrence of the appropriate research station director with respect to the direction applicable to that area, and a plan amendment applicable to an experimental area may not be approved without the concurrence of the appropriate research station director.

(c) Project and activity planning. The supervisor or district ranger is the responsible official for project and activity decisions, unless a higher-level official acts as the responsible official. Requirements for project or activity planning are established in the Forest Service Directive System. Except as provided in the plan consistency requirements in § 219.15, none of the requirements of this part apply to projects or activities.

§ 219.3 Role of science in planning.

The responsible official shall take into account the best available scientific information throughout the planning process identified in this subpart. In doing so, the responsible official shall determine what information is the most accurate, reliable, and relevant to a particular decision or action. The responsible official shall document this consideration in every assessment report (§ 219.6), plan decision document (§ 219.14), and monitoring evaluation report (§ 219.12). Such documentation must:

(a) Identify sources of data, peer reviewed articles, scientific assessments, or other scientific information relevant to the issues being considered;

(b) Describe how the social, economic, and ecological sciences were identified and appropriately interpreted and applied; and

(c) For the plan decision document, describe how scientific information was determined to be the most accurate, reliable, and relevant information available and how scientific findings or conclusions informed or were used to develop plan components and other content in the plan.

§ 219.4 Requirements for public participation.

(a) Providing opportunities for participation. The responsible official shall engage the public—including Tribes and Alaska Native Corporations, other Federal agencies, State and local governments, individuals, and public and private organizations or entities—early and throughout the planning process as required by this part, using collaborative processes where feasible and appropriate. When developing opportunities for public participation, the responsible official shall take into account the discrete and diverse roles, jurisdictions, responsibilities, and skills of interested and affected parties; the accessibility of the process, opportunities, and information; and the cost, time, and available staffing. The responsible official should be proactive and use contemporary tools, such as the internet, to engage the public, and should share information in an open way with interested parties.

(1) Scope, methods, and timing. The responsible official shall provide opportunities for participating in the assessment process; developing a plan proposal, including the monitoring program; commenting on the proposal and the disclosure of its environmental impacts in accompanying NEPA documents; and reviewing the results of monitoring information. Subject to the notification requirements in § 219.16, the responsible official has the discretion to determine the scope, methods, forum, and timing of those opportunities.

(2) Participation opportunities for individual members of the public and entities. The responsible official shall encourage participation by interested individuals and entities, including those interested at the local, regional, and national levels.

(3) Participation opportunities for youth, low-income populations, and minority populations. The responsible official shall encourage participation by youth, low-income populations, and minority populations.

(4) Participation opportunities for private landowners. The responsible official shall encourage participation by private landowners whose lands are in, adjacent to, or otherwise affected by, or whose actions may impact, future management actions in the plan area.

(5) Consultation with federally recognized Indian Tribes and Alaska Native Corporations. The Department recognizes the Federal Government's trust responsibility for federally recognized Indian Tribes. The responsible official shall honor the government-to-government relationship between federally recognized Indian Tribes and the Federal government. The responsible official shall provide to federally recognized Indian Tribes and Alaska Native Corporations the opportunity to undertake consultation in accordance with Executive Order 13175 of November 6, 2000 and 25 U.S.C. 450 note.

(6) Participation opportunities for federally recognized Indian Tribes and Alaska Native Corporations. The responsible official shall encourage participation in the planning process by interested or affected federally recognized Indian Tribes or Alaska Native Corporations. The responsible official may participate in planning efforts of federally recognized Indian Tribes and Alaska Native Corporations, where practicable and appropriate.

(7) Native knowledge, indigenous ecological knowledge, and land ethics. As part of tribal participation and consultation as set forth in paragraphs (a)(5) and (6) of this section, the responsible official shall request information about native knowledge, land ethics, cultural issues, and sacred and culturally significant sites.

(8) Participation opportunities for other Federal agencies, federally recognized Tribes, States, counties, and local governments. The responsible official shall provide opportunities for other government agencies to participate in planning for NFS lands. Where appropriate, the responsible official shall encourage federally recognized Tribes, States, counties, and other local governments to seek cooperating agency status in the NEPA process for a plan development, amendment, or revision. The responsible official may participate in planning efforts of States, counties, local governments, and other Federal agencies, where practicable and appropriate.

(b) Coordination with other public planning efforts. (1) The responsible official shall coordinate land management planning with the equivalent and related planning efforts of federally recognized Indian Tribes, Alaska Native Corporations, other Federal agencies, and State and local governments, to the extent practicable and appropriate.

(2) For plan development or revision, the responsible official shall review the planning and land use policies of federally recognized Indian Tribes, Alaska Native Corporations, other Federal agencies, and State and local governments, where relevant to the plan area. The results of this review shall be displayed in the environmental impact statement for the plan (40 CFR 1502.16(c), 1506.2). The review shall include consideration of:

(i) The objectives of federally recognized Indian Tribes, Alaska Native Corporations, other Federal agencies, and State and local governments, as expressed in their plans and policies;

(ii) The compatibility and interrelated impacts of these plans and policies;

(iii) Opportunities for the plan to address the impacts identified or contribute to joint objectives; and

(iv) Opportunities to resolve or reduce conflicts, within the context of achieving the Forest Service desired conditions or objectives.

(3) Nothing in this section should be read to indicate that the responsible official will seek to direct or control management of lands outside of the planning area, nor will the responsible official conform management to meet non-Forest Service objectives or policies.

§ 219.5 Planning framework.

(a) Planning for a national forest, grassland, prairie, or other comparable administrative unit of the NFS is an iterative process that includes assessment (§ 219.6); developing, amending, or revising a plan (§§ 219.7 and 219.13); and monitoring (§ 219.12). These three phases of the framework are complementary and may overlap. The intent of this framework is to create a responsive and agile planning process that informs integrated resource management and allows the Forest Service to adapt to changing conditions, including climate change, and improve management based on new information and monitoring.

(1) Assessment. An assessment is the gathering and integrating of information relevant to the planning area from many sources and the analysis of that information to identify a need to change a plan or to inform how a new plan should be proposed (§ 219.6). The responsible official shall consider and evaluate existing and possible future conditions and trends of the plan area, and assess the sustainability of social, economic, and ecological systems within the unit, in the context of the broader landscape. Based on the results of an assessment, the responsible official may identify a preliminary need to change a plan and begin a plan amendment, plan revision, or new plan development.

(2) Plan development, plan revision, or plan amendment. Plan revision (§ 219.7) or plan amendment (§ 219.13) begins with the identification of a preliminary need to change the existing plan. For newly created planning units, the need for planning arises with the creation of the unit, unless otherwise provided by law.

(i) The process for developing or revising a plan includes: assessment, developing a proposed plan, considering the environmental effects of the proposal, providing an opportunity to comment on the proposed plan, providing an opportunity to object before the proposal is approved, and, finally, approving the plan or plan revision. A new plan or plan revision requires preparation of an environmental impact statement.

(ii) The process for amending a plan includes: identifying a need to change the plan, developing a proposed amendment, considering the environmental effects of the proposal, providing an opportunity to comment on the proposed amendment, providing an opportunity to object before the proposal is approved, and, finally, approving the plan amendment. The appropriate NEPA documentation for an amendment may be an environmental impact statement (EIS), an environmental assessment (EA), or a categorical exclusion (CE), depending upon the scope and scale of the amendment and its likely effects.

(3) Monitoring. Monitoring is continuous and provides feedback for the planning cycle by testing relevant assumptions, tracking relevant conditions over time, and measuring management effectiveness (§ 219.12). The monitoring program includes unit-level and broader-scale monitoring. The unit-level monitoring program is informed by the assessment phase; developed during plan development, plan revision, or plan amendment; and implemented after plan approval. The regional forester develops broader-scale monitoring strategies. Biennial monitoring evaluation reports document whether a change to the plan or change to the monitoring program is warranted based on new information, whether a new assessment may be needed, or whether there is no need for change at that time.

(b) Interdisciplinary team(s). The responsible official shall establish an interdisciplinary team or teams to prepare assessments; new plans, plan amendments, and plan revisions; and unit monitoring programs.

§ 219.6 Assessments.

Assessments may range from narrow in scope to comprehensive, depending on the issue or set of issues to be evaluated, and should consider relevant ecological, economic, and social conditions, trends, and sustainability within the context of the broader landscape. The responsible official has the discretion to determine the scope, scale, and timing of an assessment, subject to the requirements of this section.

(a) Process for plan development or revision assessments. One or more assessments must be conducted for the development of a new plan or for a plan revision. The responsible official shall:

(1) Notify and encourage the public and appropriate Federal agencies, States, local governments, other entities, and scientists to participate in the assessment process (§§ 219.4 and 219.16).

(2) Notify and encourage potentially interested or affected federally recognized Indian Tribes and Alaska Native Corporations to participate in the assessment process (§§ 219.4 and 219.16).

(3) Coordinate with the regional forester, Agency staff from State and Private Forestry and Research and Development, and other governmental and non-governmental partners to consolidate existing information and leverage resources for additional information needs.

(4) Document the assessment in a report or set of reports available to the public. Document in the report(s) how the relevant best available scientific information was taken into account (§ 219.3), and include the report(s) in the planning record (§ 219.14).

(5) Identify in the report how a new plan should be proposed, or identify a potential need to change an existing plan, based on the assessment.

(b) Content of assessments for plan development or revision. In the assessment(s) for plan development or revision, the responsible official shall:

(1) Identify and evaluate information needed to understand and assess existing and potential future conditions and stressors in order to inform and develop required plan components and other content in the plan (§ 219.7), including plan components for sustainability (§ 219.8), diversity of plant and animal communities (§ 219.9), multiple uses (§ 219.10), and timber requirements based on NFMA (§ 219.11).

(2) Identify and consider relevant information contained in governmental or non-governmental assessments, plans, monitoring evaluation reports, and studies, including relevant neighboring land management plans. Such documents may include State forest assessments and strategies, the Resources Planning Act assessment, ecoregional assessments, non-governmental reports, State comprehensive outdoor recreation plans, community wildfire protection plans, and State wildlife action plans. Relevant private information will be considered if voluntarily provided.

(3) Identify the distinctive roles and contributions of the unit within the context of the broader landscape, considering the roles of the unit in providing multiple uses, including ecosystem services, from the NFS lands to the local area, region, and Nation. The unit's distinctive roles and contributions within the broader landscape are those for which the unit is best suited, considering the Agency mission, unique capabilities, and the resources and management of other lands in the vicinity.

(4) Identify potential monitoring questions or information needs to inform the development or modification of the unit's monitoring program.

(c) Plan amendment assessments. (1) A plan amendment must be based on a documented need to change the plan. This documentation may be a new assessment; may be a monitoring report; or may be other documentation of new information, changed conditions, or changed circumstances. Where the responsible official determines that a new assessment is needed to inform the need for an amendment, the responsible official has the discretion to determine the scope, scale, process, and content for the assessment depending on the issue or issues to be addressed.

(2) When a plan amendment is made together with, and only applies to, a project or activity decision, the analysis prepared for the project or activity may serve as the documented need to change the plan.

§ 219.7 New plan development or plan revision.

(a) Plan revisions. A plan revision creates a new plan for the entire unit, whether the plan revision differs from the prior plan to a small or large extent. A plan must be revised at least every 15 years (16 U.S.C. 1604(f)(5)). However, the responsible official has the discretion to determine at any time that conditions on a unit have changed significantly such that a plan must be revised. The responsible official shall base development of a proposal for plan revision on the preliminary need for change identified through the assessment process required by § 219.6.

(b) New plan development. New plan development is required for new NFS units. The process for developing a new plan is the same as the process for plan revision.

(c) Process for plan development or revision. (1) The process for developing or revising a plan includes: public notification and participation (§§ 219.4 and 219.16), assessment (§ 219.6), developing a proposed plan, considering the environmental effects of the proposal, providing an opportunity to comment on the proposed plan, providing an opportunity to object before the proposal is approved (subpart B), and, finally, approving the plan or plan revision. A new plan or plan revision requires preparation of an environmental impact statement.

(2) In developing a proposed new plan or proposed plan revision, the responsible official shall:

(i) Review relevant information from the assessment phase.

(ii) Identify the presence and consider the importance of various physical, biological, social, and cultural resources on the unit, with respect to the requirements for plan components of §§ 219.8 through 219.11.

(iii) Consider conditions and trends and stressors, with respect to the requirements for plan components of §§ 219.8 through 219.11.

(iv) Identify potential wilderness areas and consider whether to recommend any such areas for wilderness designation.

(v) Identify the eligibility of rivers for inclusion in the National Wild and Scenic Rivers System, unless a systematic inventory has been previously completed and documented and there are no changed circumstances that warrant additional review.

(vi) Identify the suitability of areas for the appropriate integration of resource management and uses, with respect to the requirements for plan components of §§ 219.8 through 219.11, including identifying lands which are not suitable for timber production (§ 219.11).

(vii) Identify the quantity of timber that can be removed from the plan area (§ 219.11(d)(4)).

(viii) Identify questions and indicators for the unit monitoring program (§ 219.12).

(ix) Identify potential other content in the plan (paragraph (e) of this section).

(d) Plan components. Plan components guide future project and activity decisionmaking. The plan must indicate where in the plan area specific plan components apply. Plan components may apply to the entire plan area, to specific management or geographic areas, or to other areas as identified in the plan. Every project and activity must be consistent with the applicable plan components (§ 219.15).

(1) Required plan components. Every plan must include the following plan components:

(i) Desired conditions. A desired condition is a description of specific social, economic, and/or ecological characteristics of the plan area, or a portion of the plan area, toward which management of the land and resources should be directed. Desired conditions must be described in terms that are specific enough to allow progress toward their achievement to be determined, but do not include completion dates.

(ii) Objectives. An objective is a concise, measurable, and time-specific statement of a desired rate of progress toward a desired condition or conditions. Objectives should be based on reasonably foreseeable budgets.

(iii) Standards. A standard is a mandatory constraint on project and activity decisionmaking, established to help achieve or maintain the desired condition or conditions, to avoid or mitigate undesirable effects, or to meet applicable legal requirements.

(iv) Guidelines. A guideline is a constraint on project and activity decisionmaking that allows for departure from its terms, so long as the intent of the guideline is met. (§ 219.15(d)(3)). Guidelines are established to help achieve a desired condition or conditions, to avoid or mitigate undesirable effects, or to meet applicable legal requirements.

(v) Suitability of lands. Specific lands within a plan area may be identified as suitable for various multiple uses or activities based on the desired conditions applicable to that area. The plan may also identify lands within the plan area as not suitable for uses that are not compatible with desired conditions for those lands. Suitability does not need to be determined for every multiple use or activity, but every plan must identify those lands not suitable for timber production (§ 219.11).

(2) Optional plan component: goals. A plan may include goals as plan components. Goals are broad statements of intent, other than desired conditions, usually related to process or interaction with the public. Goals are expressed in broad, general terms, and have no specific dates by which they are completed.

(3) Requirements for the set of plan components. The set of plan components must meet the requirements set forth in this part for sustainability (§ 219.8); plant and animal diversity (§ 219.9), multiple uses (§ 219.10), and timber (§ 219.11).

(e) Other content in the plan—(1) Other required content in the plan. Every plan must:

(i) Identify watershed(s) that are a priority for maintenance or restoration;

(ii) Describe the unit's distinctive roles and contributions within the broader landscape (§ 219.6(b)(3));

(iii) Include the monitoring program required by § 219.12; and

(iv) Contain information reflecting proposed and possible actions that may occur on the unit during the life of the plan including the planned timber sale program; the expected timber harvest levels, as required by NFMA (16 U.S.C. 1604(f)(2)); and the proportion of probable methods of forest vegetation management practices expected to be used. Such information is not a commitment to take any action and is not a “proposal” as defined by the Council on Environmental Quality regulations for implementing NEPA (40 CFR 1508.23, 42 U.S.C. 4322(2)(C)).

(2) Optional content in the plan. A plan may include additional items, including potential management approaches or strategies; partnership opportunities or coordination activities; or criteria for priority areas or activities to achieve objectives of the plan.

§ 219.8 Sustainability.

Within Forest Service authority and consistent with the inherent capability of the plan area, the plan must provide for social, economic, and ecological sustainability, as follows:

(a) Ecological sustainability. (1) Ecosystem plan components. The plan must include plan components to maintain or restore the structure, function, composition, and connectivity of healthy and resilient terrestrial and aquatic ecosystems and watersheds in the plan area, taking into account:

(i) Landscape-scale integration of terrestrial and aquatic ecosystems;

(ii) Potential system drivers, stressors, and disturbance regimes, including climate change; how they might affect ecosystem and watershed health and resilience; and the ability of those systems on the unit to adapt to change;

(iii) Air quality; and

(iv) Wildland fire and opportunities to restore fire adapted ecosystems.

(2) Ecosystem elements. The plan must include plan components to maintain, protect, or restore:

(i) Aquatic elements, such as lakes, streams, wetlands, stream banks, and shorelines;

(ii) Terrestrial elements, such as forest stands, grasslands, meadows, and other habitat types;

(iii) Rare aquatic and terrestrial plant and animal communities, consistent with § 219.9;

(iv) Public water supplies, sole source aquifers, source water protection areas, groundwater, and other bodies of water (including guidance to prevent or mitigate detrimental changes in quantity, quality, and availability, including temperature changes, blockages of water courses, and deposits of sediments); and

(v) Soils and soil productivity (including guidance to reduce soil erosion and sedimentation).

(3) Riparian areas. The plan must include plan components to maintain, protect, or restore riparian areas. Plans must establish a default width for riparian areas around all lakes, perennial or intermittent streams, and open water wetlands, within which these plan components will apply. The default may be a standard width for all lakes, perennial or intermittent streams, and open water wetlands, or may vary based on ecologic or geomorphic factors, or the type of waterbody. The default width will apply unless the actual riparian area for a waterbody or a site has been delineated based on best available scientific information.

(b) Social and economic sustainability. The plan must include plan components to guide the unit's contribution to social and economic sustainability, taking into account:

(1) Social, cultural, and economic conditions relevant to the area influenced by the plan and the distinctive roles and contributions of the unit within the broader landscape;

(2) Sustainable recreational opportunities and uses;

(3) Multiple uses, including ecosystem services, that contribute to local, regional, and national economies in a sustainable manner; and

(4) Cultural and historic resources and uses.

§ 219.9 Diversity of plant and animal communities.

Within Forest Service authority and consistent with the inherent capability of the plan area, the plan must include plan components to maintain the diversity of plant and animal communities, as follows:

(a) Ecosystem Diversity. The plan must include plan components to maintain or restore the structure, function, composition, and connectivity of healthy and resilient terrestrial and aquatic ecosystems and watersheds in the plan area, consistent with § 219.8(a), to maintain the diversity of native species.

(b) Species Conservation. The plan components must provide for the maintenance or restoration of ecological conditions in the plan area to:

(1) Contribute to the recovery of threatened and endangered species;

(2) Conserve candidate species; and

(3) Maintain viable populations of species of conservation concern within the plan area. Where it is beyond the authority of the Forest Service or the inherent capability of the plan area to do so, the plan components must provide for the maintenance or restoration of ecological conditions to contribute to the extent practicable to maintaining a viable population of a species within its range. When developing such plan components, the responsible official shall coordinate to the extent practicable with other Federal, State, tribal, and private land managers having management authority over lands where the population exists.

(c) Diversity of tree and other plant species. The plan must include plan components to preserve, where appropriate, and to the degree practicable, the diversity of native tree and other native plant species similar to that existing in the plan area, as required by NFMA (16 U.S.C. 1604(g)(3)(B)).

§ 219.10 Multiple uses.

In meeting the requirements of §§ 219.8 and 219.9, and within Forest Service authority, the capability of the plan area and the fiscal capability of the unit, the plan must provide for multiple uses, including ecosystem services, outdoor recreation, range, timber, watershed, wildlife and fish, as follows:

(a) Integrated resource management. When developing plan components for integrated resource management, to the extent relevant to the plan area and the public participation process and the requirements of §§ 219.7, 219.8, 219.9, and 219.11, the responsible official shall consider:

(1) Aesthetic values, air quality, cultural and heritage resources, ecosystem services, fish and wildlife species, forage, geologic features, grazing and rangelands, habitat and habitat connectivity, recreational values and settings, riparian areas, scenery, soil, surface and subsurface water quality, timber, trails, vegetation, viewsheds, wilderness, and other relevant resources;

(2) Renewable and nonrenewable energy and mineral resources;

(3) Sustainable management of infrastructure, such as recreational facilities and transportation and utility corridors;

(4) Opportunities to coordinate with neighboring landowners to link open spaces and take into account joint management objectives where feasible and appropriate;

(5) Habitat conditions, subject to the requirements of § 219.9, for wildlife, fish, and plants commonly enjoyed and used by the public, such as species that are hunted, fished, trapped, gathered, observed, or needed for subsistence;

(6) The landscape-scale context for management as identified in the assessment;

(7) Land ownership and access patterns relative to the plan area;

(8) Reasonably foreseeable risks to ecological, social, and economic sustainability; and

(9) Potential impacts of climate and other system drivers, stressors and disturbance regimes, such as wildland fire, invasive species, and human-induced stressors, on the unit's resources (§ 219.8).

(b) Requirements for plan components for a new plan or plan revision. (1) The plan components for a new plan or plan revision must provide for:

(i) Sustainable recreation, considering opportunities and access for a range of uses. The plan should identify recreational settings and desired conditions for scenic landscape character.

(ii) Protection of cultural and historic resources;

(iii) Management of areas of tribal importance;

(iv) Protection of wilderness areas as well as the protection of recommended wilderness areas to protect the ecologic and social values and character for which they might be added to the National Wilderness System;

(v) Protection of wild and scenic rivers as well as the protection of those rivers eligible for inclusion in the national wild and scenic river system to protect the values for which they might be included in the system until their suitability is determined; and

(vi) Protection and appropriate management of other designated or recommended areas that exist in the plan area, including research natural areas.

(2) Other plan components for integrated resource management to provide for multiple uses that should be included as necessary.

§ 219.11 Timber requirements based on the NFMA.

In meeting the requirements of §§ 219.8 through 219.10 and within Forest Service authority, the capability of the plan area, and the fiscal capability of the unit, the plan must provide for multiple uses and ecosystem services, including timber, as follows:

(a) Identification of lands as not suitable and suitable for timber production. (1) Lands not suitable for timber production. The responsible official may determine, considering physical, economic, and other pertinent factors, that lands are not suitable for timber production. On lands so designated, timber harvest, other than salvage sales or sales necessary to protect other multiple-use values, shall be prohibited for a period of 10 years. In addition, the plan must identify lands within the plan area as not suitable for timber production if any one of the following factors applies:

(i) Statute, executive order, or regulation prohibits timber production on the land;

(ii) The Secretary of Agriculture or the Chief of the Forest Service has withdrawn the land from timber production;

(iii) Timber production would not be compatible with the achievement of desired conditions and objectives established by the plan for those lands;

(iv) The technology is not currently available for conducting timber harvest without causing irreversible damage to soil, slope, or other watershed conditions or substantial and permanent impairment of the productivity of the land;

(v) There is no reasonable assurance that such lands can be adequately restocked within 5 years after final regeneration harvest; or

(vi) The land is not forest land as defined at § 219.19.

(2) Lands suitable for timber production. All lands not identified in the plan as not suitable for timber production are suited for timber production. Timber harvest on lands suitable for timber production may be authorized for timber production or for other multiple use purposes.

(3) Review of lands not suitable for timber production. The responsible official shall review lands identified in the plan as not suitable for timber production at least once every 10 years as required by NFMA (16 U.S.C. 1604(k)), or as otherwise prescribed by law, to determine whether conditions have changed so that they have become suitable for timber production. As a result of this 10-year review, the plan may be amended to identify such lands as suitable for timber production if there has been a change in conditions.

(b) Harvest of trees on land not suitable for timber production. (1) Where a plan identifies lands as not suitable for timber production, harvesting of trees for the purpose of timber production is prohibited.

(2) The identification in a plan of lands as not suitable for timber production does not preclude the harvest of trees on those lands for other purposes (16 U.S.C. 1604(k)); in particular, timber harvest may be authorized as a tool to assist in achieving or maintaining one or more applicable desired conditions or objectives of the plan. Examples of using timber harvest on lands not suited for timber production may include improving wildlife or fish habitat, thinning to reduce extreme fire risk, or restoring meadow or savanna ecosystems where trees have invaded.

(c) Harvest for salvage, sanitation, or public health or safety. Timber harvest may be approved for salvage, sanitation, or public health or safety, where consistent with the plan.

(d) Limits on timber harvest on suitable and non-suitable lands. A plan for a unit on which timber harvest may occur must have plan components to:

(1) Ensure that timber will be harvested from NFS lands only where such harvest would comply with the minimum limits identified in the NFMA (16 U.S.C. 1604(g)(3)(E) and (F)).

(2) Ensure that harvest is carried out in a manner consistent with the protection of soil, watershed, fish, wildlife, recreation, and aesthetic resources.

(3) Establish maximum size limits for areas to be cut in one harvest operation for administrative units that use clearcutting, seed tree cutting, shelterwood cutting, or other cuts designed to regenerate an even-aged stand of timber. Plan components must include standards limiting the maximum size limits for areas to be cut in one harvest operation, according to geographic areas, forest types, or other suitable classifications. This limit may be less than, but must not exceed, 60 acres for the Douglas-fir forest type of California, Oregon, and Washington; 80 acres for the southern yellow pine types of Alabama, Arkansas, Georgia, Florida, Louisiana, Mississippi, North Carolina, South Carolina, Oklahoma, and Texas; 100 acres for the hemlock-Sitka spruce forest type of coastal Alaska; and 40 acres for all other forest types except as provided in this paragraph.

(i) Cut openings larger than those specified may be permitted where larger units will produce a more desirable combination of benefits. Specifications for exceptions shall include the particular conditions under which the larger size is permitted and must set a maximum size permitted under those conditions.

(ii) Size limits exceeding those established in paragraphs (d)(3) and (d)(3)(i) of this section are permitted on an individual timber sale basis after 60 days public notice and review by the regional forester.

(iii) The plan maximum size openings shall not apply to the size of areas harvested as a result of natural catastrophic conditions such as fire, insect and disease attack, or windstorm (16 U.S.C. 1604(g)(3)(F)(iv)).

(4) Limit the quantity of timber that can be removed annually in perpetuity on a sustained-yield basis and provide for departure from this limit, as provided by NFMA. The Chief of the Forest Service must include in the Forest Service Directive System procedures for estimating the quantity of timber that can be removed annually in perpetuity on a sustained-yield basis, and exceptions, consistent with 16 U.S.C. 1611.

(5) Limit the regeneration harvest of even-aged stands of trees to stands that generally have reached the culmination of mean annual increment of growth. This requirement applies only to final regeneration harvest of even-aged stands on lands identified as suitable for timber production and where timber production is the primary purpose for the harvest. Exceptions, set out in 16 U.S.C. 1604(m), are permitted only if consistent with the land management plan. If such exceptions are anticipated, the responsible official should include those exceptions in the land management plan as standards or guidelines. The Chief of the Forest Service must include in the Forest Service Directive System, requirements for assuring that even-aged stands of trees scheduled for final regeneration harvest during the planning period have generally reached culmination of mean annual increment of growth with exceptions as permitted by the NFMA (16 U.S.C. 1604(m)).

§ 219.12 Monitoring.

(a) Unit monitoring program. (1) The responsible official shall develop a unit monitoring program for the plan area, and include it in the plan. The development of the monitoring program must be coordinated with the regional forester and Agency staff from State and Private Forestry, and Research and Development. Responsible officials for two or more administrative units may jointly develop their unit monitoring programs.

(2) The unit monitoring program sets out the unit monitoring questions and associated indicators. Monitoring questions and associated indicators must be designed to inform the management of resources on the unit, including by testing relevant assumptions, tracking relevant changes, and measuring management effectiveness and progress toward achieving or maintaining desired conditions or objectives. Questions and indicators should be based on one or more desired conditions, objectives, or other plan component in the plan, but not every plan component needs to have a corresponding monitoring question.

(3) The unit monitoring program should be coordinated and integrated with relevant broader-scale monitoring strategies (paragraph (b) of this section) to ensure that monitoring is complementary and efficient, and that information is gathered at scales appropriate to the monitoring questions.

(4) Subject to the requirements of paragraph (a)(5) of this section, the responsible official has the discretion to set the scope and scale of the unit monitoring program, after considering:

(i) Information needs identified through the planning process as most critical for informed management of resources on the unit;

(ii) Existing best available scientific information; and

(iii) Financial and technical capabilities of the Agency.

(5) Each unit monitoring program must contain one or more monitoring questions or indicators addressing each of the following:

(i) The status of select watershed conditions;

(ii) The status of select ecological conditions;

(iii) The status of focal species;

(iv) The status of visitor use and progress toward meeting recreational objectives;

(v) Measurable changes on the unit related to climate change and other stressors on the unit;

(vi) The carbon stored in above ground vegetation;

(vii) The progress toward fulfilling the unit's distinctive roles and contributions to ecologic, social, and economic conditions of the local area, region, and Nation; and

(viii) The effects of management systems to determine that they do not substantially and permanently impair the productivity of the land (16 U.S.C. 1604(g)(3)(C)).

(6) A range of monitoring techniques may be used to carry out the monitoring requirements in paragraph (a)(5) of this section.

(7) This section does not apply to projects or activities; project and activity monitoring may be used to gather information, but monitoring is not a prerequisite for carrying out a project or activity.

(b) Broader-scale monitoring strategies. (1) The regional forester shall develop a broader-scale monitoring strategy for unit monitoring questions that can best be answered at a geographic scale broader than one unit.

(2) When developing a monitoring strategy, the regional forester shall coordinate with the relevant responsible officials, Agency staff from State and Private Forestry and Research and Development, partners, and the public. Two or more regional foresters may jointly develop broader-scale monitoring strategies.

(3) Each regional forester shall ensure that the broader-scale monitoring strategy is within the financial and technical capabilities of the region and complements other ongoing monitoring efforts.

(4) Projects and activities may be carried out under plans developed, amended, or revised under this part before the regional forester has developed a broad scale monitoring strategy.

(c) Timing and process for developing the unit monitoring program and broader-scale strategies. (1) In the assessment phase, the responsible official shall work with the public to identify potential monitoring needs relevant to inform effective management (§ 219.6).

(2) The responsible official shall develop the unit monitoring program as part of the planning process for a new plan development or plan revision. Where a unit's monitoring program has been developed under the provisions of a prior planning regulation and the unit has not initiated plan revision, the responsible official shall change the unit monitoring program within 4 years of the effective date of this part, or as soon as practicable, to meet the requirements of this section.

(3) The regional forester shall develop a broader-scale monitoring strategy as soon as is practicable.

(4) The responsible official and regional forester shall ensure that scientists are involved in the design and evaluation of unit and broad scale monitoring.

(5) To the extent practicable, appropriate, and relevant to the monitoring questions in the program, unit monitoring programs and broader-scale strategies must be designed to take into account:

(i) Existing national and regional inventory, monitoring, and research programs of the Agency, including from the NFS, State and Private Forestry, and Research and Development, and of other governmental and non-governmental parties;

(ii) Opportunities to design and carry out multi-party monitoring with other Forest Service units, Federal, State or local government agencies, scientists, partners, and members of the public; and

(iii) Opportunities to design and carry out monitoring with federally recognized Indian Tribes and Alaska Native Corporations.

(d) Biennial evaluation of the monitoring information. (1) The responsible official shall conduct a biennial evaluation of new information gathered through the unit monitoring program and relevant information from the broader-scale strategy, and shall issue a written report of the evaluation and make it available to the public. The evaluation must indicate whether a change to the plan, management activities, or monitoring program may be warranted based on the new information; whether a new assessment should be conducted; or that no amendment, revision, or administrative change is needed.

(i) The first monitoring evaluation for a plan or plan revision developed in accordance with this subpart must be completed no later than 2 years from the effective date of plan approval.

(ii) Where the monitoring program developed under the provisions of a prior planning regulation has been changed to meet the requirements of paragraph (c)(2) of this section, the first monitoring evaluation must be completed no later than 2 years from the date the change takes effect.

(iii) The monitoring evaluation report must describe how best available scientific information was taken into account (§ 219.3).

(2) The monitoring evaluation report may be incorporated into other planning documents if the responsible official has initiated a plan revision or relevant amendment.

(3) The monitoring evaluation report may be postponed for one year in case of exigencies, but notice of the postponement must be provided to the public prior to the date the report is due for that year (§ 219.16(c)(5)).

(4) The monitoring evaluation report is not a decision document representing final agency action, and is not subject to the objection provisions of subpart B.

§ 219.13 Plan amendment and administrative changes.

(a) Plan amendment. A plan may be amended at any time. Plan amendments may be broad or narrow, depending on the need for change, and should be used to keep plans current and help units adapt to new information or changing conditions. The responsible official has the discretion to determine whether and how to amend the plan. A plan amendment is required for the addition, modification, or removal of one or more plan components or a change in how one or more plan components apply to all or part of the plan area.

(b) Amendment process. The responsible official shall:

(1) Document the need to change the plan (§ 219.6(c));

(2) Provide opportunities for public participation as required in § 219.4 and public notification as required in § 219.16. The responsible official may combine processes and associated public notifications where appropriate, considering the scope and scale of the need to change the plan; and

(3) Amend plans consistent with Forest Service NEPA procedures. The appropriate NEPA documentation for an amendment may be an EIS, an EA, or a CE, depending upon the scope and scale of the amendment and its likely effects.

(c) Administrative changes. An administrative change is any change to a plan that is not a plan amendment or plan revision. Administrative changes include corrections of clerical errors to any part of the plan, including plan components; changes to other content in the plan other than plan components; or conformance of the plan to new statutory or regulatory requirements.

(1) A change to the monitoring program may be made as part of plan revision or amendment, but also can be made as an administrative change outside of the process for plan revision or amendment. Any change to the monitoring program may be made only after notice to the public (§ 219.16(c)(5)) of the intended change and consideration of public concerns and suggestions.

(2) All other administrative changes may be made following notice (§ 219.16(c)(5)).

§ 219.14 Decision documents and planning records.

(a) Decision document. The responsible official shall record approval of a new plan, plan revision, or amendment in a decision document prepared according to Forest Service NEPA procedures (36 CFR 220). The decision document must include:

(1) The rationale for approval;

(2) An explanation of how the plan components meet the sustainability requirements of § 219.8 and the diversity requirements of § 219.9, taking into account the limits of Forest Service authority and the capability of the plan area;

(3) A statement of how the plan, plan revision or plan amendment applies to approved projects and activities (§ 219.15);

(4) A discussion of how the best available scientific information was taken into account and applied in the planning process (§ 219.3);

(5) The concurrence by the appropriate research station director with any part of the plan applicable to any designated experimental forests or experimental ranges (§ 219.2(b)(4)); and

(6) The effective date of the approval.

(b) Planning records. (1) The responsible official shall keep the following documents readily accessible to the public by posting them online and through other means: Assessment reports (§ 219.6); plan decision documents (§ 219.14); the proposed plan, plan revision, or plan amendment; public notices and environmental documents associated with a plan; the monitoring program and monitoring evaluation reports (§ 219.12); and the plan.

(2) The planning record includes documents that support analytical conclusions made and alternatives considered throughout the planning process. The responsible official shall make the planning record available at the office where the plan, plan revision, or amendment was developed.

§ 219.15 Project and activity consistency with the plan.

(a) Application to existing authorizations and approved projects or activities. Every document approving a plan, plan amendment, or plan revision must state whether the plan, plan amendment, or plan revision allows any prior approval of occupancy and use. If a plan approval document does not expressly allow such occupancy and use, the permit, contract, and other authorizing instrument for the use and occupancy must be made consistent with the plan, plan amendment, or plan revision as soon as practicable, as provided in paragraph (d) of this section, subject to valid existing rights.

(b) Application to projects or activities authorized after plan approval. Projects and activities authorized after approval of a plan, plan amendment, or plan revision must be consistent with the plan as provided in paragraph (d) of this section.

(c) Resolving inconsistency. When a proposed project or activity would not be consistent with the applicable plan components, the responsible official shall take one of the following steps, subject to valid existing rights:

(1) Modify the proposed project or activity to make it consistent with the applicable plan components;

(2) Reject the proposal or terminate the project or activity;

(3) Amend the plan so that the project or activity will be consistent with the plan as amended; or

(4) Amend the plan contemporaneously with the approval of the project or activity so that the project or activity will be consistent with the plan as amended. This amendment may be limited to apply only to the project or activity.

(d) Determining consistency. A project or activity approval document must describe how the project or activity is consistent with applicable plan components developed or revised in conformance with this part by meeting the following criteria:

(1) Goals, desired conditions, and objectives. The project or activity contributes to the maintenance or attainment of one or more goals, desired conditions, or objectives or does not foreclose the opportunity to maintain or achieve any goals, desired conditions, or objectives, over the long term.

(2) Standards. The project or activity complies with applicable standards.

(3) Guidelines. The project or activity:

(i) Is designed to comply with applicable guidelines as set out in the plan; or

(ii) Is designed in a way that is as effective in carrying out the intent of the applicable guidelines in contributing to the maintenance or attainment of relevant desired conditions and objectives, avoiding or mitigating undesirable effects, or meeting applicable legal requirements (§ 219.7(d)(1)(iv)).

(4) Suitability. A project or activity would occur in an area:

(i) That the plan identifies as suitable for that type of project or activity; or

(ii) For which the plan is silent with respect to its suitability for that type of project or activity.

(e) Consistency of resource plans within the planning unit with the land management plan. Any resource plans (e.g., travel management plans) developed by the Forest Service that apply to the resources or land areas within the planning unit must be consistent with the plan components. Resource plans developed prior to plan approval must be evaluated for consistency with the plan and amended if necessary.

§ 219.16 Public notifications.

The following public notification requirements apply to plan development, amendment, or revision. Formal notifications may be combined where appropriate.

(a) When formal public notification is required. Public notification must be provided at the following times:

(1) To begin the preparation of an assessment for a plan or plan revision, or, when appropriate, a plan amendment;

(2) To initiate the development of a proposed plan or plan revision, or, when appropriate, a plan amendment;

(3) To invite comments on a proposed plan, plan revision, or plan amendment, and associated environmental analysis. For a new plan, plan revision, or a plan amendment for which a draft environmental impact statement is prepared, the comment period is at least 90 days. For an amendment for which a draft environmental impact statement is not prepared, the comment period is at least 30 days;

(4) To begin the objection period for a plan, plan amendment, or plan revision before approval (§ 219.52);

(5) To approve a final plan, plan amendment, or plan revision; or

(6) To announce and describe how a plan, plan amendment, or plan revision process initiated under the provisions of a previous planning regulation will be conformed to meet the provisions of this part, when appropriate under § 219.17(b)(3).

(b) When a plan amendment is approved in a decision document approving a project or activity and the amendment applies only to the project or activity, the notification requirements of 36 CFR part 215 or part 218, subpart A, applies instead of this section.

(c) How public notice is provided. The responsible official should use contemporary tools to provide notice to the public. At a minimum, all public notifications required by this part must be posted online, and:

(1) When the Chief, the Under Secretary, or the Secretary is the responsible official, notice must be published in the Federal Register;

(2) For a new plan or plan revision, when an official other than the Chief, the Under Secretary, or the Secretary is the responsible official, notice must be published in the Federal Register and the applicable newspaper(s) of record;

(3) For a plan amendment when an official other than the Chief, the Under Secretary, or the Secretary is the responsible official, notices must be published in the newspaper(s) of record. Notification in the Federal Register may also be required by Forest Service NEPA procedures;

(4) If a plan, plan revision or plan amendment applies to two or more units, notices must be published in the Federal Register and the newspaper(s) of record for the applicable units; and

(5) Public notice of administrative changes, changes to the monitoring program, plan amendment assessments, or other documented need for amendment, monitoring evaluation reports, or other notices not listed in paragraph (a) of this section, may be made in any way the responsible official deems appropriate.

(d) Content of public notices. Public notices required by this section must clearly describe the action subject to notice and the nature and scope of the decisions to be made; identify the responsible official; describe when, where, and how the responsible official will provide opportunities for the public to participate in the planning process; and explain how to obtain additional information.

§ 219.17 Effective dates and transition.

(a) Effective dates. A plan, plan amendment, or plan revision is effective 30 days after publication of notice of its approval, except when a plan amendment applies to only one project or activity. In those instances the amendment and project are implemented concurrently, in accordance with administrative review regulations at 36 CFR part 215 and 36 CFR part 218.

(b) Plan amendment and plan revision transition. For the purposes of this section, initiation means that the Agency has issued a notice of intent or other notice announcing the beginning of the process to develop a proposed plan, plan amendment, or plan revision.

(1) Initiating plan development and plan revisions. Plan development and plan revisions initiated after the effective date of this part must conform to the requirements of this part.

(2) Initiating plan amendments. With respect to plans approved or revised under a prior planning regulation, a 3-year transition period for plan amendments begins on the effective date of this part. During the transition period, plan amendments may be initiated under the provisions of the prior planning regulation, or may conform to the requirements of this part. Plan amendments initiated after the transition period must conform to the requirements of this part.

(3) Plan development, plan amendments, or plan revisions initiated before this part. For plan development, plan amendments, or plan revisions that were initiated before the effective date of this part, the responsible official may complete the plan, plan revision, or plan amendment in conformance with the provisions of the prior planning regulation, or may conform the plan, plan amendment, or plan revision to the requirements of this part. When the responsible official chooses to conform an ongoing planning process to this part, public notice must be made (§ 219.16(a)(6)).

(c) Plans developed, amended, or revised under a prior planning regulation. This part supersedes any prior planning regulation. For units with plans developed, amended, or revised using the provisions of a prior planning regulation, no obligations remain from any prior planning regulation, except those that are specifically included in the plan.

§ 219.18 Severability.

In the event that any specific provision of this part is deemed by a court to be invalid, the remaining provisions shall remain in effect.

§ 219.19 Definitions.

Definitions of the special terms used in this subpart are set out as follows.

Alaska native corporation. One of the regional, urban, and village native corporations formed under the Alaska Native Claims Settlement Act of 1971.

Assessment. A synthesis of information in support of land management planning to determine whether a change to the plan is needed. Assessments are not decisionmaking documents but provide current information on select issues. An assessment report on the need to change the plan may range from a many page broad scale comprehensive report to a one-page report, depending on the scope and scale of issues driving the need to change.

Collaboration. A structured manner in which a collection of people with diverse interests share knowledge, ideas, and resources while working together in an inclusive and cooperative manner toward a common purpose. Collaboration, in the context of this part, falls within the full spectrum of public engagement described in the Council on Environmental Quality's publication: Collaboration in NEPA—A Handbook for NEPA Practitioners. The Forest Service retains decisionmaking authority and responsibility for all decisions throughout the process.

Connectivity. Pertaining to the extent to which conditions exist or should be provided between separate national forest or grassland areas to ensure habitat for breeding, feeding, or movement of wildlife and fish within their home range or migration areas.

Conservation. The protection, preservation, management, or restoration of natural environments and ecological communities.

Culmination of mean annual increment of growth. See mean annual increment of growth.

Designated areas. Areas or features within a planning unit with specific management direction that are normally established through a process separate from the land management planning process. Designations may be made by statute or by an administrative process of the Federal executive branch. The Forest Service Directive System contains policy for recognition and establishment of designations. Designated areas include experimental forests, national heritage areas, national monuments, national recreational areas, national scenic trails, research natural areas, scenic byways, wild and scenic rivers, wilderness areas, and wilderness study areas.

Disturbance. Any relatively discrete event in time that disrupts ecosystem, watershed, community, or species population structure and/or function and changes resources, substrate availability, or the physical environment.

Ecological conditions. The biological and physical environment that can affect diversity of plant and animal communities and the productive capacity of ecological systems. Examples of ecological conditions include the abundance and distribution of aquatic and terrestrial habitats, connectivity, roads and other structural developments, human uses, and invasive species.

Ecological system. See ecosystem.

Economic system. The system of production, distribution, and consumption of goods and services including consideration of jobs and income.

Ecosystem. A spatially explicit, relatively homogeneous unit of the Earth that includes all interacting organisms and elements of the abiotic environment within its boundaries. An ecosystem is commonly described in terms of its:

(1) Composition. Major vegetation types, rare communities, aquatic systems, and riparian systems.

(2) Structure. Vertical and horizontal distribution of vegetation, stream habitat complexity, and riparian habitat elements.

(3) Function. Ecological processes such as stream flows, nutrient cycling, and disturbance regimes.

(4) Connectivity. Habitats that exist for breeding, feeding, or movement of wildlife and fish within species home ranges or migration areas.

Ecosystem diversity. The variety and relative extent of ecosystem types, including their composition, structure, and processes.

Ecosystem services. Benefits people obtain from ecosystems, including:

(1) Provisioning services, such as clean air and fresh water, as well as energy, fuel, forage, fiber, and minerals;

(2) Regulating services, such as long term storage of carbon; climate regulation; water filtration, purification, and storage; soil stabilization; flood control; and disease regulation;

(3) Supporting services, such as pollination, seed dispersal, soil formation, and nutrient cycling; and

(4) Cultural services, such as educational, aesthetic, spiritual, and cultural heritage values, as well as recreational experiences and tourism opportunities.

Environmental assessment (EA). See definition in § 219.62.

Environmental document. Includes an environmental assessment, environmental impact statement, finding of no significant impact, categorical exclusion, and notice of intent to prepare an environmental impact statement.

Environmental impact statement. See definition in § 219.62.

Even-aged stand. A stand of trees composed of a single age class.

Federally recognized Indian Tribe. An Indian or Alaska Native Tribe, band, nation, pueblo, village, or community that the Secretary of the Interior acknowledges to exist as an Indian Tribe under the Federally Recognized Indian Tribe List Act of 1994, 25 U.S.C. 479a.

Focal species. A small number of species selected for monitoring whose status is likely to be responsive to changes in ecological conditions and effects of management. Monitoring the status of focal species is one of many ways to gauge progress toward achieving desired conditions in the plan.

Forest land. Land at least 10 percent occupied by forest trees of any size or formerly having had such tree cover and not currently developed for non-forest uses. Lands developed for non-forest use include areas for crops; improved pasture; residential or administrative areas; improved roads of any width and adjoining road clearing; and power line clearings of any width.

Geographic area. A spatially contiguous land area identified within the planning unit. A geographic area may overlap with a management area.

Health(y). The degree of ecological integrity that is related to the completeness or wholeness of the composition, structure, and function of native ecosystems existing within the inherent capability of the land.

Landscape. A spatial mosaic of terrestrial and aquatic ecosystems, landforms, and plant communities across a defined area irrespective of ownership or other artificial boundaries and repeated in similar form throughout.

Landscape character. A combination of physical, biological, and cultural images that gives an area its visual and cultural identity and helps to define a “sense of place.” Landscape character provides a frame of reference from which to determine scenic attractiveness and to measure scenic integrity.

Management area. A land area identified within the planning unit that has the same set of applicable plan components. A management area does not have to be spatially contiguous.

Mean annual increment of growth and culmination of mean annual increment of growth. Mean annual increment of growth is the total increment of increase of volume of a stand (standing crop plus thinnings) up to a given age divided by that age. Culmination of mean annual increment of growth is the age in the growth cycle of an even-aged stand at which the average annual rate of increase of volume is at a maximum. In land management plans, mean annual increment is expressed in cubic measure and is based on the expected growth of stands, according to intensities and utilization guidelines in the plan.

Monitoring. A systematic process of collecting information over time and space to evaluate effects of actions or changes in conditions or relationships.

Multiple use. The management of all the various renewable surface resources of the NFS so they are used in the combination that will best meet the needs of the American people: Making the most judicious use of the land for some or all of these resources or related services over areas large enough to provide sufficient latitude for periodic adjustments in the use to conform to changing needs and conditions; recognizing that some lands will be used for less than all of the resources; and providing for harmonious and coordinated management of the various resources, each with the other, without impairment of the productivity of the land, with consideration being given to the relative values of the various resources, and not necessarily the combination of uses that will give the greatest dollar return or the greatest unit output, consistent with the Multiple-Use Sustained-Yield Act of 1960 (16 U.S.C. 528-531). Ecosystem services are included as part of all the various renewable surface resources of the NFS.

National Forest System. See definition in § 219.62.

Native knowledge. A way of knowing or understanding the world, including traditional ecological and social knowledge of the environment derived from multiple generations of indigenous peoples' interactions, observations, and experiences with their ecological systems. Native knowledge is place-based and culture-based knowledge in which people learn to live in and adapt to their own environment through interactions, observations, and experiences with their ecological system. This knowledge is generally not solely gained, developed by, or retained by individuals, but is rather accumulated over successive generations and is expressed through oral traditions, ceremonies, stories, dances, songs, art, and other means within a cultural context.

Newspaper(s) of record. See definition in § 219.62.

Objection. See definition in § 219.62.

Online. See definition in § 219.62.

Participation. Activities that include a wide range of public involvement tools and processes, such as collaboration, public meetings, open houses, workshops, and comment periods.

Plan or land management plan. A document or set of documents that describe management direction for an administrative unit of the NFS.

Plan area. The National Forest System lands covered by a plan.

Plant and animal communities. A naturally occurring assemblage of plant and animal species living within a defined area or habitat.

Potential wilderness areas. All areas within the National Forest System lands that satisfy the definition of wilderness found in section 2(c) of the 1964 Wilderness Act. Inventory criteria are listed in Forest Service Handbook 1909.12—Land Management Planning Handbook, Chapter 70—Wilderness Evaluation.

Productivity. The capacity of National Forest System lands and their ecological systems to provide the various renewable resources in certain amounts in perpetuity. For the purposes of this subpart, productivity is an ecological, not an economic, term.

Project. An organized effort to achieve an outcome on NFS lands identified by location, tasks, outputs, effects, times, and responsibilities for execution.

Recreational setting. The surroundings or the environment for the recreational activities. The Forest Service uses the recreational opportunity spectrum that defines six recreational opportunity classes that provide different settings for recreational use: primitive, semi-primitive nonmotorized, semi-primitive motorized, roaded natural, rural, and urban.

Resilience. The capacity of a system to absorb disturbance and reorganize while undergoing change so as to still retain essentially the same function, structure, identity, and feedbacks.

Responsible official. See definition in § 219.62.

Restoration. The process of assisting the recovery of resilience and the capacity of a system to adapt to change if the environment where the system exists has been degraded, damaged, or destroyed. Ecological restoration focuses on reestablishing ecosystem functions by modifying or managing the composition, structure, arrangement, and processes necessary to make terrestrial and aquatic ecosystems sustainable, and resilient under current and future conditions.

Riparian Areas. Geographically delineable areas with distinctive resource values and characteristics that are comprised of the aquatic and riparian ecosystems.

Risk. A combination of the likelihood that a negative outcome will occur and the severity of the subsequent negative consequences.

Sole source aquifer. A porous geologic formation, usually consisting of sand and gravel, that holds ground water, and designated by the Environmental Protection Agency because it supplies at least 50 percent of the drinking water consumed in the area overlying the aquifer, and where contamination would present both a significant public health hazard and an economic hardship in the high cost of replacing the contaminated water.

Source water protection areas. The area delineated by a State or Tribe for a public water system (PWS) or including numerous PWSs, whether the source is ground water or surface water or both, as part of a State or tribal source water assessment and protection program (SWAP) approved by Environmental Protection Agency under section 1453 of the Safe Drinking Water Act.

Species of conservation concern. Species other than federally listed threatened or endangered species or candidate species, for which the responsible official has determined that there is evidence demonstrating significant concern about its capability to persist over the long-term in the plan area.

Sustainability. Capability of meeting the needs of the present generation without compromising the ability of future generations to meet their needs.

Sustainable recreation. The set of recreational opportunities, uses and access that, individually and combined, are ecologically, economically, and socially sustainable, allowing the responsible official to offer recreation opportunities now and into the future. Recreational opportunities can include non-motorized, motorized, developed, and dispersed recreation on land, water, and air.

System drivers. Natural or human-induced factors that directly or indirectly cause a change in an ecosystem, such as climate change, habitat change, or non-native invasive species, human population change, economic activity, or technology.

Timber harvest. The removal of trees for wood fiber use and other multiple-use purposes.

Timber production. The purposeful growing, tending, harvesting, and regeneration of regulated crops of trees to be cut into logs, bolts, or other round sections for industrial or consumer use.

Viable population. A population of a species that continues to persist over the long term with sufficient distribution to be resilient and adaptable to stressors and likely future environments.

Watershed. A region or land area drained by a single stream, river, or drainage network; a drainage basin.

Watershed condition. The state of a watershed based on physical and biogeochemical characteristics and processes.

Wild and scenic river. A river designated by Congress as part of the National Wild and Scenic Rivers System that was established in the Wild and Scenic Rivers Act of 1968 (16 U.S.C. 1271 (note), 1271-1287).

Wilderness. Any area of land designated by Congress as part of the National Wilderness Preservation System that was established in the Wilderness Act of 1964 (16 U.S.C. 1131-1136).

Subpart B—Pre-Decisional Administrative Review Process

§ 219.50 Purpose and scope.

This subpart establishes a pre-decisional administrative review (hereinafter referred to as objection) process for plans, plan amendments, or plan revisions. This process gives an individual or organization an opportunity for an independent Forest Service review and resolution of issues before the approval of a plan, plan amendment, or plan revision. This subpart identifies who may file objections to a plan, plan amendment, or plan revision; the responsibilities of the participants in an objection; and the procedures that apply to the review of the objection.

§ 219.51 Plans, plan amendments, or plan revisions not subject to objection.

(a) A plan, plan amendment, or plan revision is not subject to objection when the responsible official receives no formal comments (§ 219.62) on that proposal during the opportunities for public comment (§ 219.53(a)).

(b) Plans, plan amendments, or plan revisions proposed by the Secretary of Agriculture or the Under Secretary for Natural Resources and Environment, are not subject to the procedures set forth in this section. A decision by the Secretary or Under Secretary constitutes the final administrative determination of the Department of Agriculture.

(c) A plan, plan amendment, or plan revision is not subject to objection under this subpart if another administrative review process is used consistent with § 219.59.

(d) When a plan, plan amendment, or plan revision is not subject to objection under this subpart, the responsible official shall include an explanation with the signed decision document.

§ 219.52 Giving notice of a plan, plan amendment, or plan revision subject to objection before approval.

(a) The responsible official shall disclose during the NEPA scoping process and in the appropriate NEPA documents that the proposed plan, plan amendment, or plan revision is subject to the objection procedures in this subpart. This disclosure is in addition to the public notice that begins the objection filing period, as required at § 219.16.

(b) The responsible official shall make available the public notice for beginning of the objection period for a plan, plan amendment, or plan revision (§ 219.16(a)(4)) to those who have requested the environmental documents or are eligible to file an objection consistent with § 219.53.

(c) The content of the public notice for beginning of the objection period for a plan, plan amendment, or plan revision before approval (§ 219.16(a)(4)) must:

(1) Inform the public of the availability of the plan, plan amendment, or plan revision, the appropriate final environmental documents, the draft plan decision document, and any relevant assessment or monitoring evaluation report; the commencement of the 30-day objection period under 36 CFR part 219 subpart B; and the process for objecting.

(2) Include the name of the plan, plan amendment, or plan revision and the name and title of the responsible official, and instructions on how to obtain a copy of the appropriate final environmental documents; the draft plan decision document; and the plan, plan amendment, or plan revision.

(3) Include the name and address of the reviewing officer with whom an objection is to be filed. The notice must specify a street, postal, fax, and e-mail address; the acceptable format(s) for objections filed electronically; and the reviewing officer's office business hours for those filing hand-delivered objections.

(4) Include a statement that objections will be accepted only from those who have previously submitted formal comments specific to the proposed plan, plan amendment, or plan revision during any opportunity for public comment as provided in subpart A.

(5) Include a statement that the publication date of the public notice in the applicable newspaper of record (or the Federal Register, if the responsible official is the Chief or the Secretary) is the exclusive means for calculating the time to file an objection (§ 219.56).

(6) Include a statement that an objection, including attachments, must be filed with the appropriate reviewing officer (§ 219.62) within 30 days of the date of publication of the public notice for the objection process.

(7) Include a statement describing the minimum content requirements of an objection (§ 219.54(c)).

§ 219.53 Who may file an objection.

(a) Individuals and organizations who have submitted substantive formal comments related to a plan, plan amendment, or plan revision during the opportunities for public comment as provided in subpart A during the planning process for that decision may file an objection. Objections must be based on previously submitted substantive formal comments unless the objection concerns an issue that arose after the opportunities for formal comment. The burden is on the objector to demonstrate compliance with requirements for objection. Objections from individuals or organizations that do not meet the requirements of this paragraph must not be accepted; however, objections not accepted must be documented in the planning record.

(b) Formal comments received from an authorized representative(s) of an organization are considered those of the organization only. Individual members of that organization do not meet objection eligibility requirements solely based on membership in an organization. A member or an individual must submit formal comments independently to be eligible to file an objection in an individual capacity.

(c) When an objection lists multiple individuals or organizations, each individual or organization must meet the requirements of paragraph (a) of this section. Individuals or organizations listed on an objection that do not meet eligibility requirements must not be considered objectors, although an objection must be accepted (if not otherwise set aside for review under § 219.55) if at least one listed individual or organization meets the eligibility requirements.

(d) Federal agencies may not file objections.

(e) Federal employees who otherwise meet the requirements of this subpart for filing objections in a non-official capacity must comply with Federal conflict of interest statutes at 18 U.S.C. 202-209 and with employee ethics requirements at 5 CFR part 2635. Specifically, employees must not be on official duty nor use government property or equipment in the preparation or filing of an objection. Further, employees must not include information unavailable to the public, such as Federal agency documents that are exempt from disclosure under the Freedom of Information Act (5 U.S.C. 552 (b)).

§ 219.54 Filing an objection.

(a) Objections must be filed with the reviewing officer in writing. All objections must be open to public inspection during the objection process.

(b) Including documents by reference is not allowed, except for the following list of items that may be referenced by including the name, date, page number (where applicable), and relevant section of the cited document. All other documents, web links to those documents, or both must be included with the objection.

(1) All or any part of a Federal law or regulation.

(2) Forest Service Directive System documents and land management plans.

(3) Documents referenced by the Forest Service in the planning documentation related to the proposal subject to objection.

(4) Formal comments previously provided to the Forest Service by the objector during the proposed plan, plan amendment, or plan revision comment period.

(c) At a minimum, an objection must include the following:

(1) The objector's name and address (§ 219.62), along with a telephone number or e-mail address if available;

(2) Signature or other verification of authorship upon request (a scanned signature for electronic mail may be filed with the objection);

(3) Identification of the lead objector, when multiple names are listed on an objection (§ 219.62). Verification of the identity of the lead objector if requested;

(4) The name of the plan, plan amendment, or plan revision being objected to, and the name and title of the responsible official;

(5) A statement of the issues and/or the parts of the plan, plan amendment, or plan revision to which the objection applies;

(6) A concise statement explaining the objection and suggesting how the proposed plan decision may be improved. If applicable, the objector should identify how the objector believes that the plan, plan amendment, or plan revision is inconsistent with law, regulation, or policy; and

(7) A statement that demonstrates the link between prior formal comments attributed to the objector and the content of the objection, unless the objection concerns an issue that arose after the opportunities for formal comment (§ 219.53(a)).

§ 219.55 Objections set aside from review.

(a) The reviewing officer must set aside and not review an objection when one or more of the following applies:

(1) Objections are not filed in a timely manner (§ 219.56);

(2) The proposed plan, plan amendment, or plan revision is not subject to the objection procedures of this subpart pursuant to §§ 219.51 and 219.59;

(3) The individual or organization did not submit formal comments (§ 219.53) during scoping or other opportunities for public comment on the proposed decision (§ 219.16);

(4) None of the issues included in the objection is based on previously submitted substantive formal comments unless one or more of those issues arose after the opportunities for formal comment;

(5) The objection does not provide sufficient information as required by § 219.54(c);

(6) The objector withdraws the objection in writing;

(7) The objector's identity is not provided or cannot be determined from the signature (written or electronically scanned), and a reasonable means of contact is not provided (§ 219.54(c)); or

(8) The objection is illegible for any reason and a legible copy cannot easily be obtained.

(b) When an objection includes an issue that is not based on previously submitted substantive formal comments and did not arise after the opportunities for formal comment, that issue will be set aside and not reviewed. Other issues raised in the objection that meet the requirements of this subpart will be reviewed.

(c) The reviewing officer must give written notice to the objector and the responsible official when an objection is set aside from review and must state the reasons for not reviewing the objection. If the objection is set aside from review for reasons of illegibility or lack of a means of contact, the reasons must be documented in the planning record.

§ 219.56 Objection time periods and process.

(a) Time to file an objection. Written objections, including any attachments, must be filed within 30 days following the publication date of the public notice for a plan, plan amendment, or plan revision before approval (§§ 219.16 and 219.52). It is the responsibility of the objector to ensure that the reviewing officer receives the objection in a timely manner.

(b) Computation of time periods. (1) All time periods are computed using calendar days, including Saturdays, Sundays, and Federal holidays in the time zone of the reviewing officer. However, when the time period expires on a Saturday, Sunday, or Federal holiday, the time is extended to the end of the next Federal working day (11:59 p.m. for objections filed by electronic means such as e-mail or facsimile machine).

(2) The day after publication of the public notice for a plan, plan amendment, or plan revision before approval (§§ 219.16 and 219.52), is the first day of the objection filing period.

(3) The publication date of the public notice for a plan, plan amendment, or plan revision before approval (§§ 219.16 and 219.52), is the exclusive means for calculating the time to file an objection. Objectors must not rely on dates or timeframe information provided by any other source.

(c) Evidence of timely filing. The objector is responsible for filing the objection in a timely manner. Timeliness must be determined by one of the following indicators:

(1) The date of the U.S. Postal Service postmark for an objection received before the close of the fifth business day after the objection filing date;

(2) The electronically generated delivery date and time for e-mail and facsimiles;

(3) The shipping date for delivery by private carrier for an objection received before the close of the fifth business day after the objection filing date; or

(4) The official agency date stamp showing receipt of hand delivery.

(d) Extensions. Time extensions for filing are not permitted except as provided at paragraph (b)(1) of this section.

(e) Reviewing officer role and responsibilities. The reviewing officer is the United States Department of Agriculture (USDA) or Forest Service official having the delegated authority and responsibility to review an objection filed under this subpart. The reviewing officer is a line officer at the next higher administrative level above the responsible official; except that for a plan amendment, that next higher-level line officer may delegate their reviewing officer authority and responsibility to a line officer at the same administrative level as the responsible official. Any delegation of reviewing officer responsibilities must be made prior to the public notification of an objection filing period (§ 219.52).

(f) Notice of objections filed. Within 10 days after the close of the objection period, the responsible official shall publish a notice of all objections in the applicable newspaper of record and post the notice online.

(g) Response to objections. The reviewing officer must issue a written response to the objector(s) concerning their objection(s) within 90 days of the end of the objection-filing period. The reviewing officer has the discretion to extend the time when it is determined to be necessary to provide adequate response to objections or to participate in discussions with the parties. The reviewing officer must notify all parties (lead objectors and interested persons) in writing of any extensions.

§ 219.57 Resolution of objections.

(a) Meetings. Prior to the issuance of the reviewing officer's written response, either the reviewing officer or the objector may request to meet to discuss issues raised in the objection and potential resolution. The reviewing officer must allow other interested persons to participate in such meetings. An interested person must file a request to participate in an objection within 10 days after publication of the notice of objection by the responsible official (§ 219.56(f)). The responsible official shall be a participant in all meetings involving the reviewing officer, objectors, and interested persons. During meetings with objectors and interested persons, the reviewing officer may choose to use alternative dispute resolution methods to resolve objections. All meetings are open to observation by the public.

(b) Response to objections. (1) The reviewing officer must render a written response to the objection(s) within 90 days of the close of the objection-filing period, unless the allowable time is extended as provided at § 219.56(g). A written response must set forth the reasons for the response but need not be a point-by-point response, and may contain instructions to the responsible official. In cases involving more than one objection to a plan, plan amendment, or plan revision, the reviewing officer may consolidate objections and issue one or more responses. The response must be sent to the objecting party(ies) by certified mail, return receipt requested, and posted online.

(2) The reviewing officer's review of and response to the objection(s) is limited to only those issues and concerns submitted in the objection(s).

(3) The response of the reviewing officer will be the final decision of the Department of Agriculture on the objection.

§ 219.58 Timing of a plan, plan amendment, or plan revision decision.

(a) The responsible official may not issue a decision document concerning a plan, plan amendment, or plan revision subject to the provisions of this subpart until the reviewing officer has responded in writing to all objections.

(b) A decision by the responsible official approving a plan, plan amendment, or plan revision must be consistent with the reviewing officer's response to objections.

(c) When no objection is filed within the 30-day time period, the reviewing officer must notify the responsible official. The responsible official's approval of the plan, plan amendment, or plan revision in a plan decision document consistent with § 219.14, may occur on, but not before, the fifth business day following the end of the objection-filing period.

§ 219.59 Use of other administrative review processes.

(a) Where the Forest Service is a participant in a multi-Federal agency effort that would otherwise be subject to objection under this subpart, the reviewing officer may waive the objection procedures of this subpart and instead adopt the administrative review procedure of another participating Federal agency. As a condition of such a waiver, the responsible official for the Forest Service must have agreement with the responsible official of the other agency or agencies that a joint agency response will be provided to those who file for administrative review of the multi-agency effort. When such an agreement is reached, the responsible official for the Forest Service shall ensure public notice required in § 219.52 sets forth which administrative review procedure is to be used.

(b) When a plan amendment is approved in a decision document approving a project or activity and the amendment applies only to the project or activity, the administrative review process of 36 CFR part 215 or part 218, subpart A, applies instead of the objection process established in this subpart. When a plan amendment applies to all future projects or activities, the objection process established in this subpart applies only to the plan amendment decision; the review process of 36 CFR part 215 or part 218 would apply to the project or activity part of the decision.

§ 219.60 Secretary's authority.

Nothing in this subpart restricts the Secretary of Agriculture from exercising any statutory authority regarding the protection, management, or administration of NFS lands.

§ 219.61 Information collection requirements.

This subpart specifies the information that objectors must give in an objection to a plan, plan amendment, or plan revision (§ 219.54(c)). As such, these rules contain information collection requirements as defined in 5 CFR part 1320 and have been approved by Office of Management and Budget and assigned control number 0596-0158.

§ 219.62 Definitions.

Definitions of the special terms used in this subpart are set out as follows.

Address. An individual's or organization's current mailing address used for postal service or other delivery services. An e-mail address is not sufficient.

Decision memo. A concise written record of the responsible official's decision to implement an action that is categorically excluded from further analysis and documentation in an environmental impact statement (EIS) or environmental assessment (EA), where the action is one of a category of actions which do not individually or cumulatively have a significant effect on the human environment, and does not give rise to extraordinary circumstances in which a normally excluded action may have a significant environmental effect.

Environmental assessment (EA). A public document that provides sufficient evidence and analysis for determining whether to prepare an environmental impact statement (EIS) or a finding of no significant impact (FONSI), aids an agency's compliance with the National Environmental Policy Act (NEPA) when no EIS is necessary, and facilitates preparation of a statement when one is necessary (40 CFR 1508.9; FSH 1909.15, Chapter 40).

Environmental impact statement (EIS). A detailed written statement as required by section 102(2)(C) of the National Environmental Policy Act (NEPA) of 1969 (40 CFR 1508.11; 36 CFR part 220).

Formal comments. Written comments submitted to, or oral comments recorded by, the responsible official or his designee during an opportunity for public participation provided during the planning process (§§ 219.4 and 219.16), and attributed to the individual or organization providing them.

Lead objector. For an objection submitted with multiple individuals, multiple organizations, or combination of individuals and organizations listed, the individual or organization identified to represent all other objectors for the purposes of communication, written or otherwise, regarding the objection.

Line officer. A Forest Service official who serves in a direct line of command from the Chief.

Name. The first and last name of an individual or the name of an organization. An electronic username is insufficient for identification of an individual or organization.

National Forest System. The National Forest System includes national forests, national grasslands, and the National Tall Grass Prairie.

Newspaper(s) of record. The newspaper of record is the principal newspapers of general circulation annually identified and published in the Federal Register by each regional forester to be used for publishing notices as required by 36 CFR 215.5. The newspaper(s) of record for projects in a plan area is (are) the newspaper(s) of record for notices related to planning.

Objection. The written document filed with a reviewing officer by an individual or organization seeking pre-decisional administrative review of a plan, plan amendment, or plan revision.

Objection period. The 30-calendar-day period following publication of a public notice in the applicable newspaper of record (or the Federal Register, if the responsible official is the Chief or the Secretary) of the availability of the appropriate environmental documents and draft decision document, including a plan, plan amendment, or plan revision during which an objection may be filed with the reviewing officer.

Objection process. Those procedures established for pre-decisional administrative review of a plan, plan amendment, or plan revision.

Objector. An individual or organization who meets the requirements of § 219.53, and files an objection that meets the requirements of §§ 219.54 and 219.56.

Online. Refers to the appropriate Forest Service Web site or future electronic equivalent.

Responsible official. The official with the authority and responsibility to oversee the planning process and to approve a plan, plan amendment, and plan revision.

Reviewing officer. The USDA or Forest Service official having the delegated authority and responsibility to review an objection filed under this subpart.

Dated: February 7, 2011.
Harris D. Sherman,
Under Secretary, NRE.

[FR Doc. 2011-2989 Filed 2-11-11; 8:45 am]

BILLING CODE 3410-11-P